DEPARTMENT OF HEALTH AND HUMAN SERVICES

Substance Abuse and Mental Health Services Administration

Notice of Publication of SAMHSA's Revised Standard Grant Announcements

Authority: Sections 509, 516, and 520A of the Public Health Service Act.

AGENCY: Substance Abuse and Mental Health Services Administration, HHS.

ACTION: Notice of publication of samhsa's revised standard grant announcements.

SUMMARY: This is a publication of the Substance Abuse and Mental Health Services Administration's revised standard grant announcements for Services Grants, Infrastructure Grants, Best Practices Planning and Implementation Grants, and Service to Science Grants. These announcements were previously published on March 8, 2004. The purpose of these revisions is to make minor technical changes to enhance the readability and use of the standard grant announcements, and to make the following more significant changes: (1) The address and telephone numbers of SAMHSA's offices have changed, since the agency recently moved into a new building in Rockville, Maryland. Grant applications and correspondence from the State Single Points of Contact (SPOCs) and Single State Agencies (SSAs) should be sent to this new address, which can be found in Section IV, Intergovernmental Review (E.O. 12372) Requirements, and Other Submission Requirements. Updated agency contact information for grants management issues can be found in Section VII; (2) Section IV, Submission Dates and Times, has been revised to identify specific carriers for shipment of applications and to change the requirements for proof of timely submission of applications; (3) in the Services Grants Announcement, Appendix 1 is required, indicating that applicants must meet certain experience, licensing, accreditation, and certification requirements, but applications that fail to provide this information will no longer be screened out. This change can be found in Section III, Evidence of Experience and Credentials; (4) a change in Section IV, Content and Form of Application Submission, indicates that applications will not be screened out if Appendices exceed the page limitation, and that reviewers will not consider Appendices that are not required; (5) an additional requirement can be found in Section IV, Funding Limitations/Restrictions, indicating that SAMHSA will not accept a “research” indirect cost rate and that grantees must use the “other sponsored program rate” or the lowest rate available.

DATES: Use of these revised standard grant announcements will be effective October 25, 2004. The standard grant announcements must be used in conjunction with separate Notices of Funding Availability (NOFAs) that will provide application due dates and other key dates for specific SAMHSA grant funding opportunities.

ADDRESSES: Questions about SAMHSA's standard grant announcements may be directed to Cathy Friedman, M.A., SAMHSA, Office of Policy, Planning and Budget, 1 Choke Cherry Road, Room 8-1097, Rockville, Maryland, 20857. Fax: (240-276-2220). E-mail: cathy.friedman@samhsa.hhs.gov.

FOR FURTHER INFORMATION CONTACT: Cathy Friedman, M.A., SAMHSA, Office of Policy, Planning and Budget, 1 Choke Cherry Road, Room 8-1097, Rockville, Maryland, 20857. Fax: (240-276-2220). E-mail: cathy.friedman@samhsa.hhs.gov. Phone: (240) 276-2316.

SUPPLEMENTARY INFORMATION: Starting in FY 2004, SAMHSA changed its approach to announcing and soliciting applications for its discretionary grants. SAMHSA publishes four standard grant announcements that describe the general program design and provide application instructions for four types of grants—Services Grants, Infrastructure Grants, Best Practices Planning and Implementation Grants, and Service-to-Science Grants. These standard grant announcements are posted on SAMHSA's web page and are available from SAMHSA's clearinghouses on an ongoing basis. The standard announcements are used in conjunction with brief Notices of Funding Availability (NOFAs) that announce the availability of funds for specific grant funding opportunities within each of the standard grant programs (e.g., Homeless Treatment grants, Targeted Capacity Expansion grants, Youth Violence Prevention grants, etc.).

The Notices of Funding Availability (NOFAs) announcing the availability of funds for specific grant funding opportunities are published separately in the Federal Register, and are posted on the Federal grants Web site (http://www.grants.gov) and on the SAMHSA Web site (http://www.samhsa.gov). The NOFAs:

• Identify any specific target population or issue for the specific grant funding opportunity,

• Identify which of the four standard announcements applicants must use to prepare their applications,

• Specify total funding available for the first year of the grants and the expected size and number of awards,

• Specify the application deadline,

• Note any specific program requirements for each funding opportunity, and

• Include any limitations or exceptions to the general provisions in the standard announcement.

Applicants need to have both the NOFA and the appropriate standard announcement to prepare their applications. Both documents will be provided, along with application materials, in the application kits available from SAMHSA's clearinghouses as well as on SAMHSA's web site. SAMHSA's clearinghouse for the Center for Mental Health Services (CMHS) is the National Mental Health Information Center, which can be reached at 1-800-789-2647. The clearinghouse for the Center for Substance Abuse Treatment (CSAT) and Center for Substance Abuse Prevention (CSAP) is the National Clearinghouse for Alcohol and Drug Information (NCADI), which can be reached at 1-800-729-6686.

The four standard grant announcements are used for many of SAMHSA's grant funding opportunities. However, there are some funding opportunities that do not fit the standard announcements. In those instances, separate stand-alone grant announcements will be published and provided to applicants in the Federal Register, on the SAMHSA Web site, on the Federal grants Web site, and through SAMHSA's clearinghouses.

Services Grants—SVC 05 PA (Initial Announcement)

Catalogue of Federal Domestic Assistance (CFDA) No.: 93.243 (unless otherwise specified in a NOFA in the Federal Register and on http://www.grants.gov)

Key Dates
Application Deadline | This Program Announcement provides general instructions and guidelines for multiple funding opportunities. Application deadlines for specific funding opportunities will be published in Notices of Funding Availability (NOFAs) in the Federal Register and on http://www.grants.gov.
Intergovernmental Review (E.O. 12372) | Letters from State Single Point of Contact (SPOC) are due no later than 60 days after application deadline.
Public Health System Impact Statement (PHSIS)/Single State Agency Coordination | Applicants must send the PHSIS to appropriate State and local health agencies by application deadline. Comments from Single State Agency are due no later than 60 days after application deadline.

Table of Contents

I. Funding Opportunity Description

1. Introduction

2. Expectations

II. Award Information

1. Award Amount

2. Funding Mechanism

III. Eligibility Information

1. Eligible Applicants

2. Cost Sharing

3. Other

IV. Application and Submission Information

1. Address to Request Application Package

2. Content and Form of Application Submission

3. Submission Dates and Times

4. Intergovernmental Review (E.O. 12372) Requirements

5. Funding Limitations/Restrictions

6. Other Submission Requirements

V. Application Review Information

1. Evaluation Criteria

2. Review and Selection Process

VI. Award Administration Information

1. Award Notices

2. Administrative and National Policy Requirements

3. Reporting Requirements

VII. Agency Contacts

Appendix A—Checklist for Formatting Requirements and Screenout Criteria for SAMHSA

Grant Applications

Appendix B—Glossary

Appendix C—National Registry of Effective Programs and Practices

Appendix D—Center for Mental Health Services Evidence-Based Practice Toolkits

Appendix E—Effective Substance Abuse Treatment Practices

Appendix F—Statement Of Assurance

Appendix G—Logic Model Resources

Appendix H—Sample Budget and Justification

I. Funding Opportunity Description

1. Introduction

The Substance Abuse and Mental Health Services Administration (SAMHSA) announces its intent to solicit applications for Services Grants. This program announcement must be considered in conjunction with a full Notice of Funding Availability (NOFA), which specifies the grant program's purpose, target population, and other requirements of the program. These grants will expand and strengthen effective, culturally appropriate substance abuse and mental health services at the State and local levels. The services implemented through SAMHSA's Services Grants must incorporate the best objective information available regarding effectiveness and acceptability. In general, the services implemented through SAMHSA's Services Grants will have strong evidence of effectiveness. However, because the evidence base is limited in some areas, SAMHSA may fund some services for which the evidence base, while limited, is sound. SAMHSA expects that the services funded through these grants will be sustained by the grantee beyond the term of the grant.

SAMHSA also funds grants under three other standard grant announcements:

■ Infrastructure Grants support identification and implementation of systems changes but are not designed to fund services.

■ Best Practices Planning and Implementation Grants help communities and providers identify practices to effectively meet local needs, develop strategic plans for implementing/adapting those practices and pilot-test practices prior to full-scale implementation.

■ Service to Science Grants document and evaluate innovative practices that address critical substance abuse and mental health service gaps but that have not yet been formally evaluated.

This announcement describes the general program design and provides application instructions for all SAMHSA Services Grants. The availability of funds for specific Services Grants will be announced in supplementary Notices of Funding Availability (NOFAs) in the Federal Register and at http://www.grants.gov—the Federal grant announcement web page.

SAMHSA's Services Grants are authorized under Section 509, 516 and/or 520A of the Public Health Service Act, unless otherwise specified in a NOFA in the Federal Register and on http://www.grants.gov.

Typically, funding for Services Grants will be targeted to specific populations and/or issue areas, which will be specified in the NOFAs. The NOFAs will also:

■ Specify total funding available for the first year of the grants and the expected size and number of awards;

■ Provide the application deadline;

■ Note any specific program requirements for each funding opportunity; and

■ Include any limitations or exceptions to the general provisions in this announcement (e.g., eligibility, allowable activities).

It is, therefore, critical that you consult the NOFA as well as this announcement in developing your grant application.

2. Expectations

The Services Grant program is designed to address gaps in substance abuse and mental health services and/or to increase the ability of States, units of local government, Indian tribes, tribal organizations and governments, and community- and faith-based organizations to help specific populations or geographic areas with serious, emerging mental health and substance abuse problems. SAMHSA intends that its Services Grants result in the delivery of services as soon as possible and no later than 4 months after award. SAMHSA's Services Grants may include substance abuse prevention, substance abuse treatment and/or mental health services. Throughout this announcement, SAMHSA will use the term “services” to refer to all three types of services. The NOFA will provide guidance on the particular type of service to be provided through each funding opportunity. Applicants must refer to the NOFA for required activities and exceptions to allowable activities.

2.1 Documenting the Evidence-Base for Services to be Implemented

The services implemented through SAMHSA's Services Grants must incorporate the best objective information available regarding the effectiveness and acceptability of the services to be implemented. In general, the services implemented through SAMHSA's Services Grants will have strong evidence of effectiveness. However, because the evidence base is limited in some areas, SAMHSA may fund some services for which the evidence of effectiveness is based on formal consensus among recognized experts in the field and/or evaluation studies that have not been published in the peer reviewed literature.

Applicants must document in their applications that the services/practices they propose to implement are evidence-based services/practices. In addition, applicants must justify use of the proposed services/practices for the target population along with any adaptations or modifications necessary to meet the unique needs of the target population or otherwise increase the likelihood of achieving positive outcomes. Further guidance on each of these requirements is provided below.

Documenting the Evidence-Based Practice/Service

SAMHSA has already determined that certain services/practices are solidly evidence-based services/practices and encourages applicants to select services/practices from the following sources (though this is not required):

■ SAMHSA's National Registry of Effective Programs and Practices (NREPP) (see Appendix C).

■ Center for Mental Health Services (CMHS) Evidence Based Practice Tool Kits (see Appendix D).

■ List of Effective Substance Abuse Treatment Practices (see Appendix E).

■ Additional practices identified in the NOFA for a specific funding opportunity, if applicable.

Applicants proposing services/practices that are not included in the above-referenced sources must provide a narrative justification that summarizes the evidence for effectiveness and acceptability of the proposed service/practice. The preferred evidence of effectiveness and acceptability will include the findings from clinical trials, efficacy and/or effectiveness studies published in the peer-reviewed literature.

In areas where little or no research has been published in the peer-reviewed scientific literature, the applicant may present evidence involving studies that have not been published in the peer-reviewed research literature and/or documents describing formal consensus among recognized experts. If consensus documents are presented, they must describe consensus among multiple experts whose work is recognized and respected by others in the field. Local recognition of an individual as a respected or influential person at the community level is not considered a “recognized expert” for this purpose.

In presenting evidence in support of the proposed service/practice, applicants must show that the evidence presented is the best objective information available.

Justifying Selection of the Service/Practice for the Target Population

Regardless of the strength of the evidence-base for the service/practice, all applicants must show that the proposed service/practice is appropriate for the proposed target population. Ideally, this evidence will include research findings on effectiveness and acceptability specific to the proposed target population. However, if such evidence is not available, the applicant should provide a justification for using the proposed service/practice with the target population. This justification might involve, for example, a description of adaptations to the proposed service/practice based on other research involving the target population.

Justifying Adaptations/Modifications of the Proposed Service/Practice

SAMHSA has found that a high degree of faithfulness or “fidelity” (see Glossary) to the original model for an evidence-based service/practice increases the likelihood that positive outcomes will be achieved when the model is used by others. Therefore, SAMHSA encourages fidelity to the original evidence-based service/practice to be implemented. However, SAMHSA recognizes that adaptations or modifications to the original model may be necessary for a variety of reasons:

• To allow implementers to use resources efficiently,

• To adjust for specific needs of the client population,

• To address unique characteristics of the local community where the service/practice will be implemented.

All applicants must describe and justify any adaptations or modifications to the proposed service/practice that will be made.

2.2 Services Delivery

SAMHSA's Services Grant funds must be used primarily to support direct services, including the following types of activities:

■ Conducting outreach and pre-service strategies to expand access to treatment or prevention services to underserved populations. If you propose to provide only outreach and pre-service strategies, you must show that your organization is an effective and integral part of a network of service providers.

■ Purchasing or providing direct treatment (including screening, assessment, and care management) or prevention services for populations at risk. Treatment must be provided in outpatient, day treatment or intensive outpatient, or residential programs.

■ Purchasing or providing “wrap-around” services (see Glossary) (e.g., child care, vocational, educational and transportation services) designed to improve access and retention.

■ Collecting data using specified tools and standards to measure and monitor treatment or prevention services and costs. (No more than 20% of the total grant award may be used for data collection and evaluation.)

2.3 Infrastructure Development (Maximum 15% of Total Grant Award) Although SAMHSA expects that its Services Grant funds will be used primarily for direct services, SAMHSA recognizes that infrastructure changes may be needed to support service delivery expansion in some instances. You may use up to 15% of the total Services Grant award for the following types of infrastructure development, if necessary to support the direct service expansion of the grant project.

■ Building partnerships to ensure the success of the project and entering into service delivery and other agreements.

■ Developing or changing the infrastructure to expand treatment or prevention services.

■ Training to assist treatment or prevention providers and community support systems to identify and address mental health or substance abuse issues.

2.4 Data and Performance Measurement

The Government Performance and Results Act of 1993 (Pub. L.103-62, or “GPRA”) requires all Federal agencies to set program performance targets and report annually on the degree to which the previous year's targets were met.

Agencies are expected to evaluate their programs regularly and to use results of these evaluations to explain their successes and failures and justify requests for funding.

To meet the GPRA requirements, SAMHSA must collect performance data (i.e., “GPRA data”) from grantees. Grantees are required to report these GPRA data to SAMHSA on a timely basis.

Specifically, grantees will be required to provide data on a set of required measures, as specified in the NOFA. The data collection tools to be used for reporting the required data will be provided in the application kits distributed by SAMHSA's clearinghouses and posted on SAMHSA's website along with each NOFA. In your application, you must demonstrate your ability to collect and report on these measures, and you may be required to provide some baseline data.

The terms and conditions of the grant award also will specify the data to be submitted and the schedule for submission. Grantees will be required to adhere to these terms and conditions of award.

Applicants should be aware that SAMHSA is working to develop a set of required core performance measures for each of SAMHSA's standard grants (i.e., Services Grants, Infrastructure Grants, Best Practices Planning and Implementation Grants, and Service-to-Science Grants). As this effort proceeds, some of the data collection and reporting requirements included in SAMHSA's NOFAs may change. All grantees will be expected to comply with any changes in data collection requirements that occur during the grantee's project period.

2.5 Grantee Meetings

You must plan to send a minimum of two people (including the Project Director) to at least one joint grantee meeting in each year of the grant, and you must include funding for this travel in your budget. At these meetings, grantees will present the results of their projects and Federal staff will provide technical assistance. Each meeting will be 3 days. These meetings will usually be held in the Washington, DC, area and attendance is mandatory.

2.6 Evaluation

Grantees must evaluate their projects, and you are required to describe your evaluation plans in your application. The evaluation should be designed to provide regular feedback to the project to improve services. The evaluation must include both process and outcome components. Process and outcome evaluations must measure change relating to project goals and objectives over time compared to baseline information. Control or comparison groups are not required. You must consider your evaluation plan when preparing the project budget.

Process components should address issues such as:

■ How closely did implementation match the plan?

■ What types of deviation from the plan occurred?

■ What led to the deviations?

■ What effect did the deviations have on the planned intervention and evaluation?

■ Who provided (program, staff) what services (modality, type, intensity, duration), to whom (individual characteristics), in what context (system, community), and at what cost (facilities, personnel, dollars)?

Outcome components should address issues such as:

■ What was the effect of treatment on participants?

■ What program/contextual factors were associated with outcomes?

■ What individual factors were associated with outcomes?

■ How durable were the effects?

No more than 20% of the total grant award may be used for evaluation and data collection, including GPRA and incentives for completing the evaluation.

II. Award Information

1. Award Amount

The expected award amount for each funding opportunity will be specified in the NOFA. Typically, SAMHSA's Services Grant awards are expected to be about $500,000 per year in total costs (direct and indirect) for up to 5 years. Awards may range as high as $3.0 million per year in total costs (direct and indirect) for up to 5 years. Regardless of the award amount specified in the NOFA, the actual award amount will depend on the availability of funds.

Proposed budgets cannot exceed the allowable amount specified in the NOFA in any year of the proposed project. Annual continuation awards will depend on the availability of funds, grantee progress in meeting project goals and objectives, and timely submission of required data and reports.

2. Funding Mechanism

The NOFA will indicate whether awards for each funding opportunity will be made as grants or cooperative agreements (see the Glossary in Appendix B for further explanation of these funding mechanisms). For cooperative agreements, the NOFA will describe the nature of Federal involvement in project performance and specify roles and responsibilities of grantees and Federal staff.

III. Eligibility Information

1. Eligible Applicants

Eligible applicants are domestic public and private nonprofit entities. For example, State, local or tribal governments; public or private universities and colleges; community- and faith-based organizations; and tribal organizations may apply. The statutory authority for this program prohibits grants to for-profit organizations. The NOFA will indicate any limitations on eligibility.

2. Cost Sharing

Cost sharing (see Glossary) is not required in this program, and applications will not be screened out on the basis of cost sharing. However, you may include cash or in-kind contributions (see Glossary) in your proposal as evidence of commitment to the proposed project.

3. Other

3.1 Additional Eligibility Requirements

Applications must comply with the following requirements, or they will be screened out and will not be reviewed: use of the PHS 5161-1 application; application submission requirements in Section IV-3 of this document; and formatting requirements provided in Section IV-2.3 of this document. Applicants should be aware that the NOFA may include additional requirements that, if not met, will result in applications being screened out and returned without review. These requirements will be specified in Section III-3 of the NOFA.

You also must comply with any additional program requirements specified in the NOFA, such as signature of certain officials on the face page of the application and/or required memoranda of understanding with certain signatories.

3.2 Evidence of Experience and Credentials

SAMHSA believes that only existing, experienced, and appropriately credentialed organizations with demonstrated infrastructure and expertise will be able to provide required services quickly and effectively. Therefore, in addition to the basic eligibility requirements specified in this announcement, applicants must meet three additional requirements related to the provision of treatment or prevention services.

The three requirements are:

• A provider organization for direct client services (e.g., substance abuse treatment, substance abuse prevention, mental health services) appropriate to the grant must be involved in each application. The provider may be the applicant or another organization committed to the project. More than one provider organization may be involved;

• Each direct service provider organization must have at least 2 years experience providing services in the geographic area(s) covered by the application, as of the due date of the application; and

• Each direct service provider organization must comply with all applicable local (city, county) and State/tribal licensing, accreditation, and certification requirements, as of the due date of the application.

[Note: The above requirements apply to all service provider organizations. A license from an individual clinician will not be accepted in lieu of a provider organization's license.]

In Appendix 1 of the application, you must: (1) Identify at least one experienced, licensed service provider organization; (2) include a list of all direct service provider organizations that have agreed to participate in the proposed project, including the applicant agency if the applicant is a treatment or prevention service provider organization; and (3) include the Statement of Assurance (provided in Appendix F of this announcement), signed by the authorized representative of the applicant organization identified on the face-page of the application, that all participating service provider organizations:

• Meet the 2-year experience requirement

• Meet applicable licensing, accreditation, and certification requirements, and,

• If the application is within the funding range, will provide the Government Project Officer (GPO) with the required documentation within the time specified.

In addition, if, following application review, an application's score is within the fundable range for a grant award, the GPO will call the applicant and request that the following documentation be sent by overnight mail:

• A letter of commitment that specifies the nature of the participation and what service(s) will be provided from every service provider organization that has agreed to participate in the project;

• Official documentation that all participating organizations have been providing relevant services for a minimum of 2 years before the date of the application in the area(s) in which the services are to be provided; and

• Official documentation that all participating service provider organizations comply with all applicable local (city, county) and State/tribal requirements for licensing, accreditation, and certification or official documentation from the appropriate agency of the applicable State/tribal, county, or other governmental unit that licensing, accreditation, and certification requirements do not exist.

If the GPO does not receive this documentation within the time specified, the application will be removed from consideration for an award and the funds will be provided to another applicant meeting these requirements.

IV. Application and Submission Information

To ensure that you have met all submission requirements, a checklist is provided for your use in Appendix A of this document.

1. Address to Request Application Package

You may request a complete application kit by calling one of SAMHSA's national clearinghouses:

■ For substance abuse prevention or treatment grants, call the National Clearinghouse for Alcohol and Drug Information (NCADI) at 1-800-729-6686.

■ For mental health grants, call the National Mental Health Information Center at 1-800-789-CMHS (2647).

You also may download the required documents from the SAMHSA Web site at http://www.samhsa.gov. Click on “Grant Opportunities.”

Additional materials available on this Web site include:

■ A technical assistance manual for potential applicants;

■ Standard terms and conditions for SAMHSA grants;

■ Guidelines and policies that relate to SAMHSA grants (e.g., guidelines on cultural competence, consumer and family participation, and evaluation); and

■ Enhanced instructions for completing the PHS 5161-1 applicatiod.

2. Content and Form of Application Submission

2.1 Application Kit

SAMHSA application kits include the following documents:

■ PHS 5161-1 (revised July 2000)—Includes the face page, budget forms, assurances, certification, and checklist. Use the PHS 5161-1, unless otherwise specified in the NOFA. Applications that are not submitted on the required application form will be screened out and will not be reviewed.

■ Program Announcement (PA)—Includes instructions for the grant application. This document is the PA.

■ Notice of Funding Availability (NOFA)—Provides specific information about availability of funds, as well as any exceptions or limitations to provisions in the PA. The NOFAs will be published in the Federal Register, as well as on the Federal grants Web site (http://www.grants.gov). It is very important that you read the entire NOFA before beginning to write your application.

You must use all of the above documents in completing your application.

2.2 Required Application Components

To ensure equitable treatment of all applications, applications must be complete. In order for your application to be complete, it must include the required ten application components (Face Page, Abstract, Table of Contents, Budget Form, Project Narrative and Supporting Documentation, Appendices, Assurances, Certifications, Disclosure of Lobbying Activities, and Checklist).

☐ Face Page—Use Standard Form (SF) 424, which is part of the PHS 5161-1. [Note: Beginning October 1, 2003, applicants will need to provide a Dun and Bradstreet (DUNS) number to apply for a grant or cooperative agreement from the Federal Government. SAMHSA applicants will be required to provide their DUNS number on the face page of the application. Obtaining a DUNS number is easy and there is no charge. To obtain a DUNS number, access the Dun and Bradstreet Web site at http://www.dunandbradstreet.com or call 1-866-705-5711. To expedite the process, let Dun and Bradstreet know that you are a public/private nonprofit organization getting ready to submit a Federal grant application.]

☐ Abstract—Your total abstract should not be longer than 35 lines. In the first five lines or less of your abstract, write a summary of your project that can be used, if your project is funded, in publications, reporting to Congress, or press releases.

☐ Table of Contents—Include page numbers for each of the major sections of your application and for each appendix.

☐ Budget Form—Use SF 424A, which is part of the PHS 5161-1. Fill out Sections B, C, and E of the SF 424A. A sample budget and justification is included in Appendix H of this Program Announcement.

☐ Project Narrative and Supporting Documentation—The Project Narrative describes your project. It consists of Sections A through E. Sections A-E together may not be longer than 30 pages. For example, remember that if your Project Narrative starts on page 5 and ends on page 35, it is 31 pages long, not 30 pages.) More detailed instructions for completing each section of the Project Narrative are provided in “Section V—Application Review Information” of this document.

The Supporting Documentation provides additional information necessary for the review of your application. This supporting documentation should be provided immediately following your Project Narrative in Sections F through I. There are no page limits for these sections, except for Section H, the Biographical Sketches/Job Descriptions.

• Section F—Literature Citations. This section must contain complete citations, including titles and all authors, for any literature you cite in your application.

■ Section G—Budget Justification, Existing Resources, Other Support. You must provide a narrative justification of the items included in your proposed budget, as well as a description of existing resources and other support you expect to receive for the proposed project. Be sure to show that no more than 15% of the total grant award will be used for infrastructure development and that no more than 20% of the total grant award will be used for data collection and evaluation, including GPRA.

■ Section H—Biographical Sketches and Job Descriptions.

Include a biographical sketch for the Project Director and other key positions. Each sketch should be 2 pages or less. If the person has not been hired, include a position description and/or a letter of commitment with a current biographical sketch from the individual.

Include job descriptions for key personnel. Job descriptions should be no longer than 1 page each.

Sample sketches and job descriptions are listed on page 22, Item 6 in the Program Narrative section of the PHS 5161-1.

■ Section I—Confidentiality and SAMHSA Participant Protection/Human Subjects. Section IV-2.4 of this document describes requirements for the protection of the confidentiality, rights and safety of participants in SAMHSA-funded activities. This section also includes guidelines for completing this part of your application.

☐ Appendices 1 through 5—Use only the appendices listed below. If your application includes any appendices not required in the grant announcement or NOFA, they will be disregarded. Do not use more than a total of 30 pages for Appendices 1, 3 and 4 combined. There are no page limitations for Appendices 2 and 5. Do not use appendices to extend or replace any of the sections of the Project Narrative unless specifically required in the NOFA. Reviewers will not consider them if you do.

■ Appendix 1: (1) Identification of at least one experienced, licensed service provider organization; (2) a list of all direct service provider organizations that have agreed to participate in the proposed project, including the applicant agency, if it is a treatment or prevention service provider organization; (3) the Statement of Assurance (provided in Appendix F of this announcement) signed by the authorized representative of the applicant organization identified on the face page of the application, that assures SAMHSA that all listed providers meet the 2-year experience requirement, are appropriately licensed, accredited, and certified, and that if the application is within the funding range for an award, the applicant will send the GPO the required documentation within the specified time; (4) letters of commitment/support.

■ Appendix 2: Data Collection Instruments/Interview Protocols

■ Appendix 3: Sample Consent Forms

■ Appendix 4: Letter to the SSA (if applicable; see Section IV-4 of this document)

■ Appendix 5: A copy of the State or County Strategic Plan, a State or county needs assessment, or a letter from the State or county indicating that the proposed project addresses a State-or county-identified priority.

□ Assurances—Non-Construction Programs. Use Standard Form 424B found in PHS 5161-1. Some applicants will be required to complete the Assurance of Compliance with SAMHSA Charitable Choice Statutes and Regulations Form SMA 170. If this assurance applies to a specific funding opportunity, it will be posted on SAMHSA's web site with the NOFA and provided in the application kits available at SAMHSA's clearinghouse (NCADI).

□ Certifications—Use the “Certifications” forms found in PHS 5161-1.

□ Disclosure of Lobbying Activities—Use Standard Form LLL found in the PHS 5161-1. Federal law prohibits the use of appropriated funds for publicity or propaganda purposes, or for the preparation, distribution, or use of the information designed to support or defeat legislation pending before the Congress or State legislatures. This includes “grass roots” lobbying, which consists of appeals to members of the public suggesting that they contact their elected representatives to indicate their support for or opposition to pending legislation or to urge those representatives to vote in a particular way.

□ Checklist—Use the Checklist found in PHS 5161-1. The Checklist ensures that you have obtained the proper signatures, assurances and certifications and is the last page of your application.

2.3 Application Formatting Requirements

Applicants also must comply with the following basic application requirements. Applications that do not comply with these requirements will be screened out and will not be reviewed.

□ Information provided must be sufficient for review.

□ Text must be legible.

• Type size in the Project Narrative cannot exceed an average of 15 characters per inch, as measured on the physical page. (Type size in charts, tables, graphs, and footnotes will not be considered in determining compliance.)

• Text in the Project Narrative cannot exceed 6 lines per vertical inch.

□ Paper must be white paper and 8.5 inches by 11.0 inches in size.

□ To ensure equity among applications, the amount of space allowed for the Project Narrative cannot be exceeded.

• Applications would meet this requirement by using all margins (left, right, top, bottom) of at least one inch each, and adhering to the 30-page limit for the Project Narrative.

• Should an application not conform to these margin or page limits, SAMHSA will use the following method to determine compliance: The total area of the Project Narrative (excluding margins, but including charts, tables, graphs and footnotes) cannot exceed 58.5 square inches multiplied by 30. This number represents the full page less margins, multiplied by the total number of allowed pages.

• Space will be measured on the physical page. Space left blank within the Project Narrative (excluding margins) is considered part of the Project Narrative, in determining compliance.

To facilitate review of your application, follow these additional guidelines. Failure to adhere to the following guidelines will not, in itself, result in your application being screened out and returned without review. However, following these guidelines will help reviewers to consider your application.

□ Pages should be typed single-spaced in black ink, with one column per page. Pages should not have printing on both sides.

□ Please number pages consecutively from beginning to end so that information can be located easily during review of the application. The cover page should be page 1, the abstract page should be page 2, and the table of contents page should be page 3. Appendices should be labeled and separated from the Project Narrative and budget section, and the pages should be numbered to continue the sequence.

□ The page limit of a total of 30 pages for Appendices 1, 3 and 4 combined should not be exceeded.

□ Send the original application and two copies to the mailing address in Section IV-6.1 of this document. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

2.4 SAMHSA Confidentiality and Participant Protection Requirements and Protection of Human Subjects Regulations

Applicants must describe procedures relating to Confidentiality, Participant Protection and the Protection of Human Subjects Regulations in Section I of the application, using the guidelines provided below. Problems with confidentiality, participant protection, and protection of human subjects identified during peer review of the application may result in the delay of funding.

Confidentiality and Participant Protection

All applicants must describe how they will address requirements for each of the following elements relating to confidentiality and participant protection.

1. Protect Clients and Staff from Potential Risks:

■ Identify and describe any foreseeable physical, medical, psychological, social and legal risks or potential adverse effects as a result of the project itself or any data collection activity.

■ Describe the procedures you will follow to minimize or protect participants against potential risks, including risks to confidentiality.

■ Identify plans to provide guidance and assistance in the event there are adverse effects to participants.

■ Where appropriate, describe alternative treatments and procedures that may be beneficial to the participants. If you choose not to use these other beneficial treatments, provide the reasons for not using them.

2. Fair Selection of Participants:

■ Describe the target population(s) for the proposed project. Include age, gender, and racial/ethnic background and note if the population includes homeless youth, foster children, children of substance abusers, pregnant women, or other targeted groups.

■ Explain the reasons for including groups of pregnant women, children, people with mental disabilities, people in institutions, prisoners, and individuals who are likely to be particularly vulnerable to HIV/AIDS.

■ Explain the reasons for including or excluding participants.

■ Explain how you will recruit and select participants. Identify who will select participants.

3. Absence of Coercion:

■ Explain if participation in the project is voluntary or required. Identify possible reasons why participation is required, for example, court orders requiring people to participate in a program.

■ If you plan to compensate participants, state how participants will be awarded incentives (e.g., money, gifts, etc.).

■ State how volunteer participants will be told that they may receive services intervention even if they do not participate in or complete the data collection component of the project.

4. Data Collection:

■ Identify from whom you will collect data (e.g., from participants themselves, family members, teachers, others). Describe the data collection procedures and specify the sources for obtaining data (e.g., school records, interviews, psychological assessments, questionnaires, observation, or other sources). Where data are to be collected through observational techniques, questionnaires, interviews, or other direct means, describe the data collection setting.

■ Identify what type of specimens (e.g., urine, blood) will be used, if any. State if the material will be used just for evaluation or if other use(s) will be made. Also, if needed, describe how the material will be monitored to ensure the safety of participants.

■ Provide in Appendix 2, “Data Collection Instruments/Interview Protocols,” copies of all available data collection instruments and interview protocols that you plan to use.

5. Privacy and Confidentiality:

■ Explain how you will ensure privacy and confidentiality. Include who will collect data and how it will be collected.

■ Describe:

○ How you will use data collection instruments.

○ Where data will be stored.

○ Who will or will not have access to information.

○ How the identity of participants will be kept private, for example, through the use of a coding system on data records, limiting access to records, or storing identifiers separately from data.

Note: If applicable, grantees must agree to maintain the confidentiality of alcohol and drug abuse client records according to the provisions of Title 42 of the Code of Federal Regulations, Part 2.

6. Adequate Consent Procedures:

■ List what information will be given to people who participate in the project. Include the type and purpose of their participation. Identify the data that will be collected, how the data will be used and how you will keep the data private.

■ State:

○ Whether or not their participation is voluntary.

○ Their right to leave the project at any time without problems.

○ Possible risks from participation in the project.

○ Plans to protect clients from these risks.

■ Explain how you will get consent for youth, the elderly, people with limited reading skills, and people who do not use English as their first language.

Note: If the project poses potential physical, medical, psychological, legal, social or other risks, you must obtain written informed consent.

■ Indicate if you will obtain informed consent from participants or assent from minors along with consent from their parents or legal guardians. Describe how the consent will be documented. For example: Will you read the consent forms? Will you ask prospective participants questions to be sure they understand the forms? Will you give them copies of what they sign?

■ Include, as appropriate, sample consent forms that provide for: (1) Informed consent for participation in service intervention; (2) informed consent for participation in the data collection component of the project; and (3) informed consent for the exchange (releasing or requesting) of confidential information. The sample forms must be included in Appendix 3, “Sample Consent Forms”, of your application. If needed, give English translations.

Note: Never imply that the participant waives or appears to waive any legal rights, may not end involvement with the project, or releases your project or its agents from liability for negligence.

■ Describe if separate consents will be obtained for different stages or parts of the project. For example, will they be needed for both participant protection in treatment intervention and for the collection and use of data?

■ Additionally, if other consents (e.g., consents to release information to others or gather information from others) will be used in your project, provide a description of the consents. Will individuals who do not consent to having individually identifiable data collected for evaluation purposes be allowed to participate in the project?

7. Risk/Benefit Discussion:

Discuss why the risks are reasonable compared to expected benefits and importance of the knowledge from the project.

Protection of Human Subjects Regulations

SAMHSA expects that most grantees funded under Services Grant programs will not be required to comply with the Protection of Human Subjects Regulations (45 CFR part 46). However, in some instances, special evaluation and data collection requirements for a particular funding opportunity may necessitate that all grantees comply with these regulations. In such instances, the NOFA will explicitly state that grantees must comply with the regulations.

If the NOFA does not explicitly state that grantees must comply with the Protection of Human Subjects Regulations (45 CFR 46), grantees will be required to comply with the regulations only if the project-specific evaluation design proposed by the grantee requires compliance with the regulations.

Applicants whose projects must comply with the Protection of Human Subjects Regulations must describe the process for obtaining Institutional Review Board (IRB) approval fully in their applications. While IRB approval is not required at the time of grant award, these applicants will be required, as a condition of award, to provide the documentation that an Assurance of Compliance is on file with the Office for Human Research Protections (OHRP) and the IRB approval has been received prior to enrolling any clients in the proposed project.

General information about Protection of Human Subjects Regulations can be obtained on the web at http://www.hhs.gov/ohrp. You may also contact OHRP by e-mail (ohrp@osophs.dhhs.gov) or by phone (301/496-7005). SAMHSA-specific questions related to Protection of Human Subjects Regulations should be directed to the program contact listed in Section VII of the NOFA.

3. Submission Dates and Times

Deadlines for submission of applications for specific funding opportunities will be published in the NOFAs in the Federal Register and posted on the Federal grants Web site (http://www.grants.gov).

Hand carried applications will not be accepted. Applications may be shipped using only DHL, Falcon Carrier, Federal Express (FedEx), United Parcel Service (UPS), or the United States Postal Service (USPS).

Your application must be received by the application deadline, or you must have proof of its timely submission as specified below.

• For packages submitted via DHL, Falcon Carrier, Federal Express (FedEx), or United Parcel Service (UPS), timely submission shall be evidenced by a delivery service receipt indicating the application was delivered to a carrier service at least 24 hours prior to the application deadline.

• For packages submitted via the United States Postal Service (USPS), proof of timely submission shall be a postmark not later than 1 week prior to the application deadline, and the following upon request by SAMHSA:

○ proof of mailing using USPS Form 3817 (Certificate of Mailing), or

○ a receipt from the Post Office containing the post office name, location, and date and time of mailing.

You will be notified by postal mail that your application has been received.

Applications not meeting the timely submission requirements above will not be considered for review. Please remember that mail sent to Federal facilities undergoes a security screening prior to delivery. Allow sufficient time for your package to be delivered.

If an application is mailed to a location or office (including room number) that is not designated for receipt of the application, and that results in the designated office not receiving your application in accordance with the requirements for timely submission, it will cause the application to be considered late and ineligible for review.

SAMHSA will not accept or consider any applications sent by facsimile.

SAMHSA is collaborating with http://www.grants.gov to accept electronic submission of applications only for select funding opportunities. Unless specifically indicated in the NOFA, electronic submission of applications will not be accepted.

4. Intergovernmental Review (E.O. 12372) Requirements

Executive Order 12372, as implemented through Department of Health and Human Services (DHHS) regulation at 45 CFR Part 100, sets up a system for State and local review of applications for Federal financial assistance. A current listing of State Single Points of Contact (SPOCs) is included in the application kit and can be downloaded from the Office of Management and Budget (OMB) Web site at http://www.whitehouse.gov/omb/grants/spoc.html.

■ Check the list to determine whether your State participates in this program. You do not need to do this if you are a federally recognized Indian tribal government.

■ If your State participates, contact your SPOC as early as possible to alert him/her to the prospective application(s) and to receive any necessary instructions on the State's review process.

■ For proposed projects serving more than one State, you are advised to contact the SPOC of each affiliated State.

■ The SPOC should send any State review process recommendations to the following address within 60 days of the application deadline:

For United States Postal Service: Crystal Saunders, Director of Grant Review, Office of Program Services, Substance Abuse and Mental Health Services Administration, Room 3-1044, 1 Choke Cherry Road, Rockville, MD 20857, ATTN: SPOC—Funding Announcement No. [fill in pertinent funding opportunity number from NOFA].

For other delivery service: Crystal Saunders, Director of Grant Review, Office of Program Services, Substance Abuse and Mental Health Services Administration, Room 3-1044, 1 Choke Cherry Road, Rockville, MD 20850, ATTN: SPOC—Funding Announcement No. [fill in pertinent funding opportunity number from NOFA].

In addition, community-based, non-governmental service providers who are not transmitting their applications through the State must submit a Public Health System Impact Statement (PHSIS) (approved by OMB under control no. 0920-0428; see burden statement below) to the head(s) of appropriate State or local health agencies in the area(s) to be affected no later than the pertinent receipt date for applications. The PHSIS is intended to keep State and local health officials informed of proposed health services grant applications submitted by community-based, non-governmental organizations within their jurisdictions. State and local governments and Indian tribal government applicants are not subject to these requirements.

The PHSIS consists of the following information:

■ A copy of the face page of the application (SF 424); and

■ A summary of the project, no longer than one page in length, that provides: (1) A description of the population to be served, (2) a summary of the services to be provided, and (3) a description of the coordination planned with appropriate State or local health agencies.

For SAMHSA grants, the appropriate State agencies are the Single State Agencies (SSAs) for substance abuse and mental health. A listing of the SSAs can be found on SAMHSA's Web site at http://www.samhsa.gov. If the proposed project falls within the jurisdiction of more than one State, you should notify all representative SSAs.

Applicants who are not the SSA must include a copy of a letter transmitting the PHSIS to the SSA in Appendix 4, “Letter to the SSA.” The letter must notify the State that, if it wishes to comment on the proposal, its comments should be sent not later than 60 days after the application deadline to:

For United States Postal Service: Crystal Saunders, Director of Grant Review, Office of Program Services, Substance Abuse and Mental Health Services Administration, Room 3-1044, 1 Choke Cherry Road, Rockville, MD 20857,ATTN: SSA—Funding Announcement No. [fill in pertinent funding opportunity number from NOFA].

For other delivery service: Crystal Saunders, Director of Grant Review, Office of Program Services, Substance Abuse and Mental Health Services Administration, Room 3-1044, 1 Choke Cherry Road, Rockville, MD 20850, ATTN: SSA—Funding Announcement No. [fill in pertinent funding opportunity number from NOFA].

In addition:

■ Applicants may request that the SSA send them a copy of any State comments.

■ The applicant must notify the SSA within 30 days of receipt of an award.

[Public reporting burden for the Public Health System Reporting Requirement is estimated to average 10 minutes per response, including the time for copying the face page of SF 424 and the abstract and preparing the letter for mailing. An agency may not conduct or sponsor, and a person is not required to respond to, a collection of information unless it displays a currently valid OMB control number. The OMB control number for this project is 0920-0428. Send comments regarding this burden to CDC Clearance Officer, 1600 Clifton Road, MS D-24, Atlanta, GA 30333, ATTN: PRA (0920-0428).]

5. Funding Limitations/Restrictions

Cost principles describing allowable and unallowable expenditures for Federal grantees, including SAMHSA grantees, are provided in the following documents:

■ Institutions of Higher Education: OMB Circular A-21.

■ State and Local Governments: OMB Circular A-87.

■ Nonprofit Organizations: OMB Circular A-122.

■ Appendix E Hospitals: 45 CFR Part 74.

In addition, SAMHSA Services Grant recipients must comply with the following funding restrictions:

■ No more than 15% of the total grant award may be used for developing the infrastructure necessary for expansion of services.

■ No more than 20% of the total grant award may be used for evaluation and data collection, including GPRA and incentives for completing the evaluation.

Service Grant funds must be used for purposes supported by the program and may not be used to:

■ Pay for any lease beyond the project period.

■ Provide services to incarcerated populations (defined as those persons in jail, prison, detention facilities, or in custody where they are not free to move about in the community).

■ Pay for the purchase or construction of any building or structure to house any part of the program. (Applicants may request up to $75,000 for renovations and alterations of existing facilities, if necessary and appropriate to the project.)

■ Provide residential or outpatient treatment services when the facility has not yet been acquired, sited, approved, and met all requirements for human habitation and services provision. (Expansion or enhancement of existing residential services is permissible.)

■ Pay for housing other than residential mental health and/or substance abuse treatment.

■ Provide inpatient treatment or hospital-based detoxification services. Residential services are not considered to be inpatient or hospital-based services.

■ Pay for incentives to induce individuals to enter treatment. However, a grantee or treatment provider may provide up to $20 or equivalent (coupons, bus tokens, gifts, child care, and vouchers) to individuals as incentives to participate in required data collection follow-up. This amount may be paid for participation in each required interview.

■ Implement syringe exchange programs, such as the purchase and distribution of syringes and/or needles.

■ Pay for pharmacologies for HIV antiretroviral therapy, sexually transmitted diseases (STD)/sexually transmitted illnesses (STI), TB, and hepatitis B and C, or for psychotropic drugs.

■ SAMHSA will not accept a “research” indirect cost rate. The grantee must use the “other sponsored program rate” or the lowest rate available.

6. Other Submission Requirements

6.1 Where To Send Applications

Send applications to the following address:

For United States Postal Service: Crystal Saunders, Director of Grant Review, Office of Program Services, Substance Abuse and Mental Health Services Administration, Room 3-1044, 1 Choke Cherry Road, Rockville, MD 20857.

For other delivery service: Crystal Saunders, Director of Grant Review, Office of Program Services, Substance Abuse and Mental Health Services Administration, Room 3-1044, 1 Choke Cherry Road, Rockville, MD 20850.

Do not send applications to other agency contacts, as this could delay receipt. Be sure to include the funding announcement number from the NOFA in item number 10 on the face page of the application. If you require a phone number for delivery, you may use (240) 276-1199.

6.2 How To Send Applications

Mail or deliver an original application and 2 copies (including appendices) to the mailing address provided above, according to the instructions in Section IV-3. The original and copies must not be bound. Do not use staples, paper clips, or fasteners. Nothing should be attached, stapled, folded, or pasted.

Hand carried applications will not be accepted. Applications may be shipped using only DHL, Falcon Carrier, Federal Express (FedEx), United Parcel Service (UPS), or the United States Postal Service (USPS).

SAMHSA will not accept or consider any applications sent by facsimile.

Unless specifically indicated in the NOFA, electronic submission of applications will not be accepted.

V. Application Review Information

1. Evaluation Criteria

Your application will be reviewed and scored according to the quality of your response to the requirements listed below for developing the Project Narrative (Sections A-E). These sections describe what you intend to do with your project.

■ In developing the Project Narrative section of your application, use these instructions along with any additional instructions found in the NOFA. These are to be used instead of the “Program Narrative” instructions found in the PHS 5161-1.

■ The Project Narrative (Sections A-E) together may be no longer than 30 pages.

■ You must use the five sections/headings listed below in developing your Project Narrative. Be sure to place the required information in the correct section, or it will not be considered. Your application will be scored according to how well you address the requirements for each section of the Project Narrative.

■ Reviewers will be looking for evidence of cultural competence in each section of the Project Narrative. Points will be assigned based on how well you address the cultural competence aspects of the evaluation criteria. SAMHSA's guidelines for cultural competence can be found on the SAMHSA Web site at http://www.samhsa.gov. Click on “Grant Opportunities.”

■ The Supporting Documentation you provide in Sections F-I and Appendices 1-5 will be considered by reviewers in assessing your response, along with the material in the Project Narrative.

■ The number of points after each heading is the maximum number of points a review committee may assign to that section of your Project Narrative. Bullet statements in each section do not have points assigned to them. They are provided to invite the attention of applicants and reviewers to important areas within the criterion.

Section A: Statement of Need (10 Points)

■ Describe the target population (see Glossary) as well as the geographic area to be served, and justify the selection of both. Be sure to check the NOFA for any specific requirements regarding the target population and/or catchment area. Include the numbers to be served and demographic information. Discuss the target population's language, beliefs, norms and values, as well as socioeconomic factors that must be considered in delivering programs to this population.

■ Describe the nature of the problem and extent of the need for the target population based on data. The statement of need should include a clearly established baseline for the project. Documentation of need may come from a variety of qualitative and quantitative sources. The quantitative data could come from local data or trend analyses, State data (e.g., from State Needs Assessments), and/or national data (e.g., from SAMHSA's National Household Survey on Drug Abuse and Health or from National Center for Health Statistics/Centers for Disease Control reports). For data sources that are not well known, provide sufficient information on how the data were collected so reviewers can assess the reliability and validity of the data.

■ Non-tribal applicants must show that identified needs are consistent with priorities of the State or county that has primary responsibility for the service delivery system. Include, in Appendix 5, a copy of the State or County Strategic Plan, a State or county needs assessment, or a letter from the State or county indicating that the proposed project addresses a State-or county-identified priority. Tribal applicants must provide similar documentation relating to tribal priorities.

■ Check the NOFA for any additional requirements.

Section B: Proposed Evidence-Based Service/Practice (30 Points)

■ Clearly state the purpose, goals and objectives of your proposed project. Describe how achievement of the goals will address the overall program purpose specified in the NOFA and produce meaningful and relevant results (e.g., increase access, availability, prevention, outreach, pre-services, treatment, and/or intervention).

■ Identify the evidenced based service/practice that you propose to implement. Describe the evidence-base for the proposed service/practice and show that it incorporates the best objective information available regarding effectiveness and acceptability. Follow the instructions provided in #1, #2 or #3 below, as appropriate:

1. If you are proposing to implement a service/practice included in NREPP (see Appendix C), one of the CMHS tool-kits on evidence-based practices (see Appendix D), the list of Effective Substance Abuse Treatment Practices (see Appendix E), or the NOFA (if applicable), simply identify the practice and state the source from which it was selected. You do not need to provide further evidence of effectiveness.

2. If you are providing evidence that includes scientific studies published in the peer-reviewed literature or other studies that have not been published, describe the extent to which:

—The service/practice has been evaluated and the quality of the evaluation studies (e.g., whether they are descriptive, quasi-experimental studies, or experimental studies).

—The services/practice has demonstrated positive outcomes and for what populations the positive outcomes have been demonstrated.

—The service/practice has been documented (e.g., through development of guidelines, tool kits, treatment protocols, and/or manuals) and replicated.

—Fidelity measures have been developed (e.g., no measures developed, key components identified, or fidelity measures developed).

3. If you are providing evidence based on a formal consensus process involving recognized experts in the field, describe:

—The experts involved in developing consensus on the proposed service/practice (e.g., members of an expert panel formally convened by SAMHSA, NIH, the Institute of Medicine or other nationally recognized organization). The consensus must have been developed by a group of experts whose work is recognized and respected by others in the field. Local recognition of an individual as a respected or influential person at the community level is not considered a “recognized expert” for this purpose.

—The nature of the consensus that has been reached and the process used to reach consensus

—The extent to which the consensus has been documented (e.g., in a consensus panel report, meeting minutes, or an accepted standard practice in the field)

—Any empirical evidence (whether formally published or not) supporting the effectiveness of the proposed service/practice

—The rationale for concluding that further empirical evidence does not exist to support the effectiveness of the proposed service/practice

■ Justify the use of the proposed service/practice for the target population. Describe and justify any adaptations necessary to meet the needs of the target population as well as evidence that such adaptations will be effective for the target population.

■ Identify and justify any additional adaptations or modifications to the proposed service/practice.

■ Describe how the proposed project will address issues of age, race, ethnicity, culture, language, sexual orientation, disability, literacy, and gender in the target population, while retaining fidelity to the chosen practice.

■ Demonstrate how the proposed service/practice will meet your goals and objectives. Provide a logic model (see Glossary) that links need, the services or practice to be implemented, and outcomes.

■ Check the NOFA for any additional requirements.

Section C: Proposed Implementation Approach (25 Points)

■ Describe how the proposed service or practice will be implemented. Address any and all expectations/required activities specified in the NOFA.

■ Provide a realistic time line for the project (chart or graph) showing key activities, milestones, and responsible staff. [Note: The time line should be part of the Project Narrative. It should not be placed in an appendix.]

■ Clearly state the unduplicated number of individuals you propose to serve (annually and over the entire project period) with grant funds, including the types and numbers of services to be provided and anticipated outcomes. Describe how the target population will be identified, recruited, and retained.

■ Describe how members of the target population helped prepare the application, and how they will help plan, implement, and evaluate the project.

■ Describe how the project components will be embedded within the existing service delivery system, including other SAMHSA-funded projects, if applicable. Identify any other organizations that will participate in the proposed project. Describe their roles and responsibilities and demonstrate their commitment to the project. Include letters of commitment from community organizations supporting the project in Appendix 1. Identify any cash or in-kind contributions that will be made to the project by the applicant or other partnering organizations.

■ Show that the necessary groundwork (e.g., planning, consensus development, development of memoranda of agreement, identification of potential facilities) has been completed or is near completion so that the project can be implemented and service delivery can begin as soon as possible and no later than 4 months after grant award.

■ Describe the potential barriers to successful conduct of the proposed project and how you will overcome them.

■ Provide a plan to secure resources to sustain the proposed project when Federal funding ends.

■ Check the NOFA for any additional requirements.

Section D: Staff and Organizational Experience (20 Points)

■ Discuss the capability and experience of the applicant organization and other participating organizations with similar projects and populations, including experience in providing culturally appropriate/competent services.

■ Provide a list of staff who will participate in the project, showing the role of each and their level of effort and qualifications. Include the Project Director and other key personnel, such as the evaluator and treatment/prevention personnel.

■ Describe the racial/ethnic characteristics of key staff and indicate if any are members of the target population/community. If the target population is multi-linguistic, indicate if the staffing pattern includes bilingual and bicultural individuals.

■ Describe the resources available for the proposed project (e.g., facilities, equipment), and provide evidence that services will be provided in a location that is adequate, accessible, compliant with the Americans with Disabilities Act (ADA), and amenable to the target population.

■ Check the NOFA for any additional requirements.

Section E: Evaluation and Data (15 Points)

■ Document your ability to collect and report on the required performance measures as specified in the NOFA. Specify and justify any additional measures you plan to use for your grant project.

■ Describe plans for data collection, management, analysis, interpretation and reporting. Describe the existing approach to the collection of data, along with any necessary modifications. Be sure to include data collection instruments/interview protocols in Appendix 2.

■ Discuss the reliability and validity of evaluation methods and instrument(s) in terms of the gender/age/culture of the target population.

■ Describe the process and outcome evaluation, including assessments of implementation and individual outcomes. Show how the evaluation will be integrated with requirements for collection and reporting of performance data, including data required by SAMHSA to meet GPRA requirements.

■ Describe how the evaluation will be used to ensure the fidelity to the practice.

■ Provide a per-person or unit cost of the project to be implemented, based on the applicant's actual costs and projected costs over the life of the project.

■ Check the NOFA for any additional requirements.

Note: Although the budget for the proposed project is not a review criterion, the Review Group will be asked to comment on the appropriateness of the budget after the merits of the application have been considered.

2. Review and Selection Process

SAMHSA applications are peer-reviewed according to the review criteria listed above. For those programs where the individual award is over $100,000, applications must also be reviewed by the appropriate National Advisory Council.

Decisions to fund a grant are based on:

■ The strengths and weaknesses of the application as identified by peer reviewers and, when applicable, approved by the appropriate National Advisory Council;

■ Availability of funds;

■ Equitable distribution of awards in terms of geography (including urban, rural and remote settings) and balance among target populations and program size; and

■ After applying the aforementioned criteria, the following method for breaking ties: When funds are not available to fund all applications with identical scores, SAMHSA will make award decisions based on the application(s) that received the greatest number of points by peer reviewers on the evaluation criterion in Section V-1 with the highest number of possible points (Proposed Evidence-Based Service/Practice—30 points). Should a tie still exist, the evaluation criterion with the next highest possible point value will be used, continuing sequentially to the evaluation criterion with the lowest possible point value, should that be necessary to break all ties. If an evaluation criterion to be used for this purpose has the same number of possible points as another evaluation criterion, the criterion listed first in Section V-1 will be used first.

VI. Award Administration Information

1. Award Notices

After your application has been reviewed, you will receive a letter from SAMHSA through postal mail that describes the general results of the review, including the score that your application received.

If you are approved for funding, you will receive an additional notice, the Notice of Grant Award, signed by SAMHSA's Grants Management Officer. The Notice of Grant Award is the sole obligating document that allows the grantee to receive Federal funding for work on the grant project. It is sent by postal mail and is addressed to the contact person listed on the face page of the application.

If you are not funded, you can re-apply if there is another receipt date for the program.

2. Administrative and National Policy Requirements

■ You must comply with all terms and conditions of the grant award. SAMHSA's standard terms and conditions are available on the SAMHSA Web site at http://www.samhsa.gov/grants/generalinfo/useful_info.aspx.

■ Depending on the nature of the specific funding opportunity and/or the proposed project as identified during review, additional terms and conditions may be identified in the NOFA or negotiated with the grantee prior to grant award. These may include, for example:

◦ Actions required to be in compliance with human subjects requirements;

◦ Requirements relating to additional data collection and reporting;

◦ Requirements relating to participation in a cross-site evaluation; or

◦ Requirements to address problems identified in review of the application.

■ You will be held accountable for the information provided in the application relating to performance targets. SAMHSA program officials will consider your progress in meeting goals and objectives, as well as your failures and strategies for overcoming them, when making an annual recommendation to continue the grant and the amount of any continuation award. Failure to meet stated goals and objectives may result in suspension or termination of the grant award, or in reduction or withholding of continuation awards.

■ In an effort to improve access to funding opportunities for applicants, SAMHSA is participating in the U.S. Department of Health and Human Services “Survey on Ensuring Equal Opportunity for Applicants.” This survey is included in the application kit for SAMHSA grants. Applicants are encouraged to complete the survey and return it, using the instructions provided on the survey form.

3. Reporting Requirements

3.1 Progress and Financial Reports

■ Grantees must provide annual and final progress reports. The final report must summarize information from the annual reports, describe the accomplishments of the project, and describe next steps for implementing plans developed during the grant period.

■ Grantees must provide annual and final financial status reports. These reports may be included as separate sections of annual and final progress reports or can be separate documents. Because SAMHSA is extremely interested in ensuring that treatment or prevention services can be sustained, your financial reports should explain plans to ensure the sustainability (see Glossary) of efforts initiated under this grant. Initial plans for sustainability should be described in year 01. In each subsequent year, you should describe the status of your project, as well as the successes achieved and obstacles encountered in that year.

■ SAMHSA will provide guidelines and requirements for these reports to grantees at the time of award and at the initial grantee orientation meeting after award. SAMHSA staff will use the information contained in the reports to determine the grantee's progress toward meeting its goals.

3.2 Government Performance and Results Act (GPRA)

The Government Performance and Results Act (GPRA) mandates accountability and performance-based management by Federal agencies. To meet the GPRA requirements, SAMHSA must collect performance data (i.e., “GPRA data”) from grantees. These requirements will be specified in the NOFA for each funding opportunity.

3.3 Publications

If you are funded under this grant program, you are required to notify the Government Project Officer (GPO) and SAMHSA's Publications Clearance Officer (240-276-2130) of any materials based on the SAMHSA-funded grant project that are accepted for publication.

In addition, SAMHSA requests that grantees:

■ Provide the GPO and SAMHSA Publications Clearance Officer with advance copies of publications.

■ Include acknowledgment of the SAMHSA grant program as the source of funding for the project.

■ Include a disclaimer stating that the views and opinions contained in the publication do not necessarily reflect those of SAMHSA or the U.S. Department of Health and Human Services, and should not be construed as such.

SAMHSA reserves the right to issue a press release about any publication deemed by SAMHSA to contain information of program or policy significance to the substance abuse treatment/substance abuse prevention/mental health services community.

VII. Agency Contacts

The NOFAs provide contact information for questions about program issues.

For questions on grants management issues, contact: Kimberly Pendleton, Office of Program Services, Division of Grants Management, Substance Abuse and Mental Health Services Administration, 1 Choke Cherry Road, Room 7-1097, Rockville, Maryland 20857, (240) 276-1421, kimberly.pendleton@samhsa.hhs.gov.

Appendix A—Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review. In addition to these formatting requirements, programmatic requirements (e.g., relating to eligibility) may be stated in the specific NOFA and in Section III of the standard grant announcement. Please check the entire NOFA and Section III of the standard grant announcement before preparing your application.

☐ Use the PHS 5161-1 application.

☐ Applications must be received by the application deadline or have proof of timely submission, as detailed in Section IV-3 of the grant announcement.

☐ Information provided must be sufficient for review.

☐ Text must be legible.

• Type size in the Project Narrative cannot exceed an average of 15 characters per inch, as measured on the physical page. (Type size in charts, tables, graphs, and footnotes will not be considered in determining compliance.)

■ Text in the Project Narrative cannot exceed 6 lines per vertical inch.

☐ Paper must be white paper and 8.5 inches by 11.0 inches in size.

☐ To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

To facilitate review of your application, follow these additional guidelines. Failure to adhere to the following guidelines will not, in itself, result in your application being screened out and returned without review. However, the information provided in your application must be sufficient for review. Following these guidelines will help ensure your application is complete, and will help reviewers to consider your application.

☐ The 10 application components required for SAMHSA applications should be included. These are:

• Face Page (Standard Form 424, which is in PHS 5161-1).

• Abstract.

• Table of Contents.

• Budget Form (Standard Form 424A, which is in PHS 5161-1).

• Project Narrative and Supporting Documentation.

• Appendices.

• Assurances (Standard Form 424B, which is in PHS 5161-1).

• Certifications (a form within PHS 5161-1).

• Disclosure of Lobbying Activities (Standard Form LLL, which is in PHS 5161-1).

• Checklist (a form in PHS 5161-1).

☐ Applications should comply with the following requirements:

• Provisions relating to confidentiality, participant protection and the protection of human subjects specified in Section IV-2.4 of the FY 2005 standard funding announcements.

• Budgetary limitations as specified in Section I, II, and IV-5 of the FY 2005 standard funding announcements.

• Documentation of nonprofit status as required in the PHS 5161-1.

☐ Pages should be typed single-spaced in black ink, with one column per page. Pages should not have printing on both sides.

☐ Please number pages consecutively from beginning to end so that information can be located easily during review of the application. The cover page should be page 1, the abstract page should be page 2, and the table of contents page should be page 3. Appendices should be labeled and separated from the Project Narrative and budget section, and the pages should be numbered to continue the sequence.

☐ The page limits for Appendices stated in the specific funding announcement should not be exceeded.

☐ Send the original application and two copies to the mailing address in the funding announcement. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

Appendix B—Glossary

Best Practice: Best practices are practices that incorporate the best objective information currently available regarding effectiveness and acceptability.

Catchment Area: A catchment area is the geographic area from which the target population to be served by a program will be drawn.

Cooperative Agreement: A cooperative agreement is a form of Federal grant. Cooperative agreements are distinguished from other grants in that, under a cooperative agreement, substantial involvement is anticipated between the awarding office and the recipient during performance of the funded activity. This involvement may include collaboration, participation, or intervention in the activity. HHS awarding offices use grants or cooperative agreements (rather than contracts) when the principal purpose of the transaction is the transfer of money, property, services, or anything of value to accomplish a public purpose of support or stimulation authorized by Federal statute. The primary beneficiary under a grant or cooperative agreement is the public, as opposed to the Federal Government.

Cost Sharing or Matching: Cost sharing refers to the value of allowable non-Federal contributions toward the allowable costs of a Federal grant project or program. Such contributions may be cash or in-kind contributions. For SAMHSA grants, cost sharing or matching is not required, and applications will not be screened out on the basis of cost sharing. However, applicants often include cash or in-kind contributions in their proposals as evidence of commitment to the proposed project. This is allowed, and this information may be considered by reviewers in evaluating the quality of the application.

Fidelity: Fidelity is the degree to which a specific implementation of a program or practice resembles, adheres to, or is faithful to the evidence-based model on which it is based. Fidelity is formally assessed using rating scales of the major elements of the evidence-based model. A toolkit on how to develop and use fidelity instruments is available from the SAMHSA-funded Evaluation Technical Assistance Center at http://tecathsri.org or by calling (617) 876-0426.

Grant: A grant is the funding mechanism used by the Federal Government when the principal purpose of the transaction is the transfer of money, property, services, or anything of value to accomplish a public purpose of support or stimulation authorized by Federal statute. The primary beneficiary under a grant or cooperative agreement is the public, as opposed to the Federal Government.

In-Kind Contribution: In-kind contributions toward a grant project are non-cash contributions (e.g., facilities, space, services) that are derived from non-Federal sources, such as State or sub-State non-Federal revenues, foundation grants, or contributions from other non-Federal public or private entities.

Logic Model: A logic model is a diagrammatic representation of a theoretical framework. A logic model describes the logical linkages among program resources, conditions, strategies, short-term outcomes, and long-term impact. More information on how to develop logics models and examples can be found through the resources listed in Appendix G.

Practice: A practice is any activity, or collective set of activities, intended to improve outcomes for people with or at risk for substance abuse and/or mental illness. Such activities may include direct service provision, or they may be supportive activities, such as efforts to improve access to and retention in services, organizational efficiency or effectiveness, community readiness, collaboration among stakeholder groups, education, awareness, training, or any other activity that is designed to improve outcomes for people with or at risk for substance abuse or mental illness.

Practice Support System: This term refers to contextual factors that affect practice delivery and effectiveness in the pre-adoption phase, delivery phase, and post-delivery phase, such as (a) community collaboration and consensus building, (b) training and overall readiness of those implementing the practice, and (c) sufficient ongoing supervision for those implementing the practice.

Stakeholder: A stakeholder is an individual, organization, constituent group, or other entity that has an interest in and will be affected by a proposed grant project.

Sustainability: Sustainability is the ability to continue a program or practice after SAMHSA grant funding has ended.

Target Population: The target population is the specific population of people whom a particular program or practice is designed to serve or reach.

Wraparound Service: Wraparound services are non-clinical supportive services—such as child care, vocational, educational, and transportation services—that are designed to improve the individual's access to and retention in the proposed project.

Appendix C—National Registry of Effective Programs and Practices

To help SAMHSA's constituents learn more about science-based programs, SAMHSA's Center for Substance Abuse Prevention (CSAP) created a National Registry of Effective Programs and Practices (NREPP) to review and identify effective programs. NREPP seeks candidates from the practice community and the scientific literature. While the initial focus of NREPP was substance abuse prevention programming, NREPP has expanded its scope and now includes prevention and treatment of substance abuse and of co-occurring substance abuse and mental disorders, and psychopharmacological programs and workplace programs.

NREPP includes three categories of programs: Effective Programs, Promising Programs, and Model Programs. Programs defined as Effective have the option of becoming Model Programs if their developers choose to take part in SAMHSA dissemination efforts. The conditions for making that choice, together with definitions of the three major criteria, are as follows.

Promising Programs have been implemented and evaluated sufficiently and are scientifically defensible. They have positive outcomes in preventing substance abuse and related behaviors. However, they have not yet been shown to have sufficient rigor and/or consistently positive outcomes required for Effective Program status. Nonetheless, Promising Programs are eligible to be elevated to Effective/Model status after review of additional documentation regarding program effectiveness. Originated from a range of settings and spanning target populations, Promising Programs can guide prevention, treatment, and rehabilitation.

Effective Programs are well-implemented, well-evaluated programs that produce consistently positive pattern of results (across domains and/or replications). Developers of Effective Programs have yet to help SAMHSA/CSAP disseminate their programs, but may do so themselves.

Model Programs are also well-implemented, well-evaluated programs, meaning they have been reviewed by NREPP according to rigorous standards of research. Their developers have agreed with SAMHSA to provide materials, training, and technical assistance for nationwide implementation. That helps ensure the program is carefully implemented and likely to succeed.

Programs that have met the NREPP standards for each category can be identified by accessing the NREPP Model Programs Web site at http://www.modelprograms.samhsa.gov.

Appendix D—Center for Mental Health Services Evidence-Based Practice Toolkits

SAMHSA's Center for Mental Health Services and the Robert Wood Johnson Foundation initiated the Evidence-Based Practices Project to: (1) Help more consumers and families access services that are effective, (2) help providers of mental health services develop effective services, and (3) help administrators support and maintain these services. The project is now also funded and endorsed by numerous national, State, local, private and public organizations, including the Johnson & Johnson Charitable Trust, the MacArthur Foundation, and the West Family Foundation.

The project has been developed through the cooperation of many Federal and State mental health organizations, advocacy groups, mental health providers, researchers, consumers and family members. A Web site (http://www.mentalhealthpractices.org) was created as part of Phase I of the project, which included the identification of the first cluster of evidence-based practices and the design of implementation resource kits to help people understand and use these practices successfully.

Basic information about the first six evidence-based practices is available on the web site. The six practices are:

1. Illness Management and Recovery.

2. Family Psychoeducation.

3. Medication Management Approaches in Psychiatry.

4. Assertive Community Treatment.

5. Supported Employment.

6. Integrated Dual Disorders Treatment.

Each of the resource kits contains information and materials written by and for the following groups:

—Consumers.

—Families and Other Supporters.

—Practitioners and Clinical Supervisors.

—Mental Health Program Leaders.

—Public Mental Health Authorities.

Material on the web site can be printed or downloaded with Acrobat Reader, and references are provided where additional information can be obtained.

Once published, the full kits will be available from National Mental Health Information Center at http://www.health.org or 1-800-789-CMHS (2647).

Appendix E—Effective Substance Abuse Treatment Practices

To assist potential applicants, SAMHSA's Center for Substance Abuse Treatment (CSAT) has identified the following listing of current publications on effective treatment practices for use by treatment professionals in treating individuals with substance abuse disorders. These publications are available from the National Clearinghouse for Alcohol and Drug Information (NCADI); Tele: 1-800-729-6686 or http://www.health.org and http://www.samhsa.gov/centers/csat2002/publications.html.

CSAT Treatment Improvement Protocols (TIPs) are consensus-based guidelines developed by clinical, research, and administrative experts in the field.

• Integrating Substance Abuse Treatment and Vocational Services. TIP 38 (2000) NCADI # BKD381.

• Substance Abuse Treatment for Persons with Child Abuse and Neglect Issues. TIP 36 (2000) NCADI # BKD343.

• Substance Abuse Treatment for Persons with HIV/AIDS. TIP 37 (2000) NCADI # BKD359.

• Brief Interventions and Brief Therapies for Substance Abuse. TIP 34 (1999) NCADI # BKD341.

• Enhancing Motivation for Change in Substance Abuse Treatment. TIP 35 (1999) NCADI # BKD342.

• Screening and Assessing Adolescents for Substance Use Disorders. TIP 31 (1999) NCADI # BKD306.

• Treatment for Stimulant Use Disorders. TIP 33 (1999) NCADI # BKD289.

• Treatment of Adolescents with Substance Use Disorders. TIP 32 (1999) NCADI # BKD307.

• Comprehensive Case Management for Substance Abuse Treatment. TIP 27 (1998) NCADI # BKD251.

• Continuity of Offender Treatment for Substance Use Disorders From Institution to Community. TIP 30 (1998) NCADI # BKD304.

• Naltrexone and Alcoholism Treatment. TIP 28 (1998) NCADI # BKD268.

• Substance Abuse Among Older Adults. TIP 26 (1998) NCADI # BKD250.

• Substance Use Disorder Treatment for People With Physical and Cognitive Disabilities. TIP 29 (1998) NCADI # BKD288.

• A Guide to Substance Abuse Services for Primary Care Clinicians. TIP 24 (1997) NCADI # BKD234.

• Substance Abuse Treatment and Domestic Violence. TIP 25 (1997) NCADI # BKD239.

• Treatment Drug Courts: Integrating Substance Abuse Treatment With Legal Case Processing. TIP 23 (1996) NCADI # BKD205.

• Alcohol and Other Drug Screening of Hospitalized Trauma Patients. TIP 16 (1995) NCADI # BKD164.

• Combining Alcohol and Other Drug Abuse Treatment With Diversion for Juveniles in the Justice System. TIP 21 (1995) NCADI # BKD169.

• Detoxification From Alcohol and Other Drugs. TIP 19 (1995) NCADI # BKD172.

• LAAM in the Treatment of Opiate Addiction. TIP 22 (1995) NCADI # BKD170.

• Matching Treatment to Patient Needs in Opioid Substitution Therapy. TIP 20 (1995) NCADI # BKD168.

• Planning for Alcohol and Other Drug Abuse Treatment for Adults in the Criminal Justice System. TIP 17 (1995) NCADI # BKD165.

• Assessment and Treatment of Cocaine-Abusing Methadone-Maintained Patients. TIP 10 (1994) NCADI # BKD157.

• Assessment and Treatment of Patients With Coexisting Mental Illness and Alcohol and Other Drug Abuse. TIP 9 (1994) NCADI # BKD134.

• Intensive Outpatient Treatment for Alcohol and Other Drug Abuse. TIP 8 (1994) NCADI # BKD139.

Other Effective Practice Publications:

CSAT Publications—

• Anger Management for Substance Abuse and Mental Health Clients: A Cognitive Behavioral Therapy Manual (2002) NCADI # BKD444.

• Anger Management for Substance Abuse and Mental Health Clients: Participant Workbook (2002) NCADI # BKD445.

• Multidimensional Family Therapy for Adolescent Cannabis Users. CYT Cannabis Youth Treatment Series Vol. 5 (2002) NCADI # BKD388.

• Navigating the Pathways: Lessons and Promising Practices in Linking Alcohol and Drug Services with Child Welfare. TAP 27 (2002) NCADI # BKD436.

• The Motivational Enhancement Therapy and Cognitive Behavioral Therapy Supplement: 7 Sessions of Cognitive Behavioral Therapy for Adolescent Cannabis Users. CYT Cannabis Youth Treatment Series Vol. 2 (2002) NCADI # BKD385.

• Family Support Network for Adolescent Cannabis Users. CYT Cannabis Youth Treatment Series Vol. 3 (2001) NCADI # BKD386.

• Identifying Substance Abuse Among TANF-Eligible Families. TAP 26 (2001) NCADI # BKD410.

• Motivational Enhancement Therapy and Cognitive Behavioral Therapy for Adolescent Cannabis Users: 5 Sessions. CYT Cannabis Youth Treatment Series Vol. 1 (2001) NCADI # BKD384.

• The Adolescent Community Reinforcement Approach for Adolescent Cannabis Users. CYT Cannabis Youth Treatment Series Vol. 4 (2001) NCADI # BKD387.

• Substance Abuse Treatment for Women Offenders: Guide to Promising Practices. TAP 23 (1999) NCADI # BKD310.

• Addiction Counseling Competencies: The Knowledge, Skills, and Attitudes of Professional Practice. TAP 21 (1998) NCADI # BKD246.

• Bringing Excellence to Substance Abuse Services in Rural and Frontier America. TAP 20 (1997) NCADI # BKD220.

• Counselor's Manual for Relapse Prevention with Chemically Dependent Criminal Offenders. TAP 19 (1996) NCADI # BKD723.

• Draft Buprenorphine Curriculum for Physicians (Note: the Curriculum is in DRAFT form and is currently being updated) http://www.buprenorphine.samhsa.gov.

• CSAT Guidelines for the Accreditation of Opioid Treatment Programs http://www.samhsa.gov/centers/csat/content/dpt/accreditation.htm.

• Model Policy Guidelines for Opioid Addiction Treatment in the Medical Office http://www.samhsa.gov/centers/csat/content/dpt/model_policy.htm.

NIDA Manuals—Available through NCADI—

• Brief Strategic Family Therapy. Manual 5 (2003) NCADI # BKD481.

• Drug Counseling for Cocaine Addiction: The Collaborative Cocaine Treatment Study Model. Manual 4 (2002) NCADI # BKD465.

• The NIDA Community-Based Outreach Model: A Manual to Reduce Risk HIV and Other Blood-Borne Infections in Drug Users. (2000) NCADI # BKD366.

• An Individual Counseling Approach to Treat Cocaine Addiction: The Collaborative Cocaine Treatment Study Model. Manual 3 (1999) NCADI # BKD337.

• Cognitive-Behavioral Approach: Treating Cocaine Addiction. Manual 1 (1998) NCADI # BKD254.

• Community Reinforcement Plus Vouchers Approach: Treating Cocaine Addiction. Manual 2 (1998) NCADI # BKD255.

NIAAA Publications—* These publications are available in PDF format or can be ordered on-line at http://www.niaaa.nih.gov/publications/guides.htm. An order form for the Project MATCH series is available on-line at http://www.niaaa.nih.gov/publications/match.htm. All publications listed can be ordered through the NIAAA Publications Distribution Center, P.O. Box 10686, Rockville, MD 20849-0686.

• * Alcohol Problems in Intimate Relationships: Identification and Intervention. A Guide for Marriage and Family Therapists (2003) NIH Pub. No. 03-5284.

• * Helping Patients with Alcohol Problems: A Health Practitioner's Guide. (2003) NIH Pub. No. 03-3769.

• Cognitive-Behavioral Coping Skills Therapy Manual. Project MATCH Series, Vol. 3 (1995) NIH Pub. No. 94-3724.

• Motivational Enhancement Therapy Manual. Project MATCH Series, Vol. 2 (1994) NIH Pub. No. 94-3723.

Appendix F—Statement Of Assurance.

As the authorized representative of the applicant organization, I assure SAMHSA that if {insert name of organization} application is within the funding range for a grant award, the organization will provide the SAMHSA Government Project Officer (GPO) with the following documents. I understand that if this documentation is not received by the GPO within the specified timeframe, the application will be removed from consideration for an award and the funds will be provided to another applicant meeting these requirements.

• A letter of commitment that specifies the nature of the participation and what service(s) will be provided from every service provider organization, listed in Appendix 1 of the application, that has agreed to participate in the project;

• Official documentation that all service provider organizations participating in the project have been providing relevant services for a minimum of 2 years prior to the date of the application in the area(s) in which services are to be provided. Official documents must definitively establish that the organization has provided relevant services for the last 2 years; and

• Official documentation that all participating service provider organizations are in compliance with all local (city, county) and State/tribal requirements for licensing, accreditation, and certification or official documentation from the appropriate agency of the applicable State/tribal, county, or other governmental unit that licensing, accreditation, and certification requirements do not exist. (Official documentation is a copy of each service provider organization's license, accreditation, and certification. Documentation of accreditation will not be accepted in lieu of an organization's license. A statement by, or letter from, the applicant organization or from a provider organization attesting to compliance with licensing, accreditation and certification or that no licensing, accreditation, certification requirements exist does not constitute adequate documentation.)

Signature of Authorized Representative

Date

Appendix G “ Logic Model Resources

Chen, W.W., Cato, B.M., & Rainford, N. (1998-9). Using a logic model to plan and evaluate a community intervention program: A case study. International Quarterly of Community Health Education, 18(4), 449-458.

Edwards, E.D., Seaman, J.R., Drews, J., & Edwards, M.E. (1995). A community approach for Native American drug and alcohol prevention programs: A logic model framework. Alcoholism Treatment Quarterly, 13(2), 43-62.

Hernandez, M. & Hodges, S. (2003). Crafting Logic Models for Systems of Care: Ideas into Action. [Making children's mental health services successful series, volume 1]. Tampa, FL: University of South Florida, The Louis de la Parte Florida Mental Health Institute, Department of Child & Family Studies. http://cfs.fmhi.usf.edu or phone (813) 974-4651

Hernandez, M. & Hodges, S. (2001). Theory-based accountability. In M. Hernandez & S. Hodges (Eds.), Developing Outcome Strategies in Children's Mental Health, pp. 21-40. Baltimore: Brookes.

Julian, D.A. (1997). Utilization of the logic model as a system level planning and evaluation device. Evaluation and Planning, 20(3), 251-257.

Julian, D.A., Jones, A., & Deyo, D. (1995). Open systems evaluation and the logic model: Program planning and evaluation tools. Evaluation and Program Planning, 18(4), 333-341.

Patton, M.Q. (1997). Utilization-Focused Evaluation (3rd Ed.), pp. 19, 22, 241. Thousand Oaks, CA: Sage.

Wholey, J.S., Hatry, H.P., Newcome, K.E. (Eds.) (1994). Handbook of Practical Program Evaluation. San Francisco, CA: Jossey-Bass Inc.

Appendix H—Sample Budget and Justification

Illustration of a Sample Detailed Budget and Narrative Justification to Accompany SF 424A: Section B for 01 Budget Period

Object Class Categories

Personnel

Job title | Name | Annual salary | Level of effort | Salary being requested
Project Director | J. Doe | $30,000 | 1.0 | $30,000
Secretary | Unnamed | 18,000 | 0.5 | 9,000
Counselor | R. Down | 25,000 | 1.0 | 25,000

Enter Personnel subtotal on 424A, Section B, 6.a. $64,000

Fringe Benefits (24%) $15,360

Enter Fringe Benefits subtotal on 424A, Section B, 6.b. $15,360

Travel

2 trips for SAMHSA Meetings for 2 Attendees (Airfare @ $600 x 4 = $2,400) + (per diem @ $120 × 4 × 6 days = $2,880) | $5,280
Local Travel (500 miles × .24 per mile) | 120

Enter Travel subtotal on 424A, Section B, 6.c. $ 5,400

Equipment (List Individually)

“Equipment” means an article of nonexpendable, tangible personal property having a useful life of more than one year and an acquisition cost which equals the lesser of (a) the capitalization level established by the governmental unit or nongovernmental applicant for financial statement purposes, or (b) $5000.

Enter Equipment subtotal on 424A, Section B, 6.d.

Supplies

Office Supplies | $500
Computer Software—1 WordPerfect | 500

Enter Supplies subtotal on 424A, Section B, 6.e. $1,000

Contractual Costs

Evaluation

Job title | Name | Annual salary | Salary being requested | Level of effort
Evaluator | J. Wilson | $48,000 | $24,000 | 0.5
Other staff |  | 18,000 | 18,000 | 1.0

Fringe Benefits (25%) $10,500

Travel

2 trips × 1 Evaluator ($600 × 2) | $1,200
per diem @ $120 × 6 | 720
Supplies (General Office) | 500

Evaluation Direct | $54,920
Evaluation Indirect Costs (19%) | 10,435
Evaluation Subtotal | 65,355

Training

Job title | Name | Level of effort | Salary being requested
Coordinator | M. Smith | 0.5 | $12,000
Admin. Asst. | N. Jones | 0.5 | 9,000

Fringe Benefits (25%) $5,250

Travel

2 Trips for Training Airfare @ $600 × 2 | $1,200
Per Diem $120 × 2 × 2 days | 480
Local (500 miles × .24/mile) | 120

Supplies

Office Supplies | $500
Software (WordPerfect) | 500

Other

Rent (500 Sq. Ft. × $9.95) | $4,975
Telephone | 500
Maintenance (e.g., van) | 2,500
Audit | 3,000

Training Direct | $40,025
Training Indirect | 0

Enter Contractual subtotal on 424A, Section B, 6.f. $105,380

Other

Consultants = Expert @ $250/day × 6 day (If expert is known, should list by name) | $1,500

Enter Other subtotal on 424A, Section B, 6.h. $1,500

Total Direct Charges (sum of 6.a-6.h)

Enter Total Direct on 424A, Section B, 6.i. $192,640

Indirect Costs

15% of Salary and Wages (copy of negotiated indirect cost rate agreement attached)

Enter Indirect subtotal of 424A, Section B, 6.j. $9,600

Totals

Enter Total on 424A, Section B, 6.k. $202,240

Justification

Personnel—Describe the role and responsibilities of each position.

Fringe Benefits—List all components of the fringe benefit rate.

Equipment—List equipment and describe the need and the purpose of the equipment in relation to the proposed project.

Supplies—Generally self-explanatory; however, if not, describe need. Include explanation of how the cost has been estimated.

Travel—Explain need for all travel other than that required by SAMHSA.

Contractual Costs—Explain the need for each contractual arrangement and how these components relate to the overall project.

Other—Generally self-explanatory. If consultants are included in this category, explain the need and how the consultant's rate has been determined.

Indirect Cost Rate—If your organization has no indirect cost rate, please indicate whether your organization plans to a) waive indirect costs if an award is issued, or b) negotiate and establish an indirect cost rate with DHHS within 90 days of award issuance.

Calculation of Future Budget Periods (Based on First 12-Month Budget Period)
[Review and verify the accuracy of future year budget estimates. Increases or decreases in the future years must be explained and justified and no cost of living increases will be honored. (Note: new salary cap of $175,700 is effective for all FY 2005 awards.) *]
| First 12-month period | Second 12-month period | Third 12-month period
Personnel:
Project Director | 30,000 | 30,000 | 30,000
Secretary** | 9,000 | 18,000 | 18,000
Counselor | 25,000 | 25,000 | 25,000
Total Personnel | 64,000 | 73,000 | 73,000
Fringe Benefits (24%) | 15,360 | 17,520 | 17,520
Travel | 5,400 | 5,400 | 5,400
Equipment | -0- | -0- | -0-
Supplies*** | 1,000 | 520 | 520
Contractual:
Evaluation**** | 65,355 | 67,969 | 70,688
Training | 40,025 | 40,025 | 40,025
Other | 1,500 | 1,500 | 1,500
Total Direct Costs | 192,640 | 205,934 | 208,653
Indirect Costs (15% S&W) | 9,600 | 9,600 | 9,600
Total Costs | 202,240 | 216,884 | 219,603
*Consistent with the requirement in the Consolidated Appropriations Act, Public Law 108-199.
**Increased from 50% to 100% effort in 02 through 03 budget periods.
***Increased amount in 01 year represents costs for software.
****Increased amounts in 02 and 03 years are reflected of the increase in client data collection.

The Federal dollars requested for all object class categories for the first 12-month budget period are entered on Form 424A, Section B, Column (1), lines 6a-6i. The total Federal dollars requested for the second through the fifth 12-month budget periods are entered on Form 424A, Section E, Columns (b)-(e), line 20. The RFA will specify the maximum number of years of support that may be requested.

Infrastructure Grants—INF 05 PA (Initial Announcement)

Catalogue of Federal Domestic Assistance (CFDA) No.: 93.243 (unless otherwise specified in a NOFA in the Federal Register and on http://www.grants.gov)

Key Dates
Application Deadline | This Program Announcement provides general instructions and guidelines for multiple funding opportunities. Application deadlines for specific funding opportunities will be published in Notices of Funding Availability (NOFAs) in the Federal Register and on http://www.grants.gov.
Intergovernmental Review (E.O. 12372) | Letters from State Single Point of Contact (SPOC) are due no later than 60 days after application deadline.
Public Health System Impact Statement (PHSIS)/SSA Coordination | Applicants must send the PHSIS to appropriate State and local health agencies by application deadline. Comments from Single State Agency are due no later than 60 days after application deadline.

Table of Contents

Funding Opportunity Description

1. Introduction

2. Expectations

II. Award Information

1. Award Amount

2. Funding Mechanism

III. Eligibility Information

1. Eligible Applicants

2. Cost Sharing

IV. Application and Submission Information

1. Address to Request Application Package

2. Content and Form of Application Submission

3. Submission Dates and Times

4. Intergovernmental Review (E.O. 12372) Requirements

5. Funding Limitations/Restrictions

6. Other Submission Requirements

V. Application Review Information

1. Evaluation Criteria

2. Review and Selection Process

VI. Award Administration Information

1. Award Notices

2. Administrative and National Policy Requirements

3. Reporting Requirements

VII. Agency Contacts

Appendix A—Checklist for Formatting Requirements and Screenout Criteria for SAMHSA Grant Applications

Appendix B—Glossary

Appendix C—Logic Model Resources

Appendix D—Sample Budget and Justification

I. Funding Opportunity Description

1. Introduction

The Substance Abuse and Mental Health Services Administration (SAMHSA) announces its intent to solicit applications for Infrastructure Grants. This program announcement must be considered in conjunction with a full Notice of Funding Availability (NOFA), which specifies the grant program's purpose, target population, and other requirements of the program. These grants will increase the capacity of mental health and/or substance abuse service systems to support effective programs and services. Applicants who seek Federal support to develop or enhance their service system infrastructure in order to support effective substance abuse and/or mental health services should apply for awards under this announcement.

SAMHSA also funds grants under three other standard grant announcements:

■ Services Grants provide funding to implement substance abuse and mental health services.

■ Best Practices Planning and Implementation Grants help communities and providers identify practices to effectively meet local needs, develop strategic plans for implementing/adapting those practices and pilot-test practices prior to full-scale implementation.

■ Service to Science Grants document and evaluate innovative practices that address critical substance abuse and mental health service gaps but that have not yet been formally evaluated.

This announcement describes the general program design and provides application instructions for all SAMHSA Infrastructure Grants. The availability of funds for specific Infrastructure Grants will be announced in supplementary Notices of Funding Availability (NOFAs) in the Federal Register and at http://www.grants.gov—the Federal grant announcement Web page.

SAMHSA's Infrastructure Grants are authorized under Section 509, 516 and/or 520A of the Public Health Service Act, unless otherwise specified in a NOFA in the Federal Register and on http://www.grants.gov.

Typically, funding for Infrastructure Grants will be targeted to specific populations and/or issue areas, which will be specified in the NOFAs. The NOFAs will also:

■ Specify total funding available for the first year of the grants and the expected size and number of awards;

■ Provide the application deadline;

■ Note any specific program requirements for each funding opportunity; and

■ Include any limitations or exceptions to the general provisions in this announcement (e.g., eligibility, allowable activities).

It is, therefore, critical that you consult the NOFA as well as this announcement in developing your grant application.

2. Expectations

SAMHSA's Infrastructure Grants support an array of activities to help the grantee build a solid foundation for delivering and sustaining effective substance abuse prevention and/or treatment and/or mental health services.

SAMHSA recognizes that each applicant will start from a unique point in developing infrastructure and will serve populations/communities with specific needs. Awardees may pursue diverse strategies and methods to achieve their infrastructure development and capacity expansion goals. Successful applicants will provide a coherent and detailed conceptual “roadmap” of the process by which they have assessed or intend to assess service system needs and plan/implement infrastructure development strategies that meet those needs. The plan put forward in the grant application must show the linkages among needs, the proposed infrastructure development strategy, and increased system capacity that will enhance and sustain effective programs and services.

2.1 Allowable Activities

SAMHSA's Infrastructure Grants will support the following types of activities. Applicants must refer to the NOFA for required activities and exceptions to allowable activities.

Infrastructure Development

Infrastructure Grant funds must be used primarily to support infrastructure development, including the following types of activities:

■ Needs assessment

■ Strategic planning

■ Financing/coordination of funding streams

■ Organizational/structural change (e.g., to create locus of responsibility for a specific issue/population, or to increase access to or efficiency of services)

■ Development of interagency coordination mechanisms

■ Provider/network development

■ Policy development to support needed service system improvements (e.g., rate-setting activities, establishment of standards of care, development/revision of credentialing, licensure, or accreditation requirements)

■ Quality improvement efforts

■ Performance measurement development

■ Workforce development (e.g., training, support for licensure, credentialing, or accreditation)

■ Data infrastructure/MIS development

Implementation Pilots (maximum 15 percent of total grant award)

Depending on the scope of the project (see description of award categories below), up to 15 percent of the total grant award may be used for “implementation pilots” to test the effectiveness of the infrastructure changes on services delivery. Funds may not be used to provide direct services except in the context of an implementation pilot.

2.2 Data and Performance Measurement

The Government Performance and Results Act of 1993 (Pub. L.103-62, or “GPRA”) requires all Federal agencies to set program performance targets and report annually on the degree to which the previous year's targets were met.

Agencies are expected to evaluate their programs regularly and to use results of these evaluations to explain their successes and failures and justify requests for funding.

To meet the GPRA requirements, SAMHSA must collect performance data (i.e., “GPRA data”) from grantees. Grantees are required to report these GPRA data to SAMHSA on a timely basis.

Specifically, grantees will be required to provide data on a set of required measures, as specified in the NOFA. The data collection tools to be used for reporting the required data will be provided in the application kits distributed by SAMHSA's clearinghouses and posted on SAMHSA's website along with each NOFA. In your application, you must demonstrate your ability to collect and report on these measures, and you may be required to provide some baseline data.

The terms and conditions of the grant award also will specify the data to be submitted and the schedule for submission. Grantees will be required to adhere to these terms and conditions of award.

Applicants should be aware that SAMHSA is working to develop a set of required core performance measures for each of SAMHSA's standard grants (i.e., Services Grants, Infrastructure Grants, Best Practices Planning and Implementation Grants, and Service-to-Science Grants). As this effort proceeds, some of the data collection and reporting requirements included in SAMHSA's NOFAs may change. All grantees will be expected to comply with any changes in data collection requirements that occur during the grantee's project period.

2.3 Grantee Meetings

You must plan to send a minimum of two people (including the Project Director) to at least one joint grantee meeting in each year of the grant, and you must include funding for this travel in your budget. At these meetings, grantees will present the results of their projects and Federal staff will provide technical assistance. Each meeting will be 3 days. These meetings will usually be held in the Washington, DC, area and attendance is mandatory.

2.4 Evaluation

Grantees must evaluate their projects, and applicants are required to describe their evaluation plans in their applications. The evaluation should be designed to provide regular feedback to the project to improve services. The evaluation must include both process and outcome components. Process and outcome evaluations must measure change relating to project goals and objectives over time compared to baseline information. Control or comparison groups are not required. You must consider your evaluation plan when preparing the project budget.

Process components should address issues such as:

■ How closely did implementation match the plan?

■ What types of deviation from the plan occurred?

■ What led to the deviations?

■ What impact did the deviations have on the intervention and evaluation?

■ Who provided (program, staff) what services (modality, type, intensity, duration), to whom (individual characteristics), in what context (system, community), and at what cost

(facilities, personnel, dollars)?

Outcome components should address issues such as:

■ What was the effect of infrastructure development on service capacity and other system outcomes?

■ What program/contextual factors were associated with outcomes?

■ What individual factors were associated with outcomes?

■ How durable were the effects?

If the project includes an implementation pilot involving services delivery, the evaluation should include client and system outcomes.

No more than 20% of the total grant award may be used for evaluation and data collection. The evaluation and data collection may be considered “Infrastructure” and/or “Implementation Pilots” expenditures, depending on their purpose.

II. Award Information

1. Award Amount

The NOFA will specify the expected award amount for each funding opportunity. Regardless of the amount specified in the NOFA, the actual award amount will depend on the availability of funds.

Two types of Infrastructure Grants will be made:

Category 1—Small Infrastructure Grants. Category 1 grants will be limited in scope as specified in the NOFA. For example, allowable activities might be limited to workforce development, data infrastructure, or strategic planning. Implementation pilots are not allowed in Category 1 awards. Category 1 awards are expected to be for a period of 1-3 years in amounts ranging from $250,000-$500,000 per year.

Category 2—Comprehensive Infrastructure Grants. The scope of the Category 2 grants will be much larger. While applicants are not required to include all of the allowable activities in their proposed projects, the proposed projects must encompass multiple domains (e.g., needs assessment, strategic and financial planning, organizational/structural change, and network development). Category 2 awards may use a maximum of 15 percent of the total grant award for implementation pilots. Category 2 awards are expected to be for a period of 3-5 years in amounts ranging from $750,000-$3 million per year.

Proposed budgets cannot exceed the allowable amount as specified in the NOFA in any year of the proposed project. Annual continuation awards will depend on the availability of funds, grantee progress in meeting project goals and objectives, and timely submission of required data and reports.

2. Funding Mechanism

The NOFA will indicate whether awards for each funding opportunity will be made as grants or cooperative agreements (see the Glossary in Appendix B for further explanation of these funding mechanisms). For cooperative agreements, the NOFA will describe the nature of Federal involvement in project performance and specify roles and responsibilities of grantees and Federal staff.

III. Eligibility Information

1. Eligible Applicants

Eligible applicants are domestic public and private nonprofit entities. For example, State, local or tribal governments; public or private universities and colleges; community- and faith-based organizations; and tribal organizations may apply. The statutory authority for this program precludes grants to for-profit organizations. The NOFA will indicate any limitations on eligibility.

2. Cost Sharing

Cost sharing (see Glossary) is not required in this program, and applications will not be screened out on the basis of cost sharing. However, you may include cash or in-kind (see Glossary) contributions in your proposal as evidence of commitment to the proposed project.

3. Other

Applications must comply with the following requirements, or they will be screened out and will not be reviewed: use of the PHS 5161-1 application; application submission requirements in Section IV-3 of this document; and formatting requirements provided in Section IV-2.3 of this document. Applicants should be aware that the NOFA may include additional requirements that, if not met, will result in applications being screened out and returned without review. These requirements will be specified in Section III-3 of the NOFA.

You also must comply with any additional requirements specified in the NOFA, such as the required signature of certain officials on the face page of the application and/or required memoranda of understanding with certain signatories.

IV. Application and Submission Information

(To ensure that you have met all submission requirements, a checklist is provided for your use in Appendix A of this document.)

1. Address to Request Application Package

You may request a complete application kit by calling one of SAMHSA's national clearinghouses:

■ For substance abuse prevention or treatment grants, call the National Clearinghouse for Alcohol and Drug Information (NCADI) at 1-800-729-6686.

■ For mental health grants, call the National Mental Health Information Center at 1-800-789-CMHS (2647).

You also may download the required documents from the SAMHSA Web site at http://www.samhsa.gov. Click on “Grant Opportunities.”

Additional materials available on this Web site include:

■ A technical assistance manual for potential applicants;

■ Standard terms and conditions for SAMHSA grants;

■ Guidelines and policies that relate to SAMHSA grants (e.g., guidelines on cultural competence, consumer and family participation, and evaluation); and

■ Enhanced instructions for completing the PHS 5161-1 application.

2. Content and Form of Application Submission

2.1 Application Kit

SAMHSA application kits include the following documents:

■ PHS 5161-1 (revised July 2000)—Includes the face page, budget forms, assurances, certification, and checklist. You must use the PHS 5161-1 unless otherwise specified in the NOFA. Applications that are not submitted on the required application form will be screened out and will not be reviewed.

■ Program Announcement (PA)—Includes instructions for the grant application. This document is the PA.

■ Notice of Funding Availability (NOFA)—Provides specific information about availability of funds, as well as any exceptions or limitations to provisions in the PA. The NOFAs will be published in the Federal Register, as well as on the Federal grants Web site (http://www.grants.gov). It is very important that you read the entire NOFA before beginning to write your application.

You must use all of the above documents in completing your application.

2.2 Required Application Components

To ensure equitable treatment of all applications, applications must be complete. In order for your application to be complete, it must include the required ten application components (Face Page, Abstract, Table of Contents, Budget Form, Project Narrative and Supporting Documentation, Appendices, Assurances, Certifications, Disclosure of Lobbying Activities, and Checklist).

□ Face Page—Use Standard Form (SF) 424, which is part of the PHS 5161-1. [Note: Beginning October 1, 2003, applicants will need to provide a Dun and Bradstreet (DUNS) number to apply for a grant or cooperative agreement from the Federal Government. SAMHSA applicants will be required to provide their DUNS number on the face page of the application. Obtaining a DUNS number is easy and there is no charge. To obtain a DUNS number, access the Dun and Bradstreet Web site at http://www.dunandbradstreet.com or call 1-866-705-5711. To expedite the process, let Dun and Bradstreet know that you are a public/private nonprofit organization getting ready to submit a Federal grant application.]

□ Abstract—Your total abstract should not be longer than 35 lines. In the first five lines or less of your abstract, write a summary of your project that can be used, if your project is funded, in publications, reporting to Congress, or press releases.

□ Table of Contents—Include page numbers for each of the major sections of your application and for each appendix.

□ Budget Form—Use SF 424A, which is part of the 5161-1. Fill out Sections B, C, and E of the SF 424A. A sample budget and justification is included in Appendix D of this Program Announcement.

□ Project Narrative and Supporting Documentation—The Project Narrative describes your project. It consists of Sections A through D. These sections in total may not be longer than 25 pages. (For example, remember that if your Project Narrative starts on page 5 and ends on page 30, it is 26 pages long, not 25 pages.) More detailed instructions for completing each section of the Project Narrative are provided in “Section V—Application Review Information” of this document.

The Supporting Documentation provides additional information necessary for the review of your application. This supporting documentation should be provided immediately following your Project Narrative in Sections E through H. There are no page limits for these sections, except for Section G, Biographical Sketches/Job Descriptions.

■ Section E—Literature Citations. This section must contain complete citations, including titles and all authors, for any literature you cite in your application.

■ Section F—Budget Justification, Existing Resources, Other Support. You must provide a narrative justification of the items included in your proposed budget, as well as a description of existing resources and other support you expect to receive for the proposed project. Be sure to show that no more than 20% of the total grant award will be used for data collection and evaluation. If you are proposing a services implementation pilot (allowed only for Category 2 applicants), show that no more than 15% of the total grant award will be used for the pilot.

■ Section G—Biographical Sketches and Job Descriptions.

○ Include a biographical sketch for the Project Director and other key positions. Each sketch should be 2 pages or less. If the person has not been hired, include a position description and/or letter of commitment with a current biographical sketch from the individual.

○ Include job descriptions for key personnel. Job descriptions should be no longer than 1 page each.

○ Sample sketches and job descriptions are listed on page 22, Item 6 in the Program Narrative section of the PHS 5161-1.

■ Section H—Confidentiality and SAMHSA Participant Protection/Human Subjects. Section IV-2.4 of this document describes requirements for the protection of the confidentiality, rights and safety of participants in SAMHSA-funded activities. This section also includes guidelines for completing this part of your application.

□ Appendices 1 through 5—Use only the appendices listed below. If your application includes any appendices not required in the grant announcement or NOFA, they will be disregarded. Do not use more than a total of 30 pages for Appendices 1, 3 and 4 combined. There are no page limitations for Appendices 2 and 5. Do not use appendices to extend or replace any of the sections of the Project Narrative unless specifically required in the NOFA. Reviewers will not consider them if you do.

■ Appendix 1: Letters of Support

■ Appendix 2: Data Collection Instruments/Interview Protocols

■ Appendix 3: Sample Consent Forms

■ Appendix 4: Letter to the SSA (if applicable; see Section IV-4 of this document)

■ Appendix 5: A copy of the State or County Strategic Plan, a State or county needs assessment, or a letter from the State or county indicating that the proposed project addresses a State-or county-identified priority.

□ Assurances—Non-Construction Programs. Use Standard Form 424B found in PHS 5161-1. Some applicants will be required to complete the Assurance of Compliance with SAMHSA Charitable Choice Statutes and Regulations Form SMA 170. If this assurance applies to a specific funding opportunity, it will be posted on SAMHSA's Web site with the NOFA and provided in the application kits available at SAMHSA's clearinghouse (NCADI).

□ Certifications—Use the “Certifications” forms found in PHS 5161-1.

□ Disclosure of Lobbying Activities—Use Standard Form LLL found in the PHS 5161-1. Federal law prohibits the use of appropriated funds for publicity or propaganda purposes, or for the preparation, distribution, or use of the information designed to support or defeat legislation pending before the Congress or State legislatures. This includes “grass roots” lobbying, which consists of appeals to members of the public suggesting that they contact their elected representatives to indicate their support for or opposition to pending legislation or to urge those representatives to vote in a particular way.

□ Checklist—Use the Checklist found in PHS 5161-1. The Checklist ensures that you have obtained the proper signatures, assurances and certifications and is the last page of your application.

2.3 Application Formatting Requirements

Applicants also must comply with the following basic application requirements. Applications that do not comply with these requirements will be screened out and will not be reviewed.

□ Information provided must be sufficient for review.

□ Text must be legible.

□ Type size in the Project Narrative cannot exceed an average of 15 characters per inch, as measured on the physical page. (Type size in charts, tables, graphs, and footnotes will not be considered in determining compliance.)

□ Text in the Project Narrative cannot exceed 6 lines per vertical inch.

□ Paper must be white paper and 8.5 inches by 11.0 inches in size.

□ To ensure equity among applications, the amount of space allowed for the Project Narrative cannot be exceeded.

□ Applications would meet this requirement by using all margins (left, right, top, bottom) of at least one inch each, and adhering to the 25-page limit for the Project Narrative.

□ Should an application not conform to these margin or page limits, SAMHSA will use the following method to determine compliance: The total area of the Project Narrative (excluding margins, but including charts, tables, graphs and footnotes) cannot exceed 58.5 square inches multiplied by 25. This number represents the full page less margins, multiplied by the total number of allowed pages.

□ Space will be measured on the physical page. Space left blank within the Project Narrative (excluding margins) is considered part of the Project Narrative, in determining compliance.

To facilitate review of your application, follow these additional guidelines. Failure to adhere to the following guidelines will not, in itself, result in your application being screened out and returned without review. However, following these guidelines will help reviewers to consider your application.

□ Pages should be typed single-spaced in black ink, with one column per page. Pages should not have printing on both sides.

□ Please number pages consecutively from beginning to end so that information can be located easily during review of the application. The cover page should be page 1, the abstract page should be page 2, and the table of contents page should be page 3. Appendices should be labeled and separated from the Project Narrative and budget section, and the pages should be numbered to continue the sequence.

□ The page limit of a total of 30 pages for Appendices 1, 3 and 4 combined should not be exceeded.

□ Send the original application and two copies to the mailing address in Section IV-6.1 of this document. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

2.4 SAMHSA Confidentiality and Participant Protection Requirements and Protection of Human Subjects Regulations

Applicants must describe procedures relating to Confidentiality, Participant Protection and the Protection of Human Subjects Regulations in Section H of the application, using the guidelines provided below. Problems with confidentiality, participant protection, and protection of human subjects identified during peer review of the application may result in the delay of funding.

Confidentiality and Participant Protection

All applicants must describe how they will address the requirements for each of the following elements relating to confidentiality and participant protection.

1. Protect Clients and Staff From Potential Risks

■ Identify and describe any foreseeable physical, medical, psychological, social, and legal risks or potential adverse effects as a result of the project itself or any data collection activity.

■ Describe the procedures you will follow to minimize or protect participants against potential risks, including risks to confidentiality.

■ Identify plans to provide guidance and assistance in the event there are adverse effects to participants.

■ Where appropriate, describe alternative treatments and procedures that may be beneficial to the participants. If you choose not to use these other beneficial treatments, provide the reasons for not using them.

2. Fair Selection of Participants

■ Describe the target population(s) for the proposed project. Include age, gender, and racial/ethnic background and note if the population includes homeless youth, foster children, children of substance abusers, pregnant women, or other targeted groups.

■ Explain the reasons for including groups of pregnant women, children, people with mental disabilities, people in institutions, prisoners, and individuals who are likely to be particularly vulnerable to HIV/AIDS.

■ Explain the reasons for including or excluding participants.

■ Explain how you will recruit and select participants. Identify who will select participants.

3. Absence of Coercion

■ Explain if participation in the project is voluntary or required. Identify possible reasons why participation is required, for example, court orders requiring people to participate in a program.

■ If you plan to compensate participants, state how participants will be awarded incentives (e.g., money, gifts, etc.).

■ State how volunteer participants will be told that they may receive services intervention even if they do not participate in or complete the data collection component of the project.

4. Data Collection

■ Identify from whom you will collect data (e.g., from participants themselves, family members, teachers, others). Describe the data collection procedures and specify the sources for obtaining data (e.g., school records, interviews, psychological assessments, questionnaires, observation, or other sources). Where data are to be collected through observational techniques, questionnaires, interviews, or other direct means, describe the data collection setting.

■ Identify what type of specimens (e.g., urine, blood) will be used, if any. State if the material will be used just for evaluation or if other use(s) will be made. Also, if needed, describe how the material will be monitored to ensure the safety of participants.

■ Provide in Appendix 2, “Data Collection Instruments/Interview Protocols,” copies of all available data collection instruments and interview protocols that you plan to use.

5. Privacy and Confidentiality

■ Explain how you will ensure privacy and confidentiality. Include who will collect data and how it will be collected.

■ Describe:

○ How you will use data collection instruments.

○ Where data will be stored.

○ Who will or will not have access to information.

○ How the identity of participants will be kept private, for example, through the use of a coding system on data records, limiting access to records, or storing identifiers separately from data.

Note: If applicable, grantees must agree to maintain the confidentiality of alcohol and drug abuse client records according to the provisions of Title 42 of the Code of Federal Regulations, Part 2.

6. Adequate Consent Procedures

■ List what information will be given to people who participate in the project. Include the type and purpose of their participation. Identify the data that will be collected, how the data will be used and how you will keep the data private.

■ State:

○ Whether or not their participation is voluntary.

○ Their right to leave the project at any time without problems.

○ Possible risks from participation in the project.

○ Plans to protect clients from these risks.

■ Explain how you will get consent for youth, the elderly, people with limited reading skills, and people who do not use English as their first language.

Note: If the project poses potential physical, medical, psychological, legal, social or other risks, you must obtain written informed consent.

■ Indicate if you will obtain informed consent from participants or assent from minors along with consent from their parents or legal guardians. Describe how the consent will be documented. For example: Will you read the consent forms? Will you ask prospective participants questions to be sure they understand the forms? Will you give them copies of what they sign?

■ Include, as appropriate, sample consent forms that provide for: (1) Informed consent for participation in service intervention; (2) informed consent for participation in the data collection component of the project; and (3) informed consent for the exchange (releasing or requesting) of confidential information. The sample forms must be included in Appendix 3, “Sample Consent Forms”, of your application. If needed, give English translations.

Note: Never imply that the participant waives or appears to waive any legal rights, may not end involvement with the project, or releases your project or its agents from liability for negligence.

■ Describe if separate consents will be obtained for different stages or parts of the project. For example, will they be needed for both participant protection in treatment intervention and for the collection and use of data?

■ Additionally, if other consents (e.g., consents to release information to others or gather information from others) will be used in your project, provide a description of the consents. Will individuals who do not consent to having individually identifiable data collected for evaluation purposes be allowed to participate in the project?

7. Risk/Benefit Discussion

Discuss why the risks are reasonable compared to expected benefits and importance of the knowledge from the project.

Protection of Human Subjects Regulations

SAMHSA expects that most grantees funded under Infrastructure Grant programs will not be required to comply with the Protection of Human Subjects Regulations (45 CFR part 46). However, in some instances, special evaluation and data collection requirements for a particular funding opportunity may necessitate that all grantees comply with these regulations. In such instances, the NOFA will explicitly state that grantees must comply with the regulations.

If the NOFA does not explicitly state that grantees must comply with the Protection of Human Subjects Regulations (45 CFR part 46), grantees will be required to comply with the regulations only if the project-specific evaluation design proposed by the grantee requires compliance with the regulations.

Applicants whose projects must comply with the Protection of Human Subjects Regulations must describe the process for obtaining Institutional Review Board (IRB) approval fully in their applications. While IRB approval is not required at the time of grant award, these applicants will be required, as a condition of award, to provide the documentation that an Assurance of Compliance is on file with the Office for Human Research Protections (OHRP) and that IRB approval has been received prior to enrolling any clients in the proposed project.

General information about Protection of Human Subjects Regulations can be obtained on the web at http://hhs.gov/ohrp. You may also contact OHRP by e-mail (ohrp@osophs.dhhs.gov) or by phone (301-496-7005). SAMHSA-specific questions related to Protection of Human Subjects Regulations should be directed to the program contact listed in Section VII of the NOFA.

3. Submission Dates and Times

Deadlines for submission of applications for specific funding opportunities will be published in the NOFAs in the Federal Register and posted on the Federal grants Web site (www.grants.gov).

Hand carried applications will not be accepted. Applications may be shipped using only DHL, Falcon Carrier, Federal Express (FedEx), United Parcel Service (UPS), or the United States Postal Service (USPS).

Your application must be received by the application deadline, or you must have proof of its timely submission as specified below.

• For packages submitted via DHL, Falcon Carrier, Federal Express (FedEx), or United Parcel Service (UPS), timely submission shall be evidenced by a delivery service receipt indicating the application was delivered to a carrier service at least 24 hours prior to the application deadline.

• For packages submitted via the United States Postal Service (USPS), proof of timely submission shall be a postmark not later than 1 week prior to the application deadline, and the following upon request by SAMHSA:

○ Proof of mailing using USPS Form 3817 (Certificate of Mailing), or

○ A receipt from the Post Office containing the post office name, location, and date and time of mailing.

You will be notified by postal mail that your application has been received.

Applications not meeting the timely submission requirements above will not be considered for review. Please remember that mail sent to Federal facilities undergoes a security screening prior to delivery. Allow sufficient time for your package to be delivered.

If an application is mailed to a location or office (including room number) that is not designated for receipt of the application, and that results in the designated office not receiving your application in accordance with the requirements for timely submission, it will cause the application to be considered late and ineligible for review.

SAMHSA will not accept or consider any applications sent by facsimile.

SAMHSA is collaborating with http://www.grants.gov to accept electronic submission of applications only for select funding opportunities. Unless specifically indicated in the NOFA, electronic submission of applications will not be accepted.

4. Intergovernmental Review (E.O. 12372) Requirements

Executive Order 12372, as implemented through Department of Health and Human Services (DHHS) regulation at 45 CFR Part 100, sets up a system for State and local review of applications for Federal financial assistance. A current listing of State Single Points of Contact (SPOCs) is included in the application kit and can be downloaded from the Office of Management and Budget (OMB) Web site at http://www.whitehouse.gov/omb/grants/spoc.html.

■ Check the list to determine whether your State participates in this program. You do not need to do this if you are a federally recognized Indian tribal government.

■ If your State participates, contact your SPOC as early as possible to alert him/her to the prospective application(s) and to receive any necessary instructions on the State's review process.

■ For proposed projects serving more than one State, you are advised to contact the SPOC of each affiliated State.

■ The SPOC should send any State review process recommendations to the following address within 60 days of the application deadline:

For United States Postal Service: Crystal Saunders, Director of Grant Review, Office of Program Services, Substance Abuse and Mental Health Services Administration, Room 3-1044, 1 Choke Cherry Road, Rockville, MD 20857, ATTN: SPOC—Funding Announcement No. [fill in pertinent funding opportunity number from NOFA].

For other delivery service: Crystal Saunders, Director of Grant Review, Office of Program Services, Substance Abuse and Mental Health Services Administration, Room 3-1044, 1 Choke Cherry Road, Rockville, MD 20850, ATTN: SPOC—Funding Announcement No. [fill in pertinent funding opportunity number from NOFA].

In addition, community-based, non-governmental service providers who are not transmitting their applications through the State must submit a Public Health System Impact Statement (PHSIS) (approved by OMB under control no. 0920-0428; see burden statement below) to the head(s) of appropriate State or local health agencies in the area(s) to be affected no later than the pertinent receipt date for applications. The PHSIS is intended to keep State and local health officials informed of proposed health services grant applications submitted by community-based, non-governmental organizations within their jurisdictions. State and local governments and Indian tribal government applicants are not subject to these requirements.

The PHSIS consists of the following information:

■ A copy of the face page of the application (SF 424); and

■ A summary of the project, no longer than one page in length, that provides: (1) A description of the population to be served, (2) a summary of the services to be provided, and (3) a description of the coordination planned with appropriate State or local health agencies.

For SAMHSA grants, the appropriate State agencies are the Single State Agencies (SSAs) for substance abuse and mental health. A listing of the SSAs can be found on SAMHSA's Web site at http://www.samhsa.gov. If the proposed project falls within the jurisdiction of more than one State, you should notify all representative SSAs.

Applicants who are not the SSA must include a copy of a letter transmitting the PHSIS to the SSA in Appendix 4, “Letter to the SSA.” The letter must notify the State that, if it wishes to comment on the proposal, its comments should be sent not later than 60 days after the application deadline to:

For United States Postal Service: Crystal Saunders, Director of Grant Review, Office of Program Services, Substance Abuse and Mental Health Services Administration, Room 3-1044, 1 Choke Cherry Road, Rockville, MD 20850, ATTN: SSA—Funding Announcement No. [fill in pertinent funding opportunity number from NOFA].

For other delivery service: Crystal Saunders, Director of Grant Review, Office of Program Services, Substance Abuse and Mental Health Services Administration, Room 3-1044, 1 Choke Cherry Road, Rockville, MD 20850, ATTN: SSA—Funding Announcement No. [fill in pertinent funding opportunity number from NOFA].

In addition:

■ Applicants may request that the SSA send them a copy of any State comments.

■ The applicant must notify the SSA within 30 days of receipt of an award.

[Public reporting burden for the Public Health System Reporting Requirement is estimated to average 10 minutes per response, including the time for copying the face page of SF 424 and the abstract and preparing the letter for mailing. An agency may not conduct or sponsor, and a person is not required to respond to, a collection of information unless it displays a currently valid OMB control number. The OMB control number for this project is 0920-0428. Send comments regarding this burden to CDC Clearance Officer, 1600 Clifton Road, MS D-24, Atlanta, GA 30333, ATTN: PRA (0920-0428).]

5. Funding Limitations/Restrictions

Cost principles describing allowable and unallowable expenditures for Federal grantees, including SAMHSA grantees, are provided in the following documents:

■ Institutions of Higher Education: OMB Circular A-21

■ State and Local Governments: OMB Circular A-87

■ Nonprofit Organizations: OMB Circular A-122

■ Appendix E Hospitals: 45 CFR Part 74

In addition, SAMHSA Infrastructure Grant recipients must comply with the following funding restrictions:

■ Infrastructure grant funds must be used for purposes supported by the program.

■ If requested project funds exceed $750,000, a maximum of 15% of grant award funds may be used for implementation pilots. Direct services may be funded only in the context of an implementation pilot.

■ No more than 20% of the grant award may be used for evaluation and data collection expenses. These expenses may be considered infrastructure or implementation pilot expenses, depending on the nature of the evaluation and data collection.

■ Infrastructure funds may not be used to pay for the purchase or construction of any building or structure to house any part of the grant project. Applications may request up to $75,000 for renovations and alterations of existing facilities.

■ SAMHSA will not accept a “research” indirect cost rate. The grantee must use the “other sponsored program rate” or the lowest rate available.

6. Other Submission Requirements

6.1 Where to Send Applications

Send applications to the following address:

For United States Postal Service: Crystal Saunders, Director of Grant Review, Office of Program Services, Substance Abuse and Mental Health Services Administration, Room 3-1044, 1 Choke Cherry Road, Rockville, MD 20850.

For other delivery service: Crystal Saunders, Director of Grant Review, Office of Program Services, Substance Abuse and Mental Health Services Administration, Room 3-1044, 1 Choke Cherry Road, Rockville, MD 20850.

Do not send applications to other agency contacts, as this could delay receipt. Be sure to include the funding announcement number from the NOFA in item number 10 on the face page of the application. If you require a phone number for delivery, you may use (240) 276-1199.

6.2 How To Send Applications

Mail or deliver an original application and 2 copies (including appendices) to the mailing address provided above, according to the instructions in Section IV-3. The original and copies must not be bound. Do not use staples, paper clips, or fasteners. Nothing should be attached, stapled, folded, or pasted.

Hand carried applications will not be accepted. Applications may be shipped using only DHL, Falcon Carrier, Federal Express (FedEx), United Parcel Service (UPS), or the United States Postal Service (USPS).

SAMHSA will not accept or consider any applications sent by facsimile.

Unless specifically indicated in the NOFA, electronic submission of applications will not be accepted.

V. Application Review Information

1. Evaluation Criteria

Your application will be reviewed and scored according to the quality of your response to the requirements listed below for developing the Project Narrative (Sections A-D). These sections describe what you intend to do with your project.

■ In developing the Project Narrative section of your application, use these instructions along with any additional instructions found in the NOFA. These are to be used instead of the “Program Narrative” instructions found in the PHS 5161-1.

■ You must use the four sections/headings listed below in developing your Project Narrative. Be sure to place the required information in the correct section, or it will not be considered. Your application will be scored according to how well you address the requirements for each section.

■ Reviewers will be looking for evidence of cultural competence in each section of the Project Narrative. Points will be assigned based on how well you address the cultural competence aspects of the evaluation criteria. SAMHSA's guidelines for cultural competence can be found on the SAMHSA Web site at http://www.samhsa.gov. Click on “Grant Opportunities.”

■ The Supporting Documentation you provide in Sections E-H and Appendices 1-5 will be considered by reviewers in assessing your response, along with the material in the Project Narrative.

■ The number of points after each heading below is the maximum number of points a review committee may assign to that section of your Project Narrative. Bullet statements in each section do not have points assigned to them. They are provided to invite the attention of applicants and reviewers to important areas within each section.

Section A: Statement of Need (10 Points)

■ Describe the target population (see Glossary) and the proposed catchment area (see Glossary), and justify the selection of both. Be sure to check the NOFA for any specific requirements regarding the target population and/or catchment area. Include the numbers to be served and demographic information. Discuss the target population's language, beliefs, norms and values, as well as socioeconomic factors that must be considered in delivering programs to this population.

■ Document the need for an enhanced infrastructure to increase the capacity to implement, sustain, and improve effective substance abuse prevention and/or treatment and/or mental health services for the proposed target population in the proposed catchment area. Documentation of need may come from local data or trend analyses, State data (e.g., from State Needs Assessments), and/or national data (e.g., from SAMHSA's National Household Survey on Drug Abuse and Health or from National Center for Health Statistics/Centers for Disease Control reports). For data sources that are not well known, provide sufficient information on how the data were collected so reviewers can assess the reliability and validity of the data.

■ Describe the service gaps, barriers, and other problems related to the need for infrastructure development. Describe the stakeholders (see Glossary) and resources in the target area that can help implement the needed infrastructure development.

■ Non-tribal applicants must show that identified needs are consistent with priorities of the State or county that has primary responsibility for the service delivery system. Include, in Appendix 5, a copy of the State or County Strategic Plan, a State or county needs assessment, or a letter from the State or county indicating that the proposed project addresses a State- or county-identified priority. Tribal applicants must provide similar documentation relating to tribal priorities.

■ Check the NOFA for any additional requirements.

Section B: Proposed Approach (35 Points)

■ Clearly state the purpose of the proposed project, with goals and objectives. Describe how achievement of goals will address the overall program purpose specified in the NOFA and increase system capacity to support effective substance abuse and/or mental health services.

■ Describe the proposed project. Address any and all expectations/required activities specified in the NOFA. Provide evidence that the proposed activities meet the infrastructure needs and show how your proposed infrastructure development strategy will meet the goals and objectives.

■ Provide a logic model (see Glossary) that demonstrates the linkage between the identified need, the proposed approach, and outcomes.

■ If you plan to include an advisory body in your project, describe its membership, roles and functions, and frequency of meetings.

■ Describe any other organizations that will participate and their roles and responsibilities. Demonstrate their commitment to the project. Include letters of commitment/coordination/support from these community organizations in Appendix 1 of the application. Identify any cash or in-kind contributions that will be made to the project.

■ Describe how the proposed project will address issues of age, race/ethnicity, culture, language, sexual orientation, disability, literacy, and gender in the target population.

■ Describe how members of the target population were involved in the preparation of the application, and how they will be involved in the planning, implementation, and evaluation of the project.

■ Describe the potential barriers to successful conduct of the proposed project and how you will overcome them.

■ Describe how your activities will improve substance abuse prevention and/or treatment and/or mental health services.

■ Provide a plan to secure resources to sustain the proposed infrastructure enhancements when Federal funding ends.

■ Check the NOFA for any additional requirements.

Section C: Staff, Management, and Relevant Experience (25 Points)

■ Provide a realistic time line for the project (chart or graph) showing key activities, milestones, and responsible staff. [Note: The time line should be part of the Project Narrative. It should not be placed in an appendix.]

■ Discuss the capability and experience of the applicant organization and other participating organizations with similar projects and populations, including experience in providing culturally appropriate/competent services.

■ Provide a list of staff who will participate in the project, showing the role of each and their level of effort and qualifications. Include the Project Director and other key personnel, such as the evaluator and treatment/prevention personnel.

■ Describe the racial/ethnic characteristics of key staff and indicate if any are members of the target population/community. If the target population is multi-linguistic, indicate if the staffing pattern includes bilingual and bicultural individuals.

■ Describe the resources available for the proposed project (e.g., facilities, equipment). If an implementation pilot is proposed that includes direct services, provide evidence that services will be provided in a location that is adequate, accessible, compliant with the Americans with Disabilities Act (ADA), and amenable to the target population.

■ Check the NOFA for any additional requirements.

Section D: Evaluation and Data (30 Points)

■ Describe the process and outcome evaluation. Include specific performance measures and target outcomes related to the goals and objectives identified for the project in Section B of your Project Narrative.

■ Document your ability to collect and report on the required performance measures as specified in the NOFA, including data required by SAMHSA to meet GPRA requirements. Specify and justify any additional measures you plan to use for your grant project.

■ Describe plans for data collection, management, analysis, interpretation and reporting. Describe the existing approach to the collection of data, along with any necessary modifications. Be sure to include data collection instruments/interview protocols in Appendix 2.

■ Discuss the reliability and validity of evaluation methods and instruments(s) in terms of the gender/age/culture of the target population.

■ Describe how collection, analysis and reporting of performance data will be integrated into the evaluation activities.

■ Check the NOFA for any additional requirements.

Note: Although the budget for the proposed project is not a review criterion, the Review Group will be asked to comment on the appropriateness of the budget after the merits of the application have been considered.

2. Review and Selection Process

SAMHSA applications are peer-reviewed according to the review criteria listed above. For those programs where the individual award is over $100,000, applications must also be reviewed by the appropriate National Advisory Council.

Decisions to fund a grant are based on:

■ The strengths and weaknesses of the application as identified by peer reviewers and, when appropriate, approved by the appropriate National Advisory Council;

■ Availability of funds;

■ Equitable distribution of awards in terms of geography (including urban, rural and remote settings) and balance among target populations and program size; and

■ After applying the aforementioned criteria, the following method for breaking ties: When funds are not available to fund all applications with identical scores, SAMHSA will make award decisions based on the application(s) that received the greatest number of points by peer reviewers on the evaluation criterion in Section V-1 with the highest number of possible points (Proposed Approach—35 points). Should a tie still exist, the evaluation criterion with the next highest possible point value will be used, continuing sequentially to the evaluation criterion with the lowest possible point value, should that be necessary to break all ties. If an evaluation criterion to be used for this purpose has the same number of possible points as another evaluation criterion, the criterion listed first in Section V-1 will be used first.

VI. Award Administration Information

1. Award Notices

After your application has been reviewed, you will receive a letter from SAMHSA through postal mail that describes the general results of the review, including the score that your application received.

If you are approved for funding, you will receive an additional notice, the Notice of Grant Award, signed by SAMHSA's Grants Management Officer. The Notice of Grant Award is the sole obligating document that allows the grantee to receive Federal funding for work on the grant project. It is sent by postal mail and is addressed to the contact person listed on the face page of the application.

If you are not funded, you can re-apply if there is another receipt date for the program.

2. Administrative and National Policy Requirements

2.1 General Requirements

■ You must comply with all terms and conditions of the grant award. SAMHSA's standard terms and conditions are available on the SAMHSA Web site at http://www.samhsa.gov/grants/generalinfo/useful_info.aspx.

■ Depending on the nature of the specific funding opportunity and/or the proposed project as identified during review, additional terms and conditions may be identified in the NOFA or negotiated with the grantee prior to grant award. These may include, for example:

◦ Actions required to be in compliance with human subjects requirements;

◦ Requirements relating to additional data collection and reporting;

◦ Requirements relating to participation in a cross-site evaluation; or

◦ Requirements to address problems identified in review of the application.

■ You will be held accountable for the information provided in the application relating to performance targets. SAMHSA program officials will consider your progress in meeting goals and objectives, as well as your failures and strategies for overcoming them, when making an annual recommendation to continue the grant and the amount of any continuation award. Failure to meet stated goals and objectives may result in suspension or termination of the grant award, or in reduction or withholding of continuation awards.

■ In an effort to improve access to funding opportunities for applicants, SAMHSA is participating in the U.S. Department of Health and Human Services “Survey on Ensuring Equal Opportunity for Applicants.” This survey is included in the application kit for SAMHSA grants. Applicants are encouraged to complete the survey and return it, using the instructions provided on the survey form.

3. Reporting Requirements

3.1 Progress and Financial Reports

■ Grantees must provide annual and final progress reports. The final progress report must summarize information from the annual reports, describe the accomplishments of the project, and describe next steps for implementing plans developed during the grant period.

■ Grantees must provide annual and final financial status reports. These reports may be included as separate sections of annual and final progress reports or can be separate documents. Because SAMHSA is extremely interested in ensuring that infrastructure development and enhancement efforts can be sustained, your financial reports must explain plans to ensure the sustainability (see Glossary) of efforts initiated under this grant. Initial plans for sustainability should be described in year 1 of the grant. In each subsequent year, you should describe the status of the project, successes achieved and obstacles encountered in that year.

■ SAMHSA will provide guidelines and requirements for these reports to grantees at the time of award and at the initial grantee orientation meeting after award. SAMHSA staff will use the information contained in the reports to determine the grantee's progress toward meeting its goals.

3.2 Government Performance and Results Act

The Government Performance and Results Act (GPRA) mandates accountability and performance-based management by Federal agencies. To meet the GPRA requirements, SAMHSA must collect performance data (i.e., “GPRA data”) from grantees. These requirements will be specified in the NOFA for each funding opportunity.

3.3 Publications

If you are funded under this grant program, you are required to notify the Government Project Officer (GPO) and SAMHSA's Publications Clearance Officer (240-276-2130) of any materials based on the SAMHSA-funded project that are accepted for publication.

In addition, SAMHSA requests that grantees:

■ Provide the GPO and SAMHSA Publications Clearance Officer with advance copies of publications.

■ Include acknowledgment of the SAMHSA grant program as the source of funding for the project.

■ Include a disclaimer stating that the views and opinions contained in the publication do not necessarily reflect those of SAMHSA or the U.S. Department of Health and Human Services, and should not be construed as such.

SAMHSA reserves the right to issue a press release about any publication deemed by SAMHSA to contain information of program or policy significance to the substance abuse treatment/substance abuse prevention/mental health services community.

VII. Agency Contacts

The NOFAs provide contact information for questions about program issues.

For questions on grants management issues, contact: Kimberly Pendleton, Office of Program Services, Division of Grants Management, Substance Abuse and Mental Health Services Administration, 1 Choke Cherry Road, Room 7-1097, Rockville, Maryland 20857, (240) 276-1421, kimberly.pendleton@samhsa.hhs.gov.

Appendix A—Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review. In addition to these formatting requirements, programmatic requirements (e.g., relating to eligibility) may be stated in the specific NOFA and in Section III of the standard grant announcement. Please check the entire NOFA and Section III of the standard grant announcement before preparing your application.

☐ Use the PHS 5161-1 application.

☐ Applications must be received by the application deadline or have proof of timely submission, as detailed in Section IV-3 of the grant announcement.

☐ Information provided must be sufficient for review.

☐ Text must be legible.

• Type size in the Project Narrative cannot exceed an average of 15 characters per inch, as measured on the physical page. (Type size in charts, tables, graphs, and footnotes will not be considered in determining compliance.)

• Text in the Project Narrative cannot exceed 6 lines per vertical inch.

☐ Paper must be white paper and 8.5 inches by 11.0 inches in size.

☐ To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

To facilitate review of your application, follow these additional guidelines. Failure to adhere to the following guidelines will not, in itself, result in your application being screened out and returned without review. However, the information provided in your application must be sufficient for review. Following these guidelines will help ensure your application is complete, and will help reviewers to consider your application.

☐ The 10 application components required for SAMHSA applications should be included. These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form within PHS 5161-1)

• Disclosure of Lobbying Activities (Standard Form LLL, which is in PHS 5161-1)

• Checklist (a form in PHS 5161-1)

☐ Applications should comply with the following requirements:

• Provisions relating to confidentiality, participant protection and the protection of human subjects specified in Section IV-2.4 of the FY2005 standard funding announcements.

• Budgetary limitations as specified in Section I, II, and IV-5 of the FY2005 standard funding announcements.

• Documentation of nonprofit status as required in the PHS 5161-1.

☐ Pages should be typed single-spaced in black ink, with one column per page. Pages should not have printing on both sides.

☐ Please number pages consecutively from beginning to end so that information can be located easily during review of the application. The cover page should be page 1, the abstract page should be page 2, and the table of contents page should be page 3. Appendices should be labeled and separated from the Project Narrative and budget section, and the pages should be numbered to continue the sequence.

☐ The page limits for Appendices stated in the specific funding announcement should not be exceeded.

☐ Send the original application and two copies to the mailing address in the funding announcement. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

Appendix B—Glossary

Best Practice: Best practices are practices that incorporate the best objective information currently available regarding effectiveness and acceptability.

Catchment Area: A catchment area is the geographic area from which the target population to be served by a program will be drawn.

Cooperative Agreement: A cooperative agreement is a form of Federal grant. Cooperative agreements are distinguished from other grants in that, under a cooperative agreement, substantial involvement is anticipated between the awarding office and the recipient during performance of the funded activity. This involvement may include collaboration, participation, or intervention in the activity. HHS awarding offices use grants or cooperative agreements (rather than contracts) when the principal purpose of the transaction is the transfer of money, property, services, or anything of value to accomplish a public purpose of support or stimulation authorized by Federal statute. The primary beneficiary under a grant or cooperative agreement is the public, as opposed to the Federal Government.

Cost Sharing or Matching: Cost sharing refers to the value of allowable non-Federal contributions toward the allowable costs of a Federal grant project or program. Such contributions may be cash or in-kind contributions. For SAMHSA grants, cost sharing or matching is not required, and applications will not be screened out on the basis of cost sharing. However, applicants often include cash or in-kind contributions in their proposals as evidence of commitment to the proposed project. This is allowed, and this information may be considered by reviewers in evaluating the quality of the application.

Fidelity: Fidelity is the degree to which a specific implementation of a program or practice resembles, adheres to, or is faithful to the evidence-based model on which it is based. Fidelity is formally assessed using rating scales of the major elements of the evidence-based model. A toolkit on how to develop and use fidelity instruments is available from the SAMHSA-funded Evaluation Technical Assistance Center at http://tecathsri.org or by calling (617) 876-0426.

Grant: A grant is the funding mechanism used by the Federal Government when the principal purpose of the transaction is the transfer of money, property, services, or anything of value to accomplish a public purpose of support or stimulation authorized by Federal statute. The primary beneficiary under a grant or cooperative agreement is the public, as opposed to the Federal Government.

In-Kind Contribution: In-kind contributions toward a grant project are non-cash contributions (e.g., facilities, space, services) that are derived from non-Federal sources, such as State or sub-State non-Federal revenues, foundation grants, or contributions from other non-Federal public or private entities.

Logic Model: A logic model is a diagrammatic representation of a theoretical framework. A logic model describes the logical linkages among program resources, conditions, strategies, short-term outcomes, and long-term impact. More information on how to develop logics models and examples can be found through the resources listed in Appendix C.

Practice: A practice is any activity, or collective set of activities, intended to improve outcomes for people with or at risk for substance abuse and/or mental illness. Such activities may include direct service provision, or they may be supportive activities, such as efforts to improve access to and retention in services, organizational efficiency or effectiveness, community readiness, collaboration among stakeholder groups, education, awareness, training, or any other activity that is designed to improve outcomes for people with or at risk for substance abuse or mental illness.

Practice Support System: This term refers to contextual factors that affect practice delivery and effectiveness in the pre-adoption phase, delivery phase, and post-delivery phase, such as (a) community collaboration and consensus building, (b) training and overall readiness of those implementing the practice, and (c) sufficient ongoing supervision for those implementing the practice.

Stakeholder: A stakeholder is an individual, organization, constituent group, or other entity that has an interest in and will be affected by a proposed grant project.

Sustainability: Sustainability is the ability to continue a program or practice after SAMHSA grant funding has ended.

Target Population: The target population is the specific population of people whom a particular program or practice is designed to serve or reach.

Wraparound Service: Wraparound services are non-clinical supportive services—such as child care, vocational, educational, and transportation services—that are designed to improve the individual's access to and retention in the proposed project.

Appendix C—Logic Model Resources

Chen, W.W., Cato, B.M., & Rainford, N. (1998-9). Using a logic model to plan and evaluate a community intervention program: A case study. International Quarterly of Community Health Education, 18(4), 449-458.

Edwards, E.D., Seaman, J.R., Drews, J., & Edwards, M.E. (1995). A community approach for Native American drug and alcohol prevention programs: A logic model framework. Alcoholism Treatment Quarterly, 13(2), 43-62.

Hernandez, M. & Hodges, S. (2003). Crafting Logic Models for Systems of Care: Ideas into Action. [Making children's mental health services successful series, volume 1]. Tampa, FL: University of South Florida, The Louis de la Parte Florida Mental Health Institute, Department of Child & Family Studies. http://cfs.fmhi.usf.edu or phone (813) 974-4651

Hernandez, M. & Hodges, S. (2001). Theory-based accountability. In M. Hernandez & S. Hodges (Eds.), Developing Outcome Strategies in Children's Mental Health, pp. 21-40. Baltimore: Brookes.

Julian, D.A. (1997). Utilization of the logic model as a system level planning and evaluation device. Evaluation and Planning, 20(3), 251-257.

Julian, D.A., Jones, A., & Deyo, D. (1995). Open systems evaluation and the logic model: Program planning and evaluation tools. Evaluation and Program Planning, 18(4), 333-341.

Patton, M.Q. (1997). Utilization-Focused Evaluation (3rd Ed.), pp. 19, 22, 241. Thousand Oaks, CA: Sage.

Wholey, J.S., Hatry, H.P., Newcome, K.E. (Eds.) (1994). Handbook of Practical Program Evaluation. San Francisco, CA: Jossey-Bass Inc.

Appendix D—Sample Budget and Justification

Illustration of a Sample Detailed Budget and Narrative Justification to Accompany SF 424A: Section B for 01 Budget Period

Object Class Categories

Personnel

Job title | Name | Annual salary | Level of effort | Salary being requested
Project Director | J. Doe | $30,000 | 1.0 | $30,000
Secretary | Unnamed | 18,000 | 0.5 | 9,000
Counselor | R. Down | 25,000 | 1.0 | 25,000

Enter Personnel subtotal on 424A, Section B, 6.a. $64,000

Fringe Benefits (24%) $15,360

Enter Personnel subtotal on 424A, Section B, 6.a.—$64,000

Enter Fringe Benefits subtotal on 424A, Section B, 6.b. $15,360

Travel

2 trips for SAMHSA Meetings for 2 Attendees (Airfare @ $600 × 4 = $2,400) + (per diem @ $120 × 4 × 6 days = $2,880) | $5,280
Local Travel (500 miles × .24 per mile) | 120

Enter Travel subtotal on 424A, Section B, 6.c. $5,400

Equipment (List Individually)

“Equipment” means an article of nonexpendable, tangible personal property having a useful life of more than one year and an acquisition cost which equals the lesser of (a) the capitalization level established by the governmental unit or nongovernmental applicant for financial statement purposes, or (b) $5000.

Enter Equipment subtotal on 424A, Section B, 6.d.

Supplies

Office Supplies | $500
Computer Software-1 WordPerfect | 500

Enter Supplies subtotal on 424A, Section B, 6.e. $1,000

Contractual Costs

Evaluation

Job title | Name | Annual salary | Salary being requested | Level of effort
Evaluator | J. Wilson | $48,000 | $24,000 | 0.5
Other Staff | — | $18,000 | 18,000 | 1.0

Fringe Benefits (25%) $10,500

Travel

2 trips × 1 Evaluator ($600 × 2) | $1,200
Per diem @ $120 × 6 | 720
Supplies (General Office) | 500

Evaluation Direct | $54,920
Evaluation Indirect Costs (19%) | 10,435
Evaluation Subtotal | $65,355

Training

Job title | Name | Level of effort | Salary being requested
Coordinator | M. Smith | 0.5 | $12,000
Admin. Asst. | N. Jones | 0.5 | 9,000

Fringe Benefits (25%) $5,250

Travel

2 Trips for Training Airfare @ $600 × 2 | $1,200
Per Diem $120 × 2 × 2 days | 480
Local (500 miles × .24/mile) | 120

Supplies

Office Supplies | $500
Software (WordPerfect) | 500

Other

Rent (500 Sq. Ft. × $9.95) | $4,975
Telephone | 500
Maintenance (e.g., van) | 2,500
Audit | 3,000

Training Direct | $40,025
Training Indirect | 0

Enter Contractual subtotal on 424A, Section B, 6.f. $105,380

Other

Consultants = Expert @ $250/day × 6 day (If expert is known, should list by name) | $1,500

Enter Other subtotal on 424A, Section B, 6.h. $1,500

Total Direct Charges (sum of 6.a-6.h)

Enter Total Direct on 424A, Section B, 6.i. $192,640

Indirect Costs

15% of Salary and Wages (copy of negotiated indirect cost rate agreement attached)

Enter Indirect subtotal of 424A, Section B, 6.j. $9,600

Totals

Enter TOTAL on 424A, Section B, 6.k. $202,240

Justification

Personnel—Describe the role and responsibilities of each position.

Fringe Benefits—List all components of the fringe benefit rate.

Equipment—List equipment and describe the need and the purpose of the equipment in relation to the proposed project.

Supplies—Generally self-explanatory; however, if not, describe need. Include explanation of how the cost has been estimated.

Travel—Explain need for all travel other than that required by SAMHSA.

Contractual Costs—Explain the need for each contractual arrangement and how these components relate to the overall project.

Other—Generally self-explanatory. If consultants are included in this category, explain the need and how the consultant's rate has been determined.

Indirect Cost Rate—If your organization has no indirect cost rate, please indicate whether your organization plans to a) waive indirect costs if an award is issued, or b) negotiate and establish an indirect cost rate with DHHS within 90 days of award issuance.

Calculation of Future Budget Periods (based on first 12-month budget period)
[Review and verify the accuracy of future year budget estimates. Increases or decreases in the future years must be explained and justified and no cost of living increases will be honored. (Note: new salary cap of $175,700 is effective for all FY 2005 awards.) *]
| First 12-month period | Second 12-month period | Third 12-month period
Personnel:
Project Director | 30,000 | 30,000 | 30,000
Secretary** | 9,000 | 18,000 | 18,000
Counselor | 25,000 | 25,000 | 25,000
Total Personnel | 64,000 | 73,000 | 73,000
Fringe Benefits (24%) | 15,360 | 17,520 | 17,520
Travel | 5,400 | 5,400 | 5,400
Equipment | -0- | -0- | -0-
Supplies *** | 1,000 | 520 | 520
Contractual:
Evaluation **** | 65,355 | 67,969 | 70,688
Training | 40,025 | 40,025 | 40,025
Other | 1,500 | 1,500 | 1,500
Total Direct Costs | 192,640 | 205,934 | 208,653
Indirect Costs (15% S&W) | 9,600 | 9,600 | 9,600
Total Costs | 202,240 | 216,884 | 219,603
* Consistent with the requirement in the Consolidated Appropriations Act, Public Law 108-199.
** Increased from 50% to 100% effort in 02 through 03 budget periods.
*** Increased amount in 01 year represents costs for software.
**** Increased amounts in 02 and 03 years are reflected of the increase in client data collection.

The Federal dollars requested for all object class categories for the first 12-month budget period are entered on Form 424A, Section B, Column (1), lines 6a-6i. The total Federal dollars requested for the second through the fifth 12-month budget periods are entered on Form 424A, Section E, Columns (b) “ (e), line 20. The RFA will specify the maximum number of years of support that may be requested.

Best Practices Planning and Implementation Grants BPPI 05 PA (Initial Announcement)

Catalogue of Federal Domestic Assistance (CFDA) No.: 93.243 (unless otherwise specified in a NOFA in the Federal Register and on http://www.grants.gov)

Key Dates
Application Deadline | This Program Announcement provides instructions and guidelines for multiple funding opportunities. Application deadlines for specific funding opportunities will be published in Notices of Funding Availability (NOFAs) in the Federal Register and on http://www.grants.gov.
Intergovernmental Review (E.O. 12372) | Letters from State Single Point of Contact (SPOC) are due 60 days after application deadline.
Public Health System Impact Statement (PHSIS)/Single State Agency Coordination | Applicants must send the PHSIS to appropriate State and local health agencies by application deadline. Comments from Single State Agency are due 60 days after application deadline.

Table of Contents

I. Funding Opportunity Description

1. Introduction

2. Expectations

II. Award Information

1. Award Amount

2. Funding Mechanism

III. Eligibility Information

1. Eligible Applicants

2. Cost Sharing

3. Other

IV. Application and Submission Information

1. Address to Request Application Package

2. Content and Form of Application Submission

3. Submission Dates and Times

4. Intergovernmental Review (E.O. 12372) Requirements

5. Funding Limitations/Restrictions

6. Other Submission Requirements

V. Application Review Information

1. Evaluation Criteria

2. Review and Selection Process

VI. Award Administration Information

1. Award Notices

2. Administrative and National Policy Requirements

3. Reporting Requirements

VII. Agency Contacts

Appendix A—Checklist for Formatting Requirements and Screenout Criteria for SAMHSA

Grant Applications

Appendix B—Glossary

Appendix C—National Registry of Effective Programs and Practices

Appendix D—Center for Mental Health Services Evidence-Based Practice Toolkits

Appendix E—Effective Substance Abuse Treatment Practices

Appendix F—Logic Model Resources

Appendix G—Sample Budget and Justification

I. Funding Opportunity Description

1. Introduction

The Substance Abuse and Mental Health Services Administration (SAMHSA) announces its intent to solicit applications for Best Practices Planning and Implementation (BPPI) grants for substance abuse prevention, substance abuse treatment, and mental health services. This program announcement must be considered in conjunction with a full Notice of Funding Availability (NOFA), which specifies the grant program's purpose, target population, and other requirements of the program. These grants will help communities and providers identify substance abuse prevention, substance abuse treatment, and/or mental health practices, develop strategic plans for implementing/adapting those practices, and pilot-test the practices. The practices proposed by applicants for SAMHSA's BPPI grants must incorporate the best objective information available regarding effectiveness and acceptability. Often, these practices will have strong evidence of effectiveness. However, because the evidence base is limited in some areas, SAMHSA may fund some practices for which the evidence base, while limited, is sound.

SAMHSA also funds grants under three other standard grant announcements:

■ Services Grants provide funding to implement substance abuse and mental health services.

■ Infrastructure Grants support identification and implementation of systems changes but are not designed to fund services.

■ Service to Science Grants document and evaluate innovative practices that address critical substance abuse and mental health service gaps but that have not yet been formally evaluated.

This announcement describes the general program design and provides application instructions for all SAMHSA BPPI Grants. The availability of funds for specific BPPI Grants will be announced in supplementary Notices of Funding Availability (NOFAs) in the Federal Register and at http://www.grants.gov—the Federal grant announcement web page.

SAMHSA's BPPI Grants are authorized under Section 509, 516 and/or 520A of the Public Health Service Act, unless otherwise specified in a NOFA in the Federal Register and on http://www.grants.gov.

Typically, funding for BPPI Grants will be targeted to specific populations and/or issue areas, which will be specified in the NOFAs. The NOFAs will also:

■ Specify total funding available for the first year of the grants and the expected size and number of awards;

■ Provide the application deadline;

■ Note any specific program requirements for each funding opportunity; and

■ Include any limitations or exceptions to the general provisions in this announcement (e.g., eligibility, award size, allowable activities).

It is, therefore, critical that you consult the NOFA as well as this announcement in developing your grant application.

2. Expectations

SAMHSA's BPPI program promotes the use of practices that incorporate the best objective information available regarding effectiveness and acceptability. SAMHSA refers to these as “best practices.” BPPI grants may address needs in the areas of substance abuse prevention, substance abuse treatment and/or mental health services. SAMHSA understands that the “best practices” proposed for BPPI grants may need to be adapted to certain populations. Therefore, SAMHSA's BPPI grants support adaptation and evaluation of best practices in addition to planning and implementation.

2.1 Documenting the Evidence-Base for Selected Practices

Applicants must document in their applications that the practices they propose to implement are evidence-based practices. In addition, applicants must justify use of the proposed practices for the target population along with any adaptations or modifications necessary to meet the unique needs of the target population or otherwise increase the likelihood of achieving positive outcomes. Further guidance on each of these requirements is provided below.

Documenting the Evidence-Based Practice/Service

SAMHSA has already determined that certain practices are solidly evidence-based practices and encourages applicants to select practices from the following sources (though this is not required):

■ SAMHSA's National Registry of Effective Programs and Practices (NREPP) (see Appendix C).

■ Center for Mental Health Services (CMHS) Evidence Based Practice Tool Kits (see Appendix D).

■ List of Evidence-Based Substance Abuse Treatment Practices (see Appendix E).

■ Additional practices identified in the NOFA for a specific funding opportunity, if applicable.

Applicants proposing practices that are not included in the above-referenced sources must provide a narrative justification that summarizes the evidence for effectiveness and acceptability of the proposed practice. The preferred evidence of effectiveness and acceptability will include the findings from clinical trials, efficacy and/or effectiveness studies published in the peer-reviewed literature.

In areas where little or no research has been published in the peer-reviewed scientific literature, the applicant may present evidence involving studies that have not been published in the peer-reviewed research literature and/or documents describing formal consensus among recognized experts. If consensus documents are presented, they must describe consensus among multiple experts whose work is recognized and respected by others in the field. Local recognition of an individual as a respected or influential person at the community level is not considered a “recognized expert” for this purpose.

In presenting evidence in support of the proposed practice, applicants must show that the evidence presented is the best objective information available.

Justifying Selection of the Practice/Service for the Target Population

Regardless of the strength of the evidence-base for the practice, all applicants must show that the proposed practice is appropriate for the proposed target population. Ideally, this evidence will include research findings on effectiveness and acceptability specific to the proposed target population. However, if such evidence is not available, the applicant should provide a justification for using the proposed practice with the target population. This justification might involve, for example, a description of adaptations to the proposed practice based on other research involving the target population.

Justifying Adaptations/Modifications of the Proposed Practice

SAMHSA has found that a high degree of faithfulness or “fidelity” (see Glossary) to the original model for an evidence-based practice increases the likelihood that positive outcomes will be achieved when the model is used by others. Therefore, SAMHSA encourages fidelity to the original evidence-based practice to be implemented. However, SAMHSA recognizes that adaptations or modifications to the original model may be necessary for a variety of reasons:

• To allow implementers to use resources efficiently.

• To adjust for specific needs of the client population.

• To address unique characteristics of the local community where the practice will be implemented.

All applicants must describe and justify any adaptations or modifications to the proposed practice that will be made.

2.2 Program Design

SAMHSA will fund BPPI grants in two phases. Phase I is a planning and consensus-building phase that supports grantees for up to 18 months. Phase II is a pilot, adaptation, implementation, and evaluation phase that supports grantees for up to 3 years. The program design requirements for Phase I and Phase II are described below. Applicants must, however, consult the NOFA for any program design requirements (e.g., required activities) specific to the funding opportunity.

Phase I: Planning and Consensus Building

The goals of Phase I are to achieve consensus among community stakeholders to adopt a best practice and to engage in strategic planning for its implementation. Phase I grants may include, but are not limited to, the following types of activities:

■ Build and maintain a coalition of stakeholders to fund, oversee, use, and provide a sustainable best practice.

■ Train and educate key stakeholders about the best practice.

■ Consult experts about the practice.

■ Consult leaders from other communities about their experiences in implementing the practice.

■ Reimburse stakeholders for their transportation or child care costs.

■ Engage professionals to help build consensus and plan strategy.

■ Adapt the best practice to community needs without sacrificing its effectiveness.

■ Identify and obtain the commitment of permanent sources to fund the best practice.

■ Design the evaluation of the best practice.

■ Evaluate the process of consensus building among stakeholders (required).

Phase II: Pilot Test, Adaptation, Implementation, and Evaluation

The goals of Phase II grants are to pilot test and evaluate the best practices before full implementation, modify strategic/financial plans, and prepare for full-scale implementation. Implementation does not include service delivery. The following are examples of activities that can be funded during Phase II:

■ Pilot test the practice on a sample of service recipients and evaluate the pilot test.

■ Modify the best practice based on consultation with stakeholders and practice experts, other community experiences, and pilot test results.

■ Revise the manual or documentation that describes in detail how the best practice was modified.

■ Maintain the coalition of stakeholders to oversee Phase II activities.

■ Secure consultants to make changes required to implement and finance the best practice.

■ Make organizational changes (e.g., hiring staff) necessary to implement the best practice.

■ Provide necessary education, training, and technical assistance for staff.

Up to 25% of the Phase II grant award may be used to evaluate the pilot test of the best practice. During the course of a Phase II award, SAMHSA will provide funding for direct services as part of the pilot test.

2.3 Performance Requirements

All grantees will be required to meet the following evaluation and performance requirements. Applicants are not required to receive a Phase I award before applying for a Phase II award. However, all Phase II applicants must meet the Phase I performance requirements (i.e., documentation that consensus has been achieved and that a strategic plan is in place) before applying for a Phase II award. Phase II applicants need not have been Phase I grantees.

Phase I: Planning and Consensus Building

By the end of Phase I, grantees will be required to provide documentation that consensus has been achieved for adopting a best practice. That documentation must include:

■ A report that summarizes the evaluation of the consensus building process.

■ A description of how key stakeholders were included in the consensus building.

■ Letters of support or other demonstration of stakeholders' commitment to adopt the practice.

■ A strategic plan for implementing the best practice that includes a financing plan, signed by the funding source(s) that will provide the resources necessary to address barriers and implement a sustainable best practice. [Note: If it is not possible for a grantee to complete a strategic plan, grantees will be required to provide an analysis of progress made and barriers to completing the strategic plan instead.]

Phase II: Pilot Test, Adaptation, Implementation, and Evaluation

By the end of Phase II, grantees must provide the following information:

■ Pilot test results.

■ Results from process/outcome evaluation of full Phase II project.

■ In cases where the implementation was judged a success, a manual describing the practice in detail for replication of the practice. The manual should explain how the project team determined the degree of success, referring to qualitative and quantitative data.

■ In cases where the implementation was judged not to be successful, a report detailing the lessons learned, with recommendations for other programs interested in implementing the best practice. The report should explain how the project team determined the degree of success, referring to qualitative and quantitative data.

■ Documentation that staff are trained in the practice and of a mechanism for training new staff.

■ Process evaluation results that describe how the practice was operationalized, including changes in the organizational infrastructure, permanent funding sources, and staff consultation and training activities.

▪ Outcome evaluation results that describe:

○ Demographic characteristics of the clients served.

○ Service utilization.

○ Practice outcomes.

○ Client satisfaction.

○ Fidelity of the modified practice to the best practice.

○ Plans for fully implementing the best practice after the end of the Phase II award.

2.4 Performance Measurement

The Government Performance and Results Act of 1993 (Pub. L. 103-62, or “GPRA”) requires all Federal agencies to set program performance targets and report annually on the degree to which the previous year's targets were met.

Agencies are expected to evaluate their programs regularly and to use results of these evaluations to explain their successes and failures and justify requests for funding.

To meet the GPRA requirements, SAMHSA must collect performance data (i.e., “GPRA data”) from grantees. Grantees are required to report these GPRA data to SAMHSA on a timely basis.

Specifically, grantees will be required to provide data on a set of required measures, as specified in the NOFA. The data collection tools to be used for reporting the required data will be provided in the application kits distributed by SAMHSA's clearinghouses and posted on SAMHSA's Website along with each NOFA. In your application, you must demonstrate your ability to collect and report on these measures, and you may be required to provide some baseline data.

The terms and conditions of the grant award also will specify the data to be submitted and the schedule for submission. Grantees will be required to adhere to these terms and conditions of award.

Applicants should be aware that SAMHSA is working to develop a set of required core performance measures for each of SAMHSA's standard grants (i.e., Services Grants, Infrastructure Grants, Best Practices Planning and Implementation Grants, and Service-to-Science Grants). As this effort proceeds, some of the data collection and reporting requirements included in SAMHSA's NOFAs may change. All grantees will be expected to comply with any changes in data collection requirements that occur during the grantee's project period.

2.5 Evaluation

Grantees must evaluate their projects, and applicants are required to describe their evaluation plans in their applications. The evaluation should be designed to provide regular feedback to the project to improve implementation of the best practice and, ultimately, the outcomes that will result from implementation of the best practice.

Phase I grantees must conduct a process evaluation. Phase II grantees must conduct a process and outcome evaluation of the pilot test, as well as a process and outcome evaluation of the full Phase II project.

Process and outcome evaluations must measure change relating to project goals and objectives over time compared to baseline information. Both Phase I and Phase II grantees must include the required performance measures described in the NOFA in their evaluations. Control or comparison groups are not required. You must consider your evaluation plan when preparing the project budget.

Process components should address issues such as:

▪ How closely did implementation match the plan?

▪ What types of deviation from the plan occurred?

▪ What led to the deviations?

▪ What effect did the deviations have on the intervention and evaluation?

▪ For pilot test evaluations, who provided (program, staff) what services (modality, type, intensity, duration), to whom (individual characteristics), in what context (system, community), and at what cost (facilities, personnel, dollars)?

Outcome components should address issues such as:

▪ What was the effect of the project on the service delivery system and/or on participants in the project?

▪ What program/contextual factors were associated with outcomes?

▪ What individual factors were associated with outcomes?

▪ How durable were the effects?

No more than 20% of the total Phase I grant award and 25% of the total Phase II grant award may be used for evaluation and data collection.

2.6 Grantee Meetings

You must plan to send a minimum of two people (including the Project Director) to at least one joint grantee meeting in each year of the grant, and you must include funding for this travel in your budget. At these meetings, grantees will present the results of their projects and Federal staff will provide technical assistance. Each meeting will be 3 days. These meetings will usually be held in the Washington, DC, area and attendance is mandatory.

II. Award Information

1. Award Amount

The NOFA will specify the expected award amount for each funding opportunity. Regardless of the amount specified, the actual award amount will depend on the availability of funds.

Awards for SAMHSA's BPPI grants will be made in two phases:

Phase I—Phase I awards are expected to range from $150,000-$200,000 in total costs (direct and indirect) for a project period of up to 18 months.

Phase II—Phase II awards will range from $300,000-$500,000 per year in total costs (direct and indirect) for a project period of up to 3 years.

Proposed budgets cannot exceed the allowable amount as specified in the NOFA in any year of the proposed project. Annual continuation awards will depend on the availability of funds, grantee progress in meeting project goals and objectives, and timely submission of required data and reports.

2. Funding Mechanism

The NOFA will indicate whether awards for each funding opportunity will be made as grants or cooperative agreements (see the Glossary in Appendix B for further explanation of these funding mechanisms). For cooperative agreements, the NOFA will describe the nature of Federal involvement in project performance and specify roles and responsibilities of grantees and Federal staff.

III. Eligibility Information

1. Eligible Applicants

Eligible applicants are domestic public and private nonprofit entities. For example, State, local or tribal governments; public or private universities and colleges; community- and faith-based organizations; and tribal organizations may apply. The statutory authority for this program precludes grants to for-profit organizations. The NOFA will indicate any limitations on eligibility.

2. Cost Sharing

Cost sharing (see Glossary) is not required in this program, and applications will not be screened out on the basis of cost sharing. However, you may include cash or in-kind (see Glossary) contributions in your proposal as evidence of commitment to the proposed project.

3. Other

Applications must comply with the following requirements, or they will be screened out and will not be reviewed: Use of the PHS 5161-1 application; application submission requirements in Section IV-3 of this document; and formatting requirements provided in Section IV-2.3 of this document. Applicants should be aware that the NOFA may include additional requirements that, if not met, will result in applications being screened out and returned without review. These requirements will be specified in Section III-3 of the NOFA.

You also must comply with any additional program requirements specified in the NOFA, such as the required signature of certain officials on the face page of the application and/or required memoranda of understanding with certain signatories.

IV. Application and Submission Information

(To ensure that you have met all submission requirements, a checklist is provided for your use in Appendix A of this document.)

1. Address to Request Application Package

You may request a complete application kit by calling one of SAMHSA's national clearinghouses:

▪ For substance abuse prevention or treatment grants, call the National Clearinghouse for Alcohol and Drug Information (NCADI) at 1-800-729-6686.

▪ For mental health grants, call the National Mental Health Information Center at 1-800-789-CMHS (2647).

You also may download the required documents from the SAMHSA Web site at http://www.samhsa.gov. Click on “Grant Opportunities.”

Additional materials available on this Web site include:

▪ A technical assistance manual for potential applicants;

▪ Standard terms and conditions for SAMHSA grants;

▪ Guidelines and policies that relate to SAMHSA grants (e.g., guidelines on cultural competence, consumer and family participation, and evaluation); and

▪ Enhanced instructions for completing the PHS 5161-1 application.

2. Content and Form of Application Submission

2.1 Application Kit

SAMHSA application kits include the following documents:

▪ PHS 5161-1 (revised July 2000)—Includes the face page, budget forms, assurances, certification, and checklist. Applicants must use the PHS 5161-1 for their application, unless otherwise specified in the NOFA. Applications that are not submitted on the required application form (i.e., the PHS 5161-1 in most situations) will be screened out and will not be reviewed.

▪ Program Announcement (PA)—Includes instructions for the grant application. This document is the PA.

▪ Notice of Funding Availability (NOFA)—Provides specific information about availability of funds, as well as any exceptions or limitations to provisions in the PA. The NOFAs will be published in the Federal Register as well as on the Federal grants Web site (http://www.grants.gov). It is very important that you read the entire NOFA before beginning to write your application.

You must use all of the above documents in completing your application.

2.2 Required Application Components

To ensure equitable treatment of all applications, applications must be complete. In order for your application to be complete, it must include the required ten application components (Face Page, Abstract, Table of Contents, Budget Form, Project Narrative and Supporting Documentation, Appendices, Assurances, Certifications, Disclosure of Lobbying Activities, and Checklist).

☐ Face Page—Use Standard Form (SF) 424, which is part of the PHS 5161-1. [Note: Beginning October 1, 2003, applicants will need to provide a Dun and Bradstreet (DUNS) number to apply for a grant or cooperative agreement from the Federal Government. SAMHSA applicants will be required to provide their DUNS number on the face page of the application. Obtaining a DUNS number is easy and there is no charge. To obtain a DUNS number, access the Dun and Bradstreet Web site at http://www.dunandbradstreet.com or call 1-866-705-5711. To expedite the process, let Dun and Bradstreet know that you are a public/private nonprofit organization getting ready to submit a Federal grant application.]

☐ Abstract—Your total abstract should be no longer than 35 lines. In the first five lines or less of your abstract, write a summary of your project that can be used, if your project is funded, in publications, reporting to Congress, or press releases.

☐ Table of Contents—Include page numbers for each of the major sections of your application and for each appendix.

☐ Budget Form—Use SF 424A, which is part of the PHS 5161-1. Fill out Sections B, C, and E of the SF 424A. A sample budget and justification is included in Appendix G of this Program Announcement.

☐ Project Narrative and Supporting Documentation—The Project Narrative describes your project. It consists of Sections A through E for Phase I and Sections A through D for Phase II. Sections A-E (Phase I) together may not be longer than 30 pages and Sections A though D (Phase II) together may not be longer than 30 pages. (For example, remember that if your Project Narrative starts on page 5 and ends on page 35, it is 31 pages long, not 30 pages.) More detailed instructions for completing each section of the Project Narrative are provided in “Section V—Application Review Information” of this document.

The Supporting Documentation provides additional information necessary for the review of your application. This supporting documentation should be provided immediately following your Project Narrative in Sections F through I. (Note: Phase II applications will not have a Section E.) There are no page limits for these sections, except for Section H, the Biographical Sketches/Job Descriptions.

▪ Section F—Literature Citations. This section must contain complete citations, including titles and all authors, for any literature you cite in your application.

▪ Section G—Budget Justification, Existing Resources, Other Support. You must provide a narrative justification of the items included in your proposed budget, as well as a description of existing resources and other support you expect to receive for the proposed project. If you are applying for a Phase II award, show that no more than 25% of the total grant award will be used for evaluation of the pilot test of the best practice.

▪ Section H—Biographical Sketches and Job Descriptions.

◦ Include a biographical sketch for the Project Director and other key positions. Each sketch should be 2 pages or less. If the person has not been hired, include a position description and/or a letter of commitment with a current biographical sketch from the individual.

◦ Include job descriptions for key personnel. Job descriptions should be no longer than 1 page each.

◦ Sample sketches and job descriptions are listed on page 22, Item 6 in the Program Narrative section of the PHS 5161-1.

▪ Section I—Confidentiality and SAMHSA Participant Protection/Human Subjects. Section IV-2.4 of this document describes requirements for the protection of the confidentiality, rights and safety of participants in SAMHSA-funded activities. This section also includes guidelines for completing this part of your application.

☐ Appendices 1 through 6—Use only the appendices listed below. If your application includes any appendices not required in the grant announcement or NOFA, they will be disregarded. Do not use more than a total of 30 pages for Appendices 1, 3, 4 and 6 combined. There are no page limitations for Appendices 2 and 5. Do not use appendices to extend or replace any of the sections of the Project Narrative unless specifically required in the NOFA. Reviewers will not consider them if you do.

▪ Appendix 1: Letters of Support.

▪ Appendix 2: Data Collection Instruments/Interview Protocols.

▪ Appendix 3: Sample Consent Forms.

▪ Appendix 4: Letter to the SSA (if applicable; see Section IV-4 of this document).

▪ Appendix 5: A copy of the State or County Strategic Plan, a State or county needs assessment, or a letter from the State or county indicating that the proposed project addresses a State- or county-identified priority.

▪ Appendix 6: Evidence of Intent to Adopt (Phase II only).

☐ Assurances—Non-Construction Programs. Use Standard Form 424B found in PHS 5161-1. Some applicants will be required to complete the Assurance of Compliance with SAMHSA Charitable Choice Statutes and Regulations Form SMA 170. If this assurance applies to a specific funding opportunity, it will be posted on SAMHSA's Web site with the NOFA and provided in the application kits available at SAMHSA's clearinghouse (NCADI).

☐ Certifications—Use the “Certifications” forms found in PHS 5161-1.

☐ Disclosure of Lobbying Activities—Use Standard Form LLL found in PHS 5161-1. Federal law prohibits the use of appropriated funds for publicity or propaganda purposes, or for the preparation, distribution, or use of information designed to support or defeat legislation pending before the Congress or State legislatures. This includes “grass roots” lobbying, which consists of appeals to members of the public suggesting that they contact their elected representatives to indicate their support for or opposition to pending legislation or to urge those representatives to vote in a particular way.

☐ Checklist—Use the Checklist found in PHS 5161-1. The Checklist ensures that you have obtained the proper signatures, assurances and certifications and is the last page of your application.

2.3 Application Formatting Requirements

Applicants also must comply with the following basic application requirements. Applications that do not comply with these requirements will be screened out and will not be reviewed.

☐ Information provided must be sufficient for review.

☐ Text must be legible.

• Type size in the Project Narrative cannot exceed an average of 15 characters per inch, as measured on the physical page. (Type size in charts, tables, graphs, and footnotes will not be considered in determining compliance.)

• Text in the Project Narrative cannot exceed 6 lines per vertical inch.

☐ Paper must be white paper and 8.5 inches by 11.0 inches in size.

☐ To ensure equity among applications, the amount of space allowed for the Project Narrative cannot be exceeded.

• Applications would meet this requirement by using all margins (left, right, top, bottom) of at least one inch each, and adhering to the 30-page limit for the Project Narrative.

▪ Should an application not conform to these margin or page limits, SAMHSA will use the following method to determine compliance: The total area of the Project Narrative (excluding margins, but including charts, tables, graphs and footnotes) cannot exceed 58.5 square inches multiplied by 30. This number represents the full page less margins, multiplied by the total number of allowed pages.

• Space will be measured on the physical page. Space left blank within the Project Narrative (excluding margins) is considered part of the Project Narrative, in determining compliance.

To facilitate review of your application, follow these additional guidelines. Failure to adhere to the following guidelines will not, in itself, result in your application being screened out and returned without review. However, following these guidelines will help reviewers to consider your application.

☐ Pages should be typed single-spaced in black ink, with one column per page. Pages should not have printing on both sides.

☐ Please number pages consecutively from beginning to end so that information can be located easily during review of the application. The cover page should be page 1, the abstract page should be page 2, and the table of contents page should be page 3. Appendices should be labeled and separated from the Project Narrative and budget section, and the pages should be numbered to continue the sequence.

☐ The page limit of a total of 30 pages for Appendices 1, 3, 4 and 6 combined should not be exceeded.

☐ Send the original application and two copies to the mailing address in Section IV-6.1 of this document. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

2.4 SAMHSA Confidentiality and Participant Protection Requirements and Protection of Human Subjects Regulations

Applicants must describe procedures relating to Confidentiality, Participant Protection and the Protection of Human Subjects Regulations in Section I of the application, using the guidelines provided below. Problems with confidentiality, participant protection, and protection of human subjects identified during peer review of the application may result in the delay of funding.

Confidentiality and Participant Protection

All applicants must describe how they will address requirements for each of the following elements relating to confidentiality and participant protection.

1. Protect Clients and Staff from Potential Risks:

■ Identify and describe any foreseeable physical, medical, psychological, social, and legal risks or potential adverse effects as a result of the project itself or any data collection activity.

■ Describe the procedures you will follow to minimize or protect participants against potential risks, including risks to confidentiality.

■ Identify plans to provide guidance and assistance in the event there are adverse effects to participants.

■ Where appropriate, describe alternative treatments and procedures that may be beneficial to the participants. If you choose not to use these other beneficial treatments, provide the reasons for not using them.

2. Fair Selection of Participants:

■ Describe the target population(s) for the proposed project. Include age, gender, and racial/ethnic background and note if the population includes homeless youth, foster children, children of substance abusers, pregnant women, or other target groups.

■ Explain the reasons for including groups of pregnant women, children, people with mental disabilities, people in institutions, prisoners, and individuals who are likely to be particularly vulnerable to HIV/AIDS.

■ Explain the reasons for including or excluding participants.

■ Explain how you will recruit and select participants. Identify who will select participants.

3. Absence of Coercion:

■ Explain if participation in the project is voluntary or required. Identify possible reasons why participation is required, for example, court orders requiring people to participate in a program.

■ If you plan to compensate participants, state how participants will be awarded incentives (e.g., money, gifts, etc.).

■ State how volunteer participants will be told that they may receive services intervention even if they do not participate in or complete the data collection component of the project.

4. Data Collection:

■ Identify from whom you will collect data (e.g., from participants themselves, family members, teachers, others). Describe the data collection procedures and specify the sources for obtaining data (e.g., school records, interviews, psychological assessments, questionnaires, observation, or other sources). Where data are to be collected through observational techniques, questionnaires, interviews, or other direct means, describe the data collection setting.

■ Identify what type of specimens (e.g., urine, blood) will be used, if any. State if the material will be used just for evaluation or if other use(s) will be made. Also, if needed, describe how the material will be monitored to ensure the safety of participants.

■ Provide in Appendix 2, “Data Collection Instruments/Interview Protocols,” copies of all available data collection instruments and interview protocols that you plan to use.

5. Privacy and Confidentiality:

■ Explain how you will ensure privacy and confidentiality. Include who will collect data and how it will be collected.

■ Describe:

○ How you will use data collection instruments.

○ Where data will be stored.

○ Who will or will not have access to information.

○ How the identity of participants will be kept private, for example, through the use of a coding system on data records, limiting access to records, or storing identifiers separately from data.

Note: If applicable, grantees must agree to maintain the confidentiality of alcohol and drug abuse client records according to the provisions of Title 42 of the Code of Federal Regulations, Part 2.

6. Adequate Consent Procedures:

■ List what information will be given to people who participate in the project. Include the type and purpose of their participation. Identify the data that will be collected, how the data will be used and how you will keep the data private.

■ State:

○ Whether or not their participation is voluntary.

○ Their right to leave the project at any time without problems.

○ Possible risks from participation in the project.

○ Plans to protect clients from these risks.

■ Explain how you will get consent for youth, the elderly, people with limited reading skills, and people who do not use English as their first language.

Note: If the project poses potential physical, medical, psychological, legal, social or other risks, you must obtain written informed consent.

■ Indicate if you will obtain informed consent from participants or assent from minors along with consent from their parents or legal guardians. Describe how the consent will be documented. For example: Will you read the consent forms? Will you ask prospective participants questions to be sure they understand the forms? Will you give them copies of what they sign?

■ Include, as appropriate, sample consent forms that provide for: (1) Informed consent for participation in service intervention; (2) informed consent for participation in the data collection component of the project; and (3) informed consent for the exchange (releasing or requesting) of confidential information. The sample forms must be included in Appendix 3, “Sample Consent Forms,” of your application. If needed, give English translations.

Note: Never imply that the participant waives or appears to waive any legal rights, may not end involvement with the project, or releases your project or its agents from liability for negligence.

■ Describe if separate consents will be obtained for different stages or parts of the project. For example, will they be needed for both participant protection in treatment intervention and for the collection and use of data?

■ Additionally, if other consents (e.g., consents to release information to others or gather information from others) will be used in your project, provide a description of the consents. Will individuals who do not consent to having individually identifiable data collected for evaluation purposes be allowed to participate in the project?

7. Risk/Benefit Discussion:

Discuss why the risks are reasonable compared to expected benefits and importance of the knowledge from the project.

Protection of Human Subjects Regulations

All applicants proposing a pilot test of the best practice as part of a Phase II project must comply with the Protection of Human Subjects Regulations (45 CFR part 46).

Even if you are not proposing a Phase II pilot test of the best practice, the Protection of Human Subjects Regulations could apply depending on the evaluation you propose.

If you are a Phase II applicant proposing a pilot test or your project otherwise falls under the Protection of Human Subjects Regulations, you must describe the process for obtaining Institutional Review Board (IRB) approval in your application. While IRB approval is not required at the time of grant award, you will be required, as a condition of award, to provide the documentation that an Assurance of Compliance is on file with the Office for Human Research Protections (OHRP) and the IRB approval has been received before enrolling clients in the proposed project.

General information about Protection of Human Subjects Regulations can be obtained on the web at http://hhs.gov/ohrp. You may also contact OHRP by e-mail (ohrp@osophs.dhhs.gov) or by phone (301-496-7005). SAMHSA-specific questions related to Protection of Human Subjects Regulations should be directed to the program contact listed in Section VII of the NOFA.

3. Submission Dates and Times

Deadlines for submission of applications for specific funding opportunities will be published in the NOFAs in the Federal Register and posted on the Federal grants Web site (www.grants.gov).

Hand carried applications will not be accepted. Applications may be shipped using only DHL, Falcon Carrier, Federal Express (FedEx), United Parcel Service (UPS), or the United States Postal Service (USPS).

Your application must be received by the application deadline, or you must have proof of its timely submission as specified below.

• For packages submitted via DHL, Falcon Carrier, Federal Express (FedEx), or United Parcel Service (UPS), timely submission shall be evidenced by a delivery service receipt indicating the application was delivered to a carrier service at least 24 hours prior to the application deadline.

• For packages submitted via the United States Postal Service (USPS), proof of timely submission shall be a postmark not later than 1 week prior to the application deadline, and the following upon request by SAMHSA:

○ Proof of mailing using USPS Form 3817 (Certificate of Mailing), or

○ A receipt from the Post Office containing the post office name, location, and date and time of mailing.

You will be notified by postal mail that your application has been received.

Applications not meeting the timely submission requirements above will not be considered for review. Please remember that mail sent to Federal facilities undergoes a security screening prior to delivery. Allow sufficient time for your package to be delivered.

If an application is mailed to a location or office (including room number) that is not designated for receipt of the application, and that results in the designated office not receiving your application in accordance with the requirements for timely submission, it will cause the application to be considered late and ineligible for review.

SAMHSA will not accept or consider any applications sent by facsimile.

SAMHSA is collaborating with http://www.grants.gov to accept electronic submission of applications only for select funding opportunities. Unless specifically indicated in the NOFA, electronic submission of applications will not be accepted.

4. Intergovernmental Review (E.O. 12372) Requirements

Executive Order 12372, as implemented through Department of Health and Human Services (DHHS) regulation at 45 CFR Part 100, sets up a system for State and local review of applications for Federal financial assistance. A current listing of State Single Points of Contact (SPOCs) is included in the application kit and can be downloaded from the Office of Management and Budget (OMB) Web site at http://www.whitehouse.gov/omb/grants/spoc.html.

■ Check the list to determine whether your State participates in this program. You do not need to do this if you are a federally recognized Indian tribal government.

■ If your State participates, contact your SPOC as early as possible to alert him/her to the prospective application(s) and to receive any necessary instructions on the State's review process.

■ For proposed projects serving more than one State, you are advised to contact the SPOC of each affiliated State.

■ The SPOC should send any State review process recommendations to the following address within 60 days of the application deadline:

For United States Postal Service: Crystal Saunders, Director of Grant Review, Office of Program Services, Substance Abuse and Mental Health Services Administration, Room 3-1044, 1 Choke Cherry Road, Rockville, MD 20857, ATTN: SPOC—Funding Announcement No. [fill in pertinent funding opportunity number from the NOFA].

For other delivery service: Crystal Saunders, Director of Grant Review, Office of Program Services, Substance Abuse and Mental Health Services Administration, Room 3-1044, 1 Choke Cherry Road, Rockville, MD 20850, ATTN: SPOC—Funding Announcement No. [fill in pertinent funding opportunity number from the NOFA].

In addition, community-based, non-governmental service providers who are not transmitting their applications through the State must submit a Public Health System Impact Statement (PHSIS) (approved by OMB under control no. 0920-0428; see burden statement below) to the head(s) of appropriate State or local health agencies in the area(s) to be affected no later than the pertinent receipt date for applications. The PHSIS is intended to keep State and local health officials informed of proposed health services grant applications submitted by community-based, non-governmental organizations within their jurisdictions. State and local governments and Indian tribal government applicants are not subject to these requirements.

The PHSIS consists of the following information:

■ A copy of the face page of the application (SF 424); and

■ A summary of the project, no longer than one page in length, that provides: (1) A description of the population to be served, (2) a summary of the services to be provided, and (3) a description of the coordination planned with appropriate State or local health agencies.

For SAMHSA grants, the appropriate State agencies are the Single State Agencies (SSAs) for substance abuse and mental health. A listing of the SSAs can be found on SAMHSA's Web site at http://www.samhsa.gov. If the proposed project falls within the jurisdiction of more than one State, you should notify all representative SSAs.

Applicants who are not the SSA must include a copy of a letter transmitting the PHSIS to the SSA in Appendix 4, “Letter to the SSA.” The letter must notify the State that, if it wishes to comment on the proposal, its comments should be sent not later than 60 days after the application deadline to:

For United States Postal Service: Crystal Saunders, Director of Grant Review, Office of Program Services, Substance Abuse and Mental Health Services Administration, Room 3-1044, 1 Choke Cherry Road, Rockville, MD 20857, ATTN: SSA—Funding Announcement No. [fill in pertinent funding opportunity number from NOFA].

For other delivery service: Crystal Saunders, Director of Grant Review, Office of Program Services, Substance Abuse and Mental Health Services Administration, Room 3-1044, 1 Choke Cherry Road, Rockville, MD 20850, ATTN: SSA—Funding Announcement No. [fill in pertinent funding opportunity number from NOFA].

In addition:

■ Applicants may request that the SSA send them a copy of any State comments.

■ The applicant must notify the SSA within 30 days of receipt of an award.

[Public reporting burden for the Public Health System Reporting Requirement is estimated to average 10 minutes per response, including the time for copying the face page of SF 424 and the abstract and preparing the letter for mailing. An agency may not conduct or sponsor, and a person is not required to respond to, a collection of information unless it displays a currently valid OMB control number. The OMB control number for this project is 0920-0428. Send comments regarding this burden to CDC Clearance Officer, 1600 Clifton Road, MS D-24, Atlanta, GA 30333, ATTN: PRA (0920-0428).]

5. Funding Limitations/Restrictions

Cost principles describing allowable and unallowable expenditures for Federal grantees, including SAMHSA grantees, are provided in the following documents:

■ Institutions of Higher Education: OMB Circular A-21.

■ State and Local Governments: OMB Circular A-87.

■ Nonprofit Organizations: OMB Circular A-122.

■ Appendix E Hospitals: 45 CFR Part 74.

In addition, SAMHSA BPPI Grant recipients must comply with the following funding restrictions:

■ No more than 25% of Phase II funding may be used to evaluate the pilot test.

BPPI grant funds may not be used to:

■ Pay for any lease beyond the project period.

■ Provide services to incarcerated populations (defined as those persons in jail, prison, detention facilities, or in custody where they are not free to move about in the community).

■ Pay for the purchase or construction of any building or structure to house any part of the program. (Applicants may request no more than $75,000 for renovations and alterations of existing facilities, if appropriate and necessary to the project.)

■ Provide residential or outpatient treatment services when the facility has not yet been acquired, sited, approved, and met all requirements for human habitation and services provision. (Expansion or enhancement of existing residential services is permissible.)

■ Pay for housing other than residential mental health and/or substance abuse treatment.

■ Provide inpatient treatment or hospital-based detoxification services. Residential services are not considered to be inpatient or hospital-based services.

■ Pay for incentives to induce clients to enter treatment. However, a grantee or treatment provider may provide up to $20 or equivalent (coupons, bus tokens, gifts, childcare, and vouchers) to clients as incentives to participate in required data collection follow-up. This amount may be paid for participation in each required interview.

■ Implement syringe exchange programs, such as the purchase and distribution of syringes and/or needles.

■ Pay for pharmacologies for HIV antiretroviral therapy, sexually transmitted diseases (STDs)/sexually transmitted illness (STI), TB, and hepatitis B and C, or for psychotropic drugs.

■ SAMHSA will not accept a “research” indirect cost rate. The grantee must use the “other sponsored program rate” or the lowest rate available.

6. Other Submission Requirements

6.1 Where to Send Applications

Send applications to the following address:

For United States Postal Service: Crystal Saunders, Director of Grant Review, Office of Program Services, Substance Abuse and Mental Health Services Administration, Room 3-1044, 1 Choke Cherry Road, Rockville, MD 20857.

For other delivery service: Crystal Saunders, Director of Grant Review, Office of Program Services, Substance Abuse and Mental Health Services Administration, Room 3-1044, 1 Choke Cherry Road, Rockville, MD 20850.

Do not send applications to other agency contacts, as this could delay receipt. Be sure to include the funding announcement number from the NOFA in item number 10 on the face page of the application. If you require a phone number for delivery, you may use (240) 276-1199.

6.2 How to Send Applications

Mail an original application and 2 copies (including appendices) to the mailing address provided above. The original and copies must not be bound. Do not use staples, paper clips, or fasteners. Nothing should be attached, stapled, folded, or pasted.

Hand carried applications will not be accepted. Applications may be shipped using only DHL, Falcon Carrier, Federal Express (FedEx), United Parcel Service (UPS), or the United States Postal Service (USPS).

SAMHSA will not accept or consider any applications sent by facsimile.

Unless specifically indicated in the NOFA, electronic submission of applications will not be accepted.

V. Application Review Information

1. Evaluation Criteria

Your application will be reviewed and scored according to the quality of your response to the requirements listed below for developing the Project Narrative (Sections A-E for Phase I applications and A-D for Phase II applications). These sections describe what you intend to do with your project.

■ In developing the Project Narrative section of your application, use these instructions along with any additional instructions found in the NOFA. These are to be used instead of the “Program Narrative” instructions found in the PHS 5161-1.

■ The Project Narrative may be no longer than 30 pages.

■ You must use the sections/headings listed below in developing your Project Narrative. Be sure to place the required information in the correct section, or it will not be considered. Your application will be scored according to how well you address the requirements for each section of the Project Narrative.

■ Reviewers will be looking for evidence of cultural competence in each section of the Project Narrative. Points will be assigned based on how well you address the cultural competence aspects of the evaluation criteria. SAMHSA's guidelines for cultural competence can be found on the SAMHSA Web site at http://www.samhsa.gov. Click on “Grant Opportunities.”

■ The Supporting Documentation you provide in Sections F-I and Appendices 1-5 will be considered by reviewers in assessing your response, along with the material in the Project Narrative.

■ The number of points after each heading is the maximum number of points a review committee may assign to that section of your Project Narrative. Bullet statements in each section do not have points assigned to them. They are provided to invite the attention of applicants and reviewers to important areas within the criterion.

1.1 Phase I Criteria

Section A: Statement of Need (10 Points)

■ Describe the environment (organization, community, city, or State) where the project will be implemented.

■ Describe the target population (see Glossary) as well as the geographic area to be served, and justify the selection of both. Be sure to check the NOFA for any specific requirements regarding the target population and/or catchment area. Include numbers to be served and demographic information. Discuss the target population's language, beliefs, norms and values, as well as socioeconomic factors that must be considered in delivering programs to this population.

■ Describe the problem the project will address. Documentation of the problem may come from local data or trend analyses, State data (e.g., from State Needs Assessments), and/or national data (e.g., from SAMHSA's National Household Survey on Drug Abuse and Health or from National Center for Health Statistics/Centers for Disease Control reports). For data sources that are not well known, provide sufficient information on how the data were collected so reviewers can assess the reliability and validity of the data.

■ Non-tribal applicants must show that identified needs are consistent with the priorities of the State or county that has primary responsibility for the service delivery system. Include, in Appendix 5, a copy of the State or County Strategic Plan, a State or county needs assessment, or a letter from the State or county indicating that the proposed project addresses a State-or county-identified priority. Tribal applicants must provide similar documentation relating to tribal priorities.

■ Describe the best practice selected and how it will impact the problem.

■ Check the NOFA for any additional requirements.

Section B: Proposed Evidence-Based Practice (30 Points)

■ Clearly state the purpose, goals and objectives of your proposed project. Describe how achievement of the goals will address both the overall program purpose as specified in the NOFA and the needs you have identified in Section A. Provide a logic model (see Glossary) that links need, key components of the proposed project, and goals/objectives/outcomes of the proposed project.

■ Identify the evidenced based practice that you propose to implement. Describe the evidence-base for the proposed practice and show that it incorporates the best objective information available regarding effectiveness and acceptability. Follow the instructions provided in #1, #2 or #3 below, as appropriate. Depending on the evidence you provide, you may follow more than one set of instructions:

1. If you are proposing to implement a practice included in NREPP (see Appendix C), one of the CMHS tool-kits on evidence-based practices (see Appendix D), the list of Effective Substance Abuse Treatment Practices (see Appendix E), or the NOFA (if applicable), simply identify the practice and state the source from which it was selected. You do not need to provide further evidence of effectiveness.

2. If you are providing evidence that includes scientific studies published in the peer-reviewed literature or other studies that have not been published, describe the extent to which:

—The practice has been evaluated and the quality of the evaluation studies (e.g., whether they are descriptive, quasi-experimental studies, or experimental studies)

—The practice has demonstrated positive outcomes and for what populations the positive outcomes have been demonstrated

—The practice has been documented (e.g., through development of guidelines, tool kits, treatment protocols, and/or manuals) and replicated

—Fidelity measures have been developed (e.g., no measures developed, key components identified, or fidelity measures developed)

3. If you are providing evidence based on a formal consensus process involving recognized experts in the field, describe:

—The experts involved in developing consensus on the proposed service/practice (e.g., members of an expert panel formally convened by SAMHSA, NIH, the Institute of Medicine or other nationally recognized organization). The consensus must have been developed by a group of experts whose work is recognized and respected by others in the field. Local recognition of an individual as a respected or influential person at the community level is not considered a “recognized expert” for this purpose.

—The nature of the consensus that has been reached and the process used to reach consensus

—The extent to which the consensus has been documented (e.g., in a consensus panel report, meeting minutes, or an accepted standard practice in the field)

—Any empirical evidence (whether formally published or not) supporting the effectiveness of the proposed services/practice

—The rationale for concluding that further empirical evidence does not exist to support the effectiveness of the proposed services/practice

■ Justify the use of the proposed practice for the target population. Describe the types of modifications/adaptations that may be necessary to meet the needs of the target population, and describe how you will make a final determination about the adaptations/modifications to be made to meet the needs of the population.

■ Identify any additional adaptations or modifications that may be necessary to successfully implement the proposed practice in the target community. Describe how you will make a final determination about the adaptations/modifications to be made.

■ Describe how the proposed project will address issues of age, race, ethnicity, culture, language, sexual orientation, disability, literacy, and gender in the target population, while retaining fidelity to the chosen practice.

■ Check the NOFA for any additional requirements.

Section C: Proposed Implementation Approach (25 Points)

■ Describe how the proposed grant project will be implemented. Address any and all expectations/required activities specified in the NOFA.

■ Provide a realistic time line for the project (chart or graph) showing key activities, milestones, and responsible staff. [Note: The timeline should be part of the Project Narrative. It should not be placed in an appendix.]

■ Describe the strategies or models that will be used to build consensus, including a description of how key stakeholders (see Glossary) will be educated about the best practice. Describe potential barriers to achieving consensus among stakeholders. What resources and plans will you use to overcome these barriers?

■ Describe the process that will be used to develop a strategic plan to implement the best practice. Address such issues as needs assessment, identification of specific milestones that must be achieved in order to implement the best practice, and plans for assigning responsibility for achieving milestones among participating organizations/stakeholders. Identify potential funding source(s) that will help implement the best practice. Describe how the funder(s) will join in the consensus building and strategic planning.

■ Describe the key stakeholders (including representatives of the target population), how they were selected for participation in the project, and how they represent the community.

■ Describe the involvement of key stakeholders in the proposed project, including roles and responsibilities of each stakeholder. Clearly demonstrate each stakeholder's commitment to the consensus building and strategic planning processes. Attach letters of support and other documents showing stakeholder commitment in Appendix 1: Letters of Support. Identify any cash or in-kind contributions that will be made to the project by the applicant or other partnering organizations.

■ Describe how the project components will be embedded within the existing service delivery system, including other SAMHSA-funded projects, if applicable.

■ Check the NOFA for any additional requirements.

Section D: Management Plan and Staffing (20 Points)

■ Discuss the capability and experience of the applicant organization and other participating organizations with similar projects and populations, including experience in providing culturally appropriate/competent services.

■ Provide a list of staff members who will conduct the project, showing the role of each and their level of effort and qualifications. Include the Project Director and other key personnel, including evaluators and database management personnel.

■ Provide evidence that the service staff proposed to conduct the evidence-based practice have the level of abilities and experience necessary to implement the practice with fidelity to the model, once they have received any necessary training.

■ Identify the project staff or contractor(s) who will develop the implementation manual, and demonstrate that they have the requisite skills and experience.

■ Describe the racial/ethnic characteristics of key staff and indicate if any are members of the target population/community. If the target population is multi-linguistic, indicate if the staffing pattern includes bilingual or bicultural individuals.

■ If you plan to have an advisory body, describe its composition, roles, and frequency of meetings.

■ Describe the resources available for the proposed project (e.g., facilities, equipment), and provide evidence that services will be provided in a location that is adequate, accessible, compliant with the Americans with Disabilities Act (ADA), and amenable to the target population.

■ Check the NOFA for any additional requirements.

Section E:Evaluation Design and Analysis (15 Points)

■ Describe the design for evaluating the consensus building and strategic planning processes. Include a detailed discussion of how all variables (e.g., community representation and stakeholder support) will be defined and measured. Explain how the evaluation plan will ensure that the decision to adopt is an accurate reflection of the stakeholders' intent.

■ Document your ability to collect and report on the required performance measures as specified in the NOFA, including data required by SAMHSA to meet GPRA requirements. Specify and justify any additional measures you plan to use for your grant project.

■ Describe the process for providing regular feedback from evaluation activities to the Project Director and participants.

■ Describe plans for data collection, management, analysis, interpretation and reporting. Describe the existing approach to the collection of relevant data, along with any necessary modifications.

■ Discuss the reliability and validity of evaluation methods and instruments(s) in terms of the gender/age/ culture of the target population.

■ Check the NOFA for any additional requirements.

1.2 Phase II Criteria

Section A: Need, Justification of Best Practice, and Readiness (30 Points)

If you previously received a Phase I BBPI award and are applying for a Phase II award to continue the project, include the following information:

■ Describe briefly the target population (see Glossary), setting, need and best practice approved for the Phase I award.

■ Describe and justify any changes to the target population and setting. Discuss the factors that led to a decision change in the target population and setting.

■ Describe any changes in the need for the best practice in the target community. The statement of need should include a clearly established baseline for the project. Documentation of need may come from a variety of qualitative and quantitative sources. The quantitative data could come from local data or trend analyses, State data (e.g., from State Needs Assessments), and/or national data (e.g., from SAMHSA's National Household Survey on Drug Abuse and Health or from National Center for Health Statistics/Centers for Disease Control reports). For data sources that are not well known, provide sufficient information on how the data were collected so reviewers can assess the reliability and validity of the data.

■ Provide an updated projection of the number of individuals to be served as well as demographic information. Discuss the target population's language, beliefs, norms and values, as well as socioeconomic factors that must be considered in delivering programs to this population.

■ Describe and justify any additional modifications or adaptations to the best practice as compared to the practice approved for your Phase I project.

■ Provide evidence that the community of stakeholders (see Glossary) achieved a “decision to adopt” the practice. Attach a copy of the Phase I process evaluation or other evidence including contracts, memoranda of agreement, administrative memos, or other documents signed by key stakeholders that show their firm commitment to support the practice. Attach these supporting documents in Appendix 6: Evidence of Intent to Adopt.

■ Provide and describe the financing plan. Include anticipated costs and sources of revenue that will maintain the practice. Attach the financing plan, signed by the funding source(s), stating their intent to fund in Appendix 6: Evidence of Intent to Adopt.

■ Check the NOFA for any additional requirements.

If you are applying for a Phase II award but did not previously receive a Phase I award, include the following information:

■ Clearly state the purpose, goals and objectives of your proposed project. Describe how achievement of the goals will address the overall program purpose as specified in the NOFA and produce meaningful and relevant results. Provide a logic model (see Glossary) that links need, the services or practice to be implemented, and outcomes.

■ Describe the target population as well as the geographic area to be served, and justify the selection of both. Include the numbers to be served and demographic information. Discuss the target population's language, beliefs, norms and values, as well as socioeconomic factors that must be considered in delivering programs to this population.

■ Describe the nature of the problem and extent of the need for the target population based on data. The statement of need should include a clearly established baseline for the project. Documentation of need may come from a variety of qualitative and quantitative sources. The quantitative data could come from local data or trend analyses, State data (e.g., from State Needs Assessments), and/or national data (e.g., from SAMHSA's National Household Survey on Drug Abuse and Health or from National Center for Health Statistics/Centers for Disease Control reports). For data sources that are not well known, provide sufficient information on how the data were collected so reviewers can assess the reliability and validity of the data.

■ Non-tribal applicants must show that identified needs are consistent with priorities of the State or county. Include, in Appendix 5, a copy of the State or County Strategic Plan, a State or county needs assessment, or a letter from the State or county indicating that the proposed project addresses a State-or county-identified priority. Tribal applicants must provide similar documentation relating to tribal priorities.

■ Identify the evidenced based service/practice that you propose to implement. Describe the evidence-base for the proposed service/practice and show that it incorporates the best objective information available regarding effectiveness and acceptability. Follow the instructions provided in #1, #2 or #3 below, as appropriate:

1. If you are proposing to implement a service/practice included in NREPP (see Appendix C), one of the CMHS tool-kits on evidence-based practices (see Appendix D), the list of Effective Substance Abuse Treatment Practices (see Appendix E), or the NOFA (if applicable), simply identify the practice and state the source from which it was selected. You do not need to provide further evidence of effectiveness.

2. If you are providing evidence that includes scientific studies published in the peer-reviewed literature or other studies that have not been published, describe the extent to which:

—The service/practice has been evaluated and the quality of the evaluation studies (e.g., whether they are descriptive, quasi-experimental studies, or experimental studies)

—The service/practice has demonstrated positive outcomes and for what populations the positive outcomes have been demonstrated

—The service/practice has been documented (e.g., through development of guidelines, tool kits, treatment protocols, and/or manuals) and replicated

—Fidelity measures have been developed (e.g., no measures developed, key components identified, or fidelity measures developed)

3. If you are providing evidence based on a formal consensus process involving recognized experts in the field, describe:

—The experts involved in developing consensus on the proposed service/practice (e.g., members of an expert panel formally convened by SAMHSA, NIH, the Institute of Medicine or other nationally recognized organization). The consensus must have been developed by a group of experts whose work is recognized and respected by others in the field. Local recognition of an individual as a respected or influential person at the community level is not considered a “recognized expert” for this purpose.

—The nature of the consensus that has been reached and the process used to reach consensus

—The extent to which the consensus has been documented (e.g., in a consensus panel report, meeting minutes, or an accepted standard practice in the field)

—Any empirical evidence (whether formally published or not) supporting the effectiveness of the proposed services/practice

—The rationale for concluding that further empirical evidence does not exist to support the effectiveness of the proposed services/practice

■ Justify the use of the proposed service/practice for the target population. Describe and justify any adaptations necessary to meet the needs of the target population, as well as evidence that such adaptations will be effective for the target population.

■ Identify and justify any additional adaptations or modifications to the proposed service/practice.

■ Describe the community of stakeholders in the project, and provide evidence that they have achieved a “decision to adopt” the practice. Such evidence may include contracts, memoranda of agreement, administrative memos, or other documents signed by key stakeholders that show their firm commitment to support the practice. Attach these supporting documents in Appendix 6: Evidence of Intent to Adopt.

■ Provide and describe the financing plan. Include anticipated costs and sources of revenue that will maintain the practice. Attach the financing plan, signed by the funding source(s), stating their intent to fund in Appendix 6: Evidence of Intent to Adopt.

■ Check the NOFA for any additional requirements.

Section B: Proposed Approach (25 Points)

■ Provide a strategic plan, including key action steps, that addresses each of the following elements, as appropriate: pilot testing the best practice, evaluating the pilot test, modifying the best practice based on the pilot test, developing training materials, hiring/training staff, and securing funding to sustain services beyond the project period. Address any and all expectations/required activities specified in the NOFA.

■ Describe the involvement of key stakeholders in the proposed project, including roles and responsibilities of each stakeholder. Demonstrate each stakeholder's commitment to the proposed project. Attach letters of support and similar documents showing stakeholder commitment in Appendix 1: Letters of Support. Identify any cash or in-kind contributions that will be made to the project.

■ Describe how the proposed project will address issues of age, race/ethnicity, culture, language, sexual orientation, disability, literacy, and gender in the target population.

■ Describe potential barriers to the successful conduct of the proposed project and how you will overcome them.

■ Describe oversight or feedback mechanisms to ensure that the implemented practice is consistent with the best practice model.

■ Check the NOFA for any additional requirements.

Section C: Management Plan and Staffing (25 Points)

■ Provide a realistic time line for the project (chart or graph) showing key activities, milestones, and responsible staff. [Note: The time line should be part of the Project Narrative. It should not be placed in an appendix.]

■ Discuss the capability and experience of the applicant organization and other participating organizations with similar projects and populations, including experience in providing culturally appropriate/competent services.

■ Provide a list of staff members who will conduct the project, showing the role of each and their level of effort and qualifications. Include the Project Director and other key personnel, including evaluators and database managers.

■ Describe the racial/ethnic characteristics of key staff and indicate if any are members of the target population/community. If the target population is multi-linguistic, indicate if the staffing pattern includes bilingual and bicultural individuals.

■ Describe the resources available for the proposed project (e.g., facilities, equipment), and provide evidence that services will be provided in a location that is adequate, accessible, Americans with Disabilities Act (ADA) compliant, and is amenable to the target population.

■ Check the NOFA for any additional requirements.

Section D: Evaluation Design and Analysis (20 Points)

■ Document your ability to collect and report on the required performance measures as specified in the NOFA, including data required by SAMHSA to meet GPRA requirements. Specify and justify any additional measures you plan to use for your grant project.

■ Provide a logic model (see Glossary) for the evaluation of the pilot test of the best practice as well as other implementation activities (e.g., training, securing financing).

■ Provide a plan for evaluating the pilot test of the best practice and other implementation activities that includes both process and client outcome measures. Describe the recruitment plan and sample size for your project. Describe any literature or pilot testing done to verify the validity and reliability of the instruments to be used. Also discuss the appropriateness of the evaluation methods and instrument(s) in terms of the gender/age/culture of the target population. Attach instrumentation in Appendix 2: Data Collection Instruments.

■ Describe how the adaptations of the best practice will be documented. Demonstrate its fidelity to the best practice model. If no fidelity scale exists for the practice, describe how you will develop one.

■ Describe the process for providing regular feedback from evaluation activities to the Project Director and participants.

■ Describe the database management system that will be developed.

■ Check the NOFA for any additional requirements.

Note: Although the budget for the proposed project is not a review criterion, the Review Group will be asked to comment on the appropriateness of the budget after the merits of the application have been considered.

2. Review and Selection Process

SAMHSA applications are peer-reviewed according to the review criteria listed above. For those programs where the individual award is over $100,000, applications must also be reviewed by the appropriate National Advisory Council.

Decisions to fund a grant are based on:

■ The strengths and weaknesses of the application as identified by peer reviewers and, when appropriate, approved by the appropriate National Advisory Council;

■ Availability of funds;

■ Equitable distribution of awards in terms of geography (including urban, rural and remote settings) and balance among target populations and program size; and

■ After applying the aforementioned criteria, the following method for breaking ties: When funds are not available to fund all applications with identical scores, SAMHSA will make award decisions based on the application(s) that received the greatest number of points by peer reviewers on the evaluation criterion in Section V-1 with the highest number of possible points (for Phase I, Proposed Evidence-Based Practice'30 points; for Phase II, Need, Justification of Best Practice, and Readiness'30 points). Should a tie still exist, the evaluation criterion with the next highest possible point value will be used, continuing sequentially to the evaluation criterion with the lowest possible point value, should that be necessary to break all ties. If an evaluation criterion to be used for this purpose has the same number of possible points as another evaluation criterion, the criterion listed first in Section V-1 will be used first.

VI. Award Administration Information

1. Award Notices

After your application has been reviewed, you will receive a letter from SAMHSA through postal mail that describes the general results of the review, including the score that your application received.

If you are approved for funding, you will receive an additional notice, the Notice of Grant Award, signed by SAMHSA's Grants Management Officer. The Notice of Grant Award is the sole obligating document that allows the grantee to receive Federal funding for work on the grant project. It is sent by postal mail and is addressed to the contact person listed on the face page of the application.

If you are not funded, you can re-apply if there is another receipt date for the program.

2. Administrative and National Policy Requirements

■ You must comply with all terms and conditions of the grant award. SAMHSA's standard terms and conditions are available on the SAMHSA Web site at http://www.samhsa.gov/grants/generalinfo/useful_info.aspx.

■ Depending on the nature of the specific funding opportunity and/or the proposed project as identified during review, additional terms and conditions may be identified in the NOFA or negotiated with the grantee prior to grant award. These may include, for example:

◦ Actions required to be in compliance with human subjects requirements;

◦ Requirements relating to additional data collection and reporting;

◦ Requirements relating to participation in a cross-site evaluation; or

◦ Requirements to address problems identified in review of the application.

■ You will be held accountable for the information provided in the application relating to performance targets. SAMHSA program officials will consider your progress in meeting goals and objectives, as well as your failures and strategies for overcoming them, when making an annual recommendation to continue the grant and the amount of any continuation award. Failure to meet stated goals and objectives may result in suspension or termination of the grant award, or in reduction or withholding of continuation awards.

■ In an effort to improve access to funding opportunities for applicants, SAMHSA is participating in the U.S. Department of Health and Human Services “Survey on Ensuring Equal Opportunity for Applicants.” This survey is included in the application kit for SAMHSA grants. Applicants are encouraged to complete the survey and return it, using the instructions provided on the survey form.

3. Reporting Requirements

3.1 Progress and Financial Reports

■ Grantees must provide annual and final progress reports. The final progress report must summarize information from the annual reports, describe the accomplishments of the project, and describe next steps for implementing plans developed during the grant period.

■ Grantees must provide annual and final financial status reports. These reports may be included as separate sections of annual and final progress reports or can be separate documents. Because SAMHSA is extremely interested in ensuring that its best practices efforts can be sustained, your financial reports must explain plans to ensure the sustainability (see Glossary) of efforts initiated under this grant. Initial plans for sustainability should be described in year 1 of the grant. In each subsequent year, you should describe the status of the project, successes achieved and obstacles encountered in that year.

■ SAMHSA will provide guidelines and requirements for these reports to grantees at the time of award and at the initial grantee orientation meeting after award. SAMHSA staff will use the information contained in the reports to determine the grantee's progress toward meeting its goals.

3.2 Government Performance and Results Act

The Government Performance and Results Act (GPRA) mandates accountability and performance-based management by Federal agencies. To meet the GPRA requirements, SAMHSA must collect performance data (i.e., “GPRA data”) from grantees. These requirements will be specified in the NOFA for each funding opportunity.

3.3 Publications

If you are funded under this grant program, you are required to notify the Government Project Officer (GPO) and SAMHSA's Publications Clearance Officer (240-276-2130) of any materials based on the SAMHSA-funded project that are accepted for publication.

In addition, SAMHSA requests that grantees:

■ Provide the GPO and SAMHSA Publications Clearance Officer with advance copies of publications.

■ Include acknowledgment of the SAMHSA grant program as the source of funding for the project.

■ Include a disclaimer stating that the views and opinions contained in the publication do not necessarily reflect those of SAMHSA or the U.S. Department of Health and Human Services, and should not be construed as such.

SAMHSA reserves the right to issue a press release about any publication deemed by SAMHSA to contain information of program or policy significance to the substance abuse treatment/substance abuse prevention/mental health services community.

VII. Agency Contacts

The NOFAs provide contact information for questions about program issues.

For questions on grants management issues, contact: Kimberly Pendleton, Office of Program Services, Division of Grants Management, Substance Abuse and Mental Health Services Administration, 1 Choke Cherry Road, Room 7-1097, Rockville, Maryland 20850, (240) 276-1421, kimberly.pendleton@samhsa.hhs.gov.

Appendix A—Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review. In addition to these formatting requirements, programmatic requirements (e.g., relating to eligibility) may be stated in the specific NOFA and in Section III of the standard grant announcement. Please check the entire NOFA and Section III of the standard grant announcement before preparing your application.

❑ Use the PHS 5161-1 application.

❑ Applications must be received by the application deadline or have proof of timely submission, as detailed in Section IV-3 of the grant announcement.

❑ Information provided must be sufficient for review.

❑ Text must be legible.

• Type size in the Project Narrative cannot exceed an average of 15 characters per inch, as measured on the physical page. (Type size in charts, tables, graphs, and footnotes will not be considered in determining compliance.)

• Text in the Project Narrative cannot exceed 6 lines per vertical inch.

❑ Paper must be white paper and 8.5 inches by 11.0 inches in size.

❑ To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

To facilitate review of your application, follow these additional guidelines. Failure to adhere to the following guidelines will not, in itself, result in your application being screened out and returned without review. However, the information provided in your application must be sufficient for review. Following these guidelines will help ensure your application is complete, and will help reviewers to consider your application.

❑ The 10 application components required for SAMHSA applications should be included. These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form within PHS 5161-1)

• Disclosure of Lobbying Activities (Standard Form LLL, which is in PHS 5161-1)

• Checklist (a form in PHS 5161-1)

❑ Applications should comply with the following requirements:

• Provisions relating to confidentiality, participant protection and the protection of human subjects specified in Section IV-2.4 of the FY2005 standard funding announcements.

• Budgetary limitations as specified in Section I, II, and IV-5 of the FY 2005 standard funding announcements.

• Documentation of nonprofit status as required in the PHS 5161-1.

❑ Pages should be typed single-spaced in black ink, with one column per page. Pages should not have printing on both sides.

❑ Please number pages consecutively from beginning to end so that information can be located easily during review of the application. The cover page should be page 1, the abstract page should be page 2, and the table of contents page should be page 3. Appendices should be labeled and separated from the Project Narrative and budget section, and the pages should be numbered to continue the sequence.

❑ The page limits for Appendices stated in the specific funding announcement should not be exceeded.

❑ Send the original application and two copies to the mailing address in the funding announcement. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

Appendix B—Glossary

Best Practice: Best practices are practices that incorporate the best objective information currently available regarding effectiveness and acceptability.

Catchment Area: A catchment area is the geographic area from which the target population to be served by a program will be drawn.

Cooperative Agreement: A cooperative agreement is a form of Federal grant. Cooperative agreements are distinguished from other grants in that, under a cooperative agreement, substantial involvement is anticipated between the awarding office and the recipient during performance of the funded activity. This involvement may include collaboration, participation, or intervention in the activity. HHS awarding offices use grants or cooperative agreements (rather than contracts) when the principal purpose of the transaction is the transfer of money, property, services, or anything of value to accomplish a public purpose of support or stimulation authorized by Federal statute. The primary beneficiary under a grant or cooperative agreement is the public, as opposed to the Federal Government.

Cost sharing or Matching: Cost sharing refers to the value of allowable non-Federal contributions toward the allowable costs of a Federal grant project or program. Such contributions may be cash or in-kind contributions. For SAMHSA grants, cost sharing or matching is not required, and applications will not be screened out on the basis of cost sharing. However, applicants often include cash or in-kind contributions in their proposals as evidence of commitment to the proposed project. This is allowed, and this information may be considered by reviewers in evaluating the quality of the application.

Fidelity: Fidelity is the degree to which a specific implementation of a program or practice resembles, adheres to, or is faithful to the evidence-based model on which it is based. Fidelity is formally assessed using rating scales of the major elements of the evidence-based model. A toolkit on how to develop and use fidelity instruments is available from the SAMHSA-funded Evaluation Technical Assistance Center at http://tecathsri.org or by calling (617) 876-0426.

Grant: A grant is the funding mechanism used by the Federal Government when the principal purpose of the transaction is the transfer of money, property, services, or anything of value to accomplish a public purpose of support or stimulation authorized by Federal statute. The primary beneficiary under a grant or cooperative agreement is the public, as opposed to the Federal Government.

In-Kind Contribution: In-kind contributions toward a grant project are non-cash contributions (e.g., facilities, space, services) that are derived from non-Federal sources, such as State or sub-State non-Federal revenues, foundation grants, or contributions from other non-Federal public or private entities.

Logic Model: A logic model is a diagrammatic representation of a theoretical framework. A logic model describes the logical linkages among program resources, conditions, strategies, short-term outcomes, and long-term impact. More information on how to develop logics models and examples can be found through the resources listed in Appendix F.

Practice: A practice is any activity, or collective set of activities, intended to improve outcomes for people with or at risk for substance abuse and/or mental illness. Such activities may include direct service provision, or they may be supportive activities, such as efforts to improve access to and retention in services, organizational efficiency or effectiveness, community readiness, collaboration among stakeholder groups, education, awareness, training, or any other activity that is designed to improve outcomes for people with or at risk for substance abuse or mental illness.

Practice Support System: This term refers to contextual factors that affect practice delivery and effectiveness in the pre-adoption phase, delivery phase, and post-delivery phase, such as (a) community collaboration and consensus building, (b) training and overall readiness of those implementing the practice, and (c) sufficient ongoing supervision for those implementing the practice.

Stakeholder: A stakeholder is an individual, organization, constituent group, or other entity that has an interest in and will be affected by a proposed grant project.

Sustainability: Sustainability is the ability to continue a program or practice after SAMHSA grant funding has ended.

Target Population: The target population is the specific population of people whom a particular program or practice is designed to serve or reach.

Wraparound Service: Wraparound services are non-clinical supportive services'such as child care, vocational, educational, and transportation services'that are designed to improve the individual's access to and retention in the proposed project.

Appendix C—National Registry of Effective Programs and Practices

To help SAMHSA's constituents learn more about science-based programs, SAMHSA's Center for Substance Abuse Prevention (CSAP) created a National Registry of Effective Programs and Practices (NREPP) to review and identify effective programs. NREPP seeks candidates from the practice community and the scientific literature. While the initial focus of NREPP was substance abuse prevention programming, NREPP has expanded its scope and now includes prevention and treatment of substance abuse and of co-occurring substance abuse and mental disorders, and psychopharmacological programs and workplace programs.

NREPP includes three categories of programs: Effective Programs, Promising Programs, and Model Programs. Programs defined as Effective have the option of becoming Model Programs if their developers choose to take part in SAMHSA dissemination efforts. The conditions for making that choice, together with definitions of the three major criteria, are as follows.

Promising Programs have been implemented and evaluated sufficiently and are scientifically defensible. They have positive outcomes in preventing substance abuse and related behaviors. However, they have not yet been shown to have sufficient rigor and/or consistently positive outcomes required for Effective Program status. Nonetheless, Promising Programs are eligible to be elevated to Effective/Model status after review of additional documentation regarding program effectiveness. Originated from a range of settings and spanning target populations, Promising Programs can guide prevention, treatment, and rehabilitation.

Effective Programs are well-implemented, well-evaluated programs that produce consistently positive pattern of results (across domains and/or replications). Developers of Effective Programs have yet to help SAMHSA/CSAP disseminate their programs, but may do so themselves.

Model Programs are also well-implemented, well-evaluated programs, meaning they have been reviewed by NREPP according to rigorous standards of research. Their developers have agreed with SAMHSA to provide materials, training, and technical assistance for nationwide implementation. That helps ensure the program is carefully implemented and likely to succeed.

Programs that have met the NREPP standards for each category can be identified by accessing the NREPP Model Programs Web site at http://www.modelprograms.samhsa.gov.

Appendix D—Center for Mental Health Services Evidence-Based Practice Toolkits

SAMHSA's Center for Mental Health Services and the Robert Wood Johnson Foundation initiated the Evidence-Based Practices Project to: (1) Help more consumers and families find effective services, (2) help providers of mental health services develop effective services, and (3) help administrators support and maintain these services. The project is now also funded and endorsed by numerous national, State, local, private and public organizations, including the Johnson & Johnson Charitable Trust, MacArthur Foundation, and the West Family Foundation.

The project has been developed through the cooperation of many Federal and State mental health organizations, advocacy groups, mental health providers, researchers, consumers and family members. A Web site (http://www.mentalhealthpractices.org) was created as part of Phase I of the project, which included the identification of the first cluster of evidence-based practices and the design of implementation resource kits to help people understand and use these practices successfully.

Basic information about the first six evidence-based practices is available on the Web site. The six practices are:

1. Illness Management and Recovery

2. Family Psychoeducation

3. Medication Management Approaches in Psychiatry

4. Assertive Community Treatment

5. Supported Employment

6. Integrated Dual Disorders Treatment

Each of the resource kit contains information and materials written by and for the following groups:

—Consumers

—Families and Other Supporters

—Practitioners and Clinical Supervisors

—Mental Health Program Leaders

—Public Mental Health Authorities

Material on the web site can be printed or downloaded with Acrobat Reader, and references are provided where additional information can be obtained.

Once published, the full kits will be available from National Mental Health Information Center at http://www.health.org or 1-800-789-CMHS (2647).

Appendix E—Effective Substance Abuse Treatment Practices

To assist potential applicants, SAMHSA's Center for Substance Abuse Treatment (CSAT) has identified the following listing of current publications on effective treatment practices for use by treatment professionals in treating individuals with substance abuse disorders. These publications are available from the National Clearinghouse for Alcohol and Drug Information (NCADI); Tele: 1-800-729-6686 or http://www.health.org and http://www.samhsa.gov/centers/csat2002/publications.html.

CSAT Treatment Improvement Protocols (TIPs) are consensus-based guidelines developed by clinical, research, and administrative experts in the field.

• Integrating Substance Abuse Treatment and Vocational Services. TIP 38 (2000) NCADI # BKD381

• Substance Abuse Treatment for Persons with Child Abuse and Neglect Issues. TIP 36 (2000) NCADI # BKD343

• Substance Abuse Treatment for Persons with HIV/AIDS. TIP 37 (2000) NCADI # BKD359

• Brief Interventions and Brief Therapies for Substance Abuse. TIP 34 (1999) NCADI # BKD341

• Enhancing Motivation for Change in Substance Abuse Treatment. TIP 35 (1999) NCADI # BKD342

• Screening and Assessing Adolescents for Substance Use Disorders. TIP 31 (1999) NCADI # BKD306

• Treatment for Stimulant Use Disorders. TIP 33 (1999) NCADI # BKD289

• Treatment of Adolescents with Substance Use Disorders. TIP 32 (1999) NCADI # BKD307

• Comprehensive Case Management for Substance Abuse Treatment. TIP 27 (1998) NCADI # BKD251

• Continuity of Offender Treatment for Substance Use Disorders From Institution to Community. TIP 30 (1998) NCADI # BKD304

• Naltrexone and Alcoholism Treatment. TIP 28 (1998) NCADI # BKD268

• Substance Abuse Among Older Adults. TIP 26 (1998) NCADI # BKD250

• Substance Use Disorder Treatment for People With Physical and Cognitive Disabilities. TIP 29 (1998) NCADI # BKD288

• A Guide to Substance Abuse Services for Primary Care Clinicians. TIP 24 (1997) NCADI # BKD234

• Substance Abuse Treatment and Domestic Violence. TIP 25 (1997) NCADI # BKD239

• Treatment Drug Courts: Integrating Substance Abuse Treatment With Legal Case Processing. TIP 23 (1996) NCADI # BKD205

• Alcohol and Other Drug Screening of Hospitalized Trauma Patients. TIP 16 (1995) NCADI # BKD164

• Combining Alcohol and Other Drug Abuse Treatment With Diversion for Juveniles in the Justice System. TIP 21 (1995) NCADI # BKD169

• Detoxification From Alcohol and Other Drugs. TIP 19 (1995) NCADI # BKD172

• LAAM in the Treatment of Opiate Addiction. TIP 22 (1995) NCADI # BKD170

• Matching Treatment to Patient Needs in Opioid Substitution Therapy. TIP 20 (1995) NCADI # BKD168

• Planning for Alcohol and Other Drug Abuse Treatment for Adults in the Criminal Justice System. TIP 17 (1995) NCADI # BKD165

• Assessment and Treatment of Cocaine-Abusing Methadone-Maintained Patients. TIP 10 (1994) NCADI # BKD157

• Assessment and Treatment of Patients With Coexisting Mental Illness and Alcohol and Other Drug Abuse. TIP 9 (1994) NCADI # BKD134

• Intensive Outpatient Treatment for Alcohol and Other Drug Abuse. TIP 8 (1994) NCADI # BKD139

Other Effective Practice Publications

CSAT Publications—

Anger Management for Substance Abuse and Mental Health Clients: A Cognitive Behavioral Therapy Manual (2002) NCADI # BKD444

• Anger Management for Substance Abuse and Mental Health Clients: Participant Workbook (2002) NCADI # BKD445

• Multidimensional Family Therapy for Adolescent Cannabis Users. CYT Cannabis Youth Treatment Series Vol. 5 (2002) NCADI # BKD388

• Navigating the Pathways: Lessons and Promising Practices in Linking Alcohol and Drug Services with Child Welfare. TAP 27 (2002) NCADI # BKD436

• The Motivational Enhancement Therapy and Cognitive Behavioral Therapy Supplement: 7 Sessions of Cognitive Behavioral Therapy for Adolescent Cannabis Users. CYT Cannabis Youth Treatment Series Vol. 2 (2002) NCADI # BKD385

• Family Support Network for Adolescent Cannabis Users. CYT Cannabis Youth Treatment Series Vol. 3 (2001) NCADI # BKD386

• Identifying Substance Abuse Among TANF-Eligible Families. TAP 26 (2001) NCADI # BKD410

• Motivational Enhancement Therapy and Cognitive Behavioral Therapy for Adolescent Cannabis Users: 5 Sessions. CYT Cannabis Youth Treatment Series Vol. 1 (2001) NCADI # BKD384

• The Adolescent Community Reinforcement Approach for Adolescent Cannabis Users. CYT Cannabis Youth Treatment Series Vol. 4 (2001) NCADI # BKD387

• Substance Abuse Treatment for Women Offenders: Guide to Promising Practices. TAP 23 (1999) NCADI # BKD310

• Addiction Counseling Competencies: The Knowledge, Skills, and Attitudes of Professional Practice. TAP 21 (1998) NCADI # BKD246

• Bringing Excellence to Substance Abuse Services in Rural and Frontier America. TAP 20 (1997) NCADI # BKD220

• Counselor's Manual for Relapse Prevention with Chemically Dependent Criminal Offenders. TAP 19 (1996) NCADI # BKD723

• Draft Buprenorphine Curriculum for Physicians (Note: the Curriculum is in DRAFT form and is currently being updated) http://www.buprenorphine.samhsa.gov

• CSAT Guidelines for the Accreditation of Opioid Treatment Programs http://www.samhsa.gov/centers/csat/content/dpt/accreditation.htm

• Model Policy Guidelines for Opioid Addiction Treatment in the Medical Office http://www.samhsa.gov/centers/csat/content/dpt/model_policy.htm

NIDA Manuals—Available through NCADI

• Brief Strategic Family Therapy. Manual 5 (2003) NCADI # BKD481

• Drug Counseling for Cocaine Addiction: The Collaborative Cocaine Treatment Study Model. Manual 4 (2002) NCADI # BKD465

• The NIDA Community-Based Outreach Model: A Manual to Reduce Risk HIV and Other Blood-Borne Infections in Drug Users. (2000) NCADI # BKD366

• An Individual Counseling Approach to Treat Cocaine Addiction: The Collaborative Cocaine Treatment Study Model. Manual 3 (1999) NCADI # BKD337

• Cognitive-Behavioral Approach: Treating Cocaine Addiction. Manual 1 (1998) NCADI # BKD254

• Community Reinforcement Plus Vouchers Approach: Treating Cocaine Addiction. Manual 2 (1998) NCADI # BKD255

NIAAA Publications—* These publications are available in PDF format or can be ordered on-line at http://www.niaaa.nih.gov/publications/guides.htm. An order form for the Project MATCH series is available on-line at http://www.niaaa.nih.gov/publications/match.htm. All publications listed can be ordered through the NIAAA Publications Distribution Center, P.O. Box 10686, Rockville, MD 20849-0686.

• * Alcohol Problems in Intimate Relationships: Identification and Intervention. A Guide for Marriage and Family Therapists (2003) NIH Pub. No. 03-5284

• * Helping Patients with Alcohol Problems: A Health Practitioner's Guide. (2003) NIH Pub. No. 03-3769

• Cognitive-Behavioral Coping Skills Therapy Manual. Project MATCH Series, Vol. 3 (1995) NIH Pub. No. 94-3724

• Motivational Enhancement Therapy Manual. Project MATCH Series, Vol. 2 (1994) NIH Pub. No. 94-3723

Appendix F—Logic Model Resources

Chen, W.W., Cato, B.M., & Rainford, N. (1998-9). Using a logic model to plan and evaluate a community intervention program: A case study. International Quarterly of Community Health Education, 18(4), 449-458.

Edwards, E.D., Seaman, J.R., Drews, J., & Edwards, M.E. (1995). A community approach for Native American drug and alcohol prevention programs: A logic model framework. Alcoholism Treatment Quarterly, 13(2), 43-62.

Hernandez, M. & Hodges, S. (2003). Crafting Logic Models for Systems of Care: Ideas into Action. [Making children's mental health services successful series, volume 1]. Tampa, FL: University of South Florida, The Louis de la Parte Florida Mental Health Institute, Department of Child & Family Studies. http://cfs.fmhi.usf.edu or phone (813) 974-4651.

Hernandez, M. & Hodges, S. (2001). Theory-based accountability. In M. Hernandez & S. Hodges (Eds.), Developing Outcome Strategies in Children's Mental Health, pp. 21-40. Baltimore: Brookes.

Julian, D.A. (l997). Utilization of the logic model as a system level planning and evaluation device. Evaluation and Planning, 20(3), 251-257.

Julian, D.A., Jones, A., & Deyo, D. (1995). Open systems evaluation and the logic model: Program planning and evaluation tools. Evaluation and Program Planning, 18(4), 333-341.

Patton, M.Q. (1997). Utilization-Focused Evaluation (3rd Ed.), pp. 19, 22, 241. Thousand Oaks, CA: Sage.

Wholey, J.S., Hatry, H.P., Newcome, K.E. (Eds.) (1994). Handbook of Practical Program Evaluation. San Francisco, CA: Jossey-Bass Inc.

Appendix G—Sample Budget and Justification

Illustration of a Sample Detailed Budget and Narrative Justification To Accompany SF 424A: Section B for 01 Budget Period

Object Class Categories

Personnel

Job title | Name | Annual salary | Level of effort | Salary being requested
Project Director | J. Doe | $30,000 | 1.0 | $30,000
Secretary | Unnamed | 18,000 | 0.5 | 9,000
Counselor | R. Down | 25,000 | 1.0 | 25,000

Enter Personnel subtotal on 424A, Section B, 6.a. $64,000

Fringe Benefits (24%) $15,360

Enter Fringe Benefits subtotal on 424A, Section B, 6.b. $15,360

Travel

2 trips for SAMHSA Meetings for 2 Attendees (Airfare @ $600 × 4 = $2,400) × (per diem @ $120 × 4 × 6 days = $2,880) | $5,280
Local Travel (500 miles x .24 per mile) | 120

Enter Travel subtotal on 424A, Section B, 6.c. $5,400

Equipment (List Individually)

“Equipment” means an article of nonexpendable, tangible personal property having a useful life of more than one year and an acquisition cost which equals the lesser of (a) the capitalization level established by the governmental unit or nongovernmental applicant for financial statement purposes, or (b) $5000.

Enter Equipment subtotal on 424A, Section B, 6.d.

Supplies

Office Supplies | $500
Computer Software—1 WordPerfect | 500

Enter Supplies subtotal on 424A, Section B, 6.e. $1,000

Contractual Costs

Evaluation

Job title | Name | Annual salary | Salary being requested | Level of effort
Evaluator | J. Wilson | $48,000 | $24,000 | 0.5
Other Staff |  | $18,000 | $18,000 | 1.0

Fringe Benefits (25%) $10,500

Travel

2 trips × 1 Evaluator ($600 × 2) | $ 1,200
per diem @ $120 × 6 | 720
Supplies (General Office) | 500

Evaluation Direct | $54,920
Evaluation Indirect Costs (19%) | 10,435
Evaluation Subtotal | 65,355

Training

Job title | Name | Level of effort | Salary being requested
Coordinator | M. Smith | 0.5 | $12,000
Admin. Asst. | N. Jones | 0.5 | 9,000

Fringe Benefits (25%) $5,250

Travel

2 Trips for Training Airfare @ $600 × 2 | $1,200
Per Diem $120 × 2 × 2 days | 480
Local (500 miles x .24/mile) | 120

Supplies

Office Supplies | $500
Software (WordPerfect) | 500

Other

Rent (500 Sq. Ft. × $9.95) | $4,975
Telephone | 500
Maintenance (e.g., van) | 2,500
Audit | 3,000

Training Direct | $40,025
Training Indirect | 0

Enter Contractual subtotal on 424A, Section B, 6.f. $105,380

Other

Consultants = Expert @ $250/day × 6 day (If expert is known, should list by name) | $1,500

Enter Other subtotal on 424A, Section B, 6.h. $1,500

Total Direct Charges (sum of 6.a-6.h)

Enter Total Direct on 424A, Section B, 6.i. $192,640

Indirect Costs

15% of Salary and Wages (copy of negotiated indirect cost rate agreement attached)

Enter Indirect subtotal of 424A, Section B, 6.j. $9,600

Totals

Enter Total on 424A, Section B, 6.k. $202,240

Justification

Personnel—Describe the role and responsibilities of each position.

Fringe Benefits—List all components of the fringe benefit rate.

Equipment—List equipment and describe the need and the purpose of the equipment in relation to the proposed project.

Supplies—Generally self-explanatory; however, if not, describe need. Include explanation of how the cost has been estimated.

Travel—Explain need for all travel other than that required by SAMHSA.

Contractual Costs—Explain the need for each contractual arrangement and how these components relate to the overall project.

Other—Generally self-explanatory. If consultants are included in this category, explain the need and how the consultant's rate has been determined.

Indirect Cost Rate—If your organization has no indirect cost rate, please indicate whether your organization plans to (a) waive indirect costs if an award is issued, or (b) negotiate and establish an indirect cost rate with DHHS within 90 days of award issuance.

Calculation of Future Budget Periods (Based on First 12-Month Budget Period)
[Review and verify the accuracy of future year budget estimates. Increases or decreases in the future years must be explained and justified and no cost of living increases will be honored. (Note: new salary cap of $175,700 is effective for all FY 2005 awards.)*]
| First 12-month period | Second 12-month period | Third 12-month period
Personnel:
Project Director | 30,000 | 30,000 | 30,000
Secretary** | 9,000 | 18,000 | 18,000
Counselor | 25,000 | 25,000 | 25,000
Total Personnel | 64,000 | 73,000 | 73,000
Fringe Benefits (24%) | 15,360 | 17,520 | 17,520
Travel | 5,400 | 5,400 | 5,400
Equipment | -0- | -0- | -0-
Supplies*** | 1,000 | 520 | 520
Contractual:
Evaluation**** | 65,355 | 67,969 | 70,688
Training | 40,025 | 40,025 | 40,025
Other | 1,500 | 1,500 | 1,500
Total Direct Costs | 192,640 | 205,934 | 208,653
Indirect Costs (15% S&W) | 9,600 | 9,600 | 9,600
Total Costs | 202,240 | 216,884 | 219,603
*Consistent with the requirement in the Consolidated Appropriations Act, Public Law 108-199.
**Increased from 50% to 100% effort in 02 through 03 budget periods.
***Increased amount in 01 year represents costs for software.
****Increased amounts in 02 and 03 years are reflected of the increase in client data collection.

The Federal dollars requested for all object class categories for the first 12-month budget period are entered on Form 424A, Section B, Column (1), lines 6a-6i. The total Federal dollars requested for the second up to the fifth 12-month budget periods are entered on Form 424A, Section E, Columns (b)-(e), line 20. The RFA will specify the maximum number of years of support that may be requested.

Service-to-Science Grants—STS 05 PA (Initial Announcement)

Catalogue of Federal Domestic Assistance (CFDA) No.: 93.243 (unless otherwise specified in a NOFA in the Federal Register and on http://www.grants.gov)

Key Dates
Application Deadline | This Program Announcement provides instructions and guidelines for multiple funding opportunities. Application deadlines for specific funding opportunities will be published in Notices of Funding Availability (NOFAs) in the Federal Register and on www.grants.gov.
Intergovernmental Review (E.O. 12372) | Letters from State Single Point of Contact (SPOC) are due 60 days after application deadline.
Public Health System Impact Statement (PHSIS)/ Single State Agency Coordination | Applicants must send the PHSIS to appropriate State and local health agencies by application deadline. Comments from Single State Agency are due 60 days after application deadline.

Table of Contents

Funding Opportunity Description

1. Introduction

2. Expectations

II. Award Information

1. Award Amount

2. Funding Mechanism

III. Eligibility Information

1. Eligible Applicants

2. Cost Sharing

3. Other

IV. Application and Submission Information

1. Address to Request Application Package

2. Content and Form of Application Submission

3. Submission Dates and Times

4. Intergovernmental Review (E.O. 12372) Requirements

5. Funding Limitations/Restrictions

6. Other Submission Requirements

V. Application Review Information

1. Evaluation Criteria

2. Review and Selection Process

VI. Award Administration Information

1. Award Notices

2. Administrative and National Policy Requirements

3. Reporting Requirements

VII. Agency Contacts

Appendix A—Checklist for Formatting Requirements and Screenout Criteria for SAMHSA

Grant Applications

Appendix B—Glossary

Appendix C—Logic Model Resources

Appendix D—Sample Budget and Justification

I. Funding Opportunity Description

1. Introduction

The Substance Abuse and Mental Health Services Administration (SAMHSA) announces its intent to solicit applications for Service-to-Science grants. This program announcement must be considered in conjunction with a full Notice of Funding Availability (NOFA), which specifies the grant program's purpose, target population, and other requirements of the program. These grants will document and evaluate innovative practices that address critical substance abuse and mental health service gaps but have not yet been formally evaluated. Applicants who seek to stabilize, document, and evaluate promising practices for mental health and/or substance abuse treatment, prevention, and support services should apply for awards under this announcement.

SAMHSA also funds grants under three other standard grant announcements:

• Services Grants provide funding to implement substance abuse and mental health services.

• Infrastructure Grants support identification and implementation of systems changes but are not designed to fund services.

• Best Practices Planning and Implementation Grants help communities and providers identify practices to effectively meet local needs, develop strategic plans for implementing/adapting those practices and pilot-test practices prior to full-scale implementation.

This announcement describes the general program design and provides application instructions for all SAMHSA Service-to-Science Grants. The availability of funds for specific Service-to-Science Grants will be announced in supplementary Notices of Funding Availability (NOFAs) in the Federal Register and at http://www.grants.gov—the Federal grant announcement web page.

SAMHSA's Service-to-Science Grants are authorized under Section 509, 516 and/or 520A of the Public Health Service Act, unless otherwise specified in a NOFA in the Federal Register and on http://www.grants.gov.

Typically, funding for Service-to-Science Grants will be targeted to specific populations and/or issue areas, which will be specified in the NOFAs. The NOFAs will also:

■ Specify total funding available for the first year of the grants and the expected size and number of awards;

■ Provide the application deadline;

■ Note any specific program requirements for each funding opportunity; and

■ Include any limitations or exceptions to the general provisions in this announcement (e.g., eligibility, award size, allowable activities).

It is, therefore, critical that you consult the NOFA as well as this announcement in developing your grant application.

2. Expectations

While there is a well-established evidence base for many behavioral health practices, critical service gaps exist for which there is no formal evidence base. Stakeholders have developed many innovative practices to fill these gaps, but they may lack the expertise and/or resources to formally document and evaluate their practices. Consequently, it is not clear whether these innovative practices are effective, and they are not disseminated widely. SAMHSA seeks to encourage continued development of evidence-based practices to fill service gaps by documenting and evaluating promising stakeholder-initiated practices. This program will help organizations that have identified promising new practices to evaluate and package those innovations for review and inclusion in the National Registry of Effective Programs and Practices (NREPP) as well as for further research.

2.1 Program Design

SAMHSA will fund Service-to-Science grants in two phases. You may apply for Phase I and II combined or for Phase II alone. Applications for Phase I alone will not be accepted. The program design requirements for Phase I and Phase II are described below. Applicants must, however, consult the NOFA for any program design requirements (e.g., required activities) specific to the funding opportunity.

Phase I provides support for up to 2 years to stabilize and document an existing practice that fills an identified gap. During Phase I, you may:

■ Further develop or refine the promising practice;

■ Develop training and practice manuals;

■ Train persons who are implementing the practice;

■ More systematically implement the practice;

■ Develop measurement instruments; and

■ Ensure that the intended target population (see Glossary) is being reached by the practice.

The desired endpoint of Phase I is readiness to conduct a high-quality, systematic evaluation.

Phase II provides support for 1-3 years to evaluate the success of the practice. The purpose of Phase II is to conduct a high-quality, systematic evaluation to document short-term outcomes and demonstrate that the practice is worthy of an experimental study. On the basis of the evaluation, you may need to further refine the practice and further refine the practice manual. The evaluation may use a pre-post approach, an open trial model, other quasi or non-experimental model, or an experimental model.

The desired endpoint for Phase II is readiness to submit the practice for inclusion in SAMHSA's NREPP and/or to submit applications to various research institutions for additional research.

SAMHSA's Service-to-Science grants will provide support to stabilize practices so that they may be documented and evaluated. However, these grants are not intended to support development of entirely new practices. The practices must be in place and operational for at least one year prior to application, and you must have at least anecdotal evidence that the practice is effective.

You may apply for a combination of Phases I and II in a single grant application if you have identified a priority gap for which a fully developed and documented practice currently does not exist.

■ During Phase I, you will further develop and document the practice.

■ During Phase II, you will evaluate the practice.

At the conclusion of Phase I, SAMHSA staff will review your progress to determine whether Phase II is warranted. This decision will be based on review of the documentation required by the end of Phase I, as described under the Performance Expectations section below. You must provide compelling evidence that the practice has been sufficiently developed and documented to be evaluated and has produced positive results.

For practices that are already fully developed, implemented, stabilized, and documented but that have not yet been formally evaluated, you may apply for Phase II only. Applications for Phase I alone will not be accepted.

Depending on your readiness, you may receive a combination of Phases I and II for a period of up to, but not more than, 5 years. You may apply for a shorter grant period than the maximum, and SAMHSA may award a grant for a shorter time period than you request.

2.2 Establishing Need

Service-to-Science grants are intended to develop solutions to widespread needs. This grant program is not intended to address a local community's need for funds to solve a local problem. Therefore, you must demonstrate that the broader substance abuse and/or mental health field—not just your local community—has a need for the practice. You must also show that no well-documented solution to the problem exists, and that your local community can support an evaluation that will increase the knowledge base of the field.

2.3 Allowable Activities

Phase I: Practice Development and Documentation

In Phase I, you will further develop and document the practice. The types of activities that may be needed and that are allowable include, but are not limited to, the following:

■ Strategic planning.

■ Convening stakeholder meetings.

■ Training of practitioners.

■ Efforts to overcome policy and funding barriers to practice stability.

■ Development of an action plan for systematizing and stabilizing the practice.

■ Development of a practice support system.

■ Developing needed partnerships for ongoing implementation.

■ Logic model development.

■ Documentation of core elements of the practice.

■ Practice manual development.

■ Measurement instrument development/selection.

■ Participant recruitment.

■ Development of quality assurance and accountability mechanisms.

■ Implementation and refinement of the practice.

■ Implementation process evaluation.

■ Management information system development.

■ Collection of pilot outcome data.

Phase II: Practice Evaluation.

During Phase II, SAMHSA will (if necessary) continue to fund implementation of the practice being evaluated. Other types of allowable activities include, but are not limited to, the following:

■ Convening relevant stakeholder meetings.

■ Alignment of management information systems with data collection needs.

■ Training evaluators.

■ Measurement instrument development/selection.

■ Data collection.

■ Database management.

■ Data and cost analysis.

■ Dissemination of results.

■ Refinement of logic model and practice manual based on evaluation results.

2.4 Performance Expectations

All grantees will be expected to meet the following performance requirements by the end of their grant projects.

Phase I

By the end of Phase I, documentation for the practice must include:

■ A logic model depicting the principles and concepts underlying the practice.

■ A manual describing the practice in detail that would allow others to replicate the practice.

■ Documentation of how critical stakeholders were included in the development of the practice.

■ A detailed description of the population that the practice is designed to serve, and demographic characteristics of the people served by the practice over the past year.

■ Documentation that the number of people being served by the practice has been stabilized.

■ Documentation of the number and percentage of staff trained in the practice, and a mechanism for ongoing training for any new staff.

■ A process evaluation demonstrating that the practice is in full operation and that a routine service delivery process is in place.

■ Pilot outcome results. (Note: Collection of these data need not include an extensive set of outcomes systematically collected on all participants, but quantitative project data should provide some indication that key outcomes are being achieved.)

Phase II

By the end of Phase II, the evaluation of the practice must have demonstrated that:

■ Key outcome measures have been clearly identified and defined.

■ Participant data collection systems are in place that include:

○ Demographic characteristics.

○ Practice outcomes.

○ Service utilization.

○ Service delivery costs.

○ Satisfaction with services.

■ Demographic characteristics of participants, as well as the types of services that participants have received, are consistent with expectations based on the logic model for the practice.

■ Service delivery patterns are stable.

■ A fidelity scale has been developed for assessing the integrity of the practice, and the practice has been implemented with fidelity according to the scale.

■ Systematically collected short-term outcome measures indicate meaningful results.

■ Consumers, family members, and other critical stakeholders are satisfied with the practice.

In addition, at the end of Phase II, grantees must:

■ Demonstrate how consumers, family members, and other critical stakeholders participated in the evaluation of the practice.

■ Demonstrate how the practice will be sustained over the 5 years following the end of the grant period.

■ As appropriate, submit the practice to the SAMHSA National Registry of Effective Programs and Practices (NREPP).

■ Demonstrate the willingness of those who initiated the practice to participate in rigorous research over the next 5 years (e.g., through submission of grant applications to the National Institutes of Health, private foundations, or other research funding sources; through formal agreements between practice initiators and researchers; etc.)

2.5 Data and Performance Measurement

The Government Performance and Results Act of 1993 (Pub. L.103-62, or “GPRA”) requires all Federal agencies to set program performance targets and report annually on the degree to which the previous year's targets were met.

Agencies are expected to evaluate their programs regularly and to use results of these evaluations to explain their successes and failures and justify requests for funding.

To meet the GPRA requirements, SAMHSA must collect performance data (i.e., “GPRA data”) from grantees. Grantees are required to report these GPRA data to SAMHSA on a timely basis.

Specifically, grantees will be required to provide data on a set of required measures, as specified in the NOFA. The data collection tools to be used for reporting the required data will be provided in the application kits distributed by SAMHSA's clearinghouses and posted on SAMHSA's website along with each NOFA. In your application, you must demonstrate your ability to collect and report on these measures, and you may be required to provide some baseline data.

The terms and conditions of the grant award also will specify the data to be submitted and the schedule for submission. Grantees will be required to adhere to these terms and conditions of award.

Applicants should be aware that SAMHSA is working to develop a set of required core performance measures for each of SAMHSA's standard grants (i.e., Services Grants, Infrastructure Grants, Best Practices Planning and Implementation Grants, and Service-to-Science Grants). As this effort proceeds, some of the data collection and reporting requirements included in SAMHSA's NOFAs may change. All grantees will be expected to comply with any changes in data collection requirements that occur during the grantee's project period.

2.6 Grantee Meetings

You must plan to send a minimum of two people (including the Project Director) to at least one joint grantee meeting in each year of the grant, and you must include funding for this travel in your budget. At these meetings, grantees will present the results of their projects and Federal staff will provide technical assistance. Each meeting will be 3 days. These meetings will usually be held in the Washington, DC, area and attendance is mandatory.

II. Award Information

1. Award Amount

The NOFA will specify the expected award amount for each funding opportunity. Regardless of the amount specified in the NOFA, the actual award amount will depend on the availability of funds.

You may apply for either a combined Phase I & II grant or for a Phase II only grant.

■ Awards for Phase I of the combined grants are for up to $150,000 (direct and indirect costs) per year for up to 2 years.

■ Awards for Phase II are $300,000-$500,000 (direct and indirect costs) per year for 1-3 years.

■ Awards for combined Phase I and II grants may not exceed 5 years.

Phase II funding will be approved only if you provide compelling evidence that the practice has been sufficiently developed and documented to be evaluated and has produced positive results.

Proposed budgets cannot exceed the allowable amount as specified in the NOFA in any year of the proposed project. Annual continuation awards will depend on the availability of funds, grantee progress in meeting project goals and objectives, and timely submission of required data and reports.

Summary Table:

Phase and activity focus | Years of support | Application requirement | Funding level (direct and indirect costs)
I—Practice Development and Documentation | 0-2 | Optional | Up to $150,000 per year.
II Practice Evaluation | 1-3 | Required | $300,000-$500,000 per year.
Total | 1-5 |  |

2. Funding Mechanism

The NOFA will indicate whether awards for each funding opportunity will be made as grants or cooperative agreements (see the Glossary in Appendix B for further explanation of these funding mechanisms). For cooperative agreements, the NOFA will describe the nature of Federal involvement in project performance and specify roles and responsibilities of grantees and Federal staff.

III. Eligibility Information

1. Eligible Applicants

Eligible applicants are domestic public and private nonprofit entities. For example, State, local or tribal governments; public or private universities and colleges; community- and faith-based organizations; and tribal organizations may apply. The statutory authority for this program precludes grants to for-profit organizations. The NOFA will indicate any limitations on eligibility.

Though not required, SAMHSA encourages community-based providers and independent researchers to partner when applying for Service-to-Science grants. Such partnerships will use the expertise of each partner to ensure sound service delivery, high-quality evaluation, independent results, and relevance of the evaluation design to service delivery outcomes.

2. Cost Sharing

Cost sharing (see Glossary) is not required in this program, and applications will not be screened out on the basis of cost sharing. However, you may include cash or in-kind (see Glossary) contributions in your proposal as evidence of commitment to the proposed project.

3. Other

Applications must comply with the following requirements, or they will be screened out and will not be reviewed: Use of the PHS 5161-1 application; application submission requirements in Section IV-3 of this document; and formatting requirements provided in Section IV-2.3 of this document. Applicants should be aware that the NOFA may include additional requirements that, if not met, will result in applications being screened out and returned without review. These requirements will be specified in Section III-3 of the NOFA.

You also must comply with any additional program requirements specified in the NOFA, such as the required signature of certain officials on the face page of the application and/or required memoranda of understanding with certain signatories.

IV. Application and Submission Information

(To ensure that you have met all submission requirements, a checklist is provided for your use in Appendix A of this document.)

1. Address to Request Application Package

You may request a complete application kit by calling one of SAMHSA's national clearinghouses:

■ For substance abuse prevention or treatment grants, call the National Clearinghouse for Alcohol and Drug Information (NCADI) at 1-800-729-6686.

■ For mental health grants, call the National Mental Health Information Center at 1-800-789-CMHS (2647).

You also may download the required documents from the SAMHSA Web site at http://www.samhsa.gov. Click on “Grant Opportunities.”

Additional materials available on this web site include:

■ A technical assistance manual for potential applicants;

■ Standard terms and conditions for SAMHSA grants;

■ Guidelines and policies that relate to SAMHSA grants (e.g., Guidelines on cultural competence, consumer and family participation, and evaluation); and

■ Enhanced instructions for completing the PHS 5161-1 application.

2. Content and Form of Application Submission

2.1 Application Kit

SAMHSA application kits include the following documents:

■ PHS 5161-1 (revised July 2000)—Includes the face page, budget forms, assurances, certification, and checklist. You must use the PHS 5161-1 unless otherwise specified in the NOFA. Applications that are not submitted on the required application form will be screened out and will not be reviewed.

■ Program Announcement (PA)—Includes instructions for the grant application. This document is the PA.

■ Notice of Funding Availability (NOFA)—Provides specific information about availability of funds, as well as any exceptions or limitations to provisions in the PA. The NOFAs will be published in the Federal Register as well as on the Federal grants Web site (http://www.grants.gov). It is very important that you read the entire NOFA before beginning to write your application.

You must use all of the above documents in completing your application.

2.2 Required Application Components

To ensure equitable treatment of all applications, applications must be complete. In order for your application to be complete, it must include the required ten application components (Face Page, Abstract, Table of Contents, Budget Form, Project Narrative and Supporting Documentation, Appendices, Assurances, Certifications, Disclosure of Lobbying Activities, and Checklist).

☐ Face Page—Use Standard Form (SF) 424, which is part of the PHS 5161-1. [Note: Beginning October 1, 2003, applicants will need to provide a Dun and Bradstreet (DUNS) number to apply for a grant or cooperative agreement from the Federal Government. SAMHSA applicants will be required to provide their DUNS number on the face page of the application. Obtaining a DUNS number is easy and there is no charge. To obtain a DUNS number, access the Dun and Bradstreet Web site at http://www.dunandbradstreet.com or call 1-866-705-5711. To expedite the process, let Dun and Bradstreet know that you are a public/private nonprofit organization getting ready to submit a Federal grant application.]

☐ Abstract—Your total abstract should be no longer than 35 lines. In the first five lines or less of your abstract, write a summary of your project that can be used, if your project is funded, in publications, reporting to Congress, or press releases.

☐ Table of Contents—Include page numbers for each of the major sections of your application and for each appendix.

☐ Budget Form—Use SF 424A, which is part of the PHS 5161-1. Fill out Sections B, C, and E of the SF 424A. A sample budget and justification is included in Appendix D of this Program Announcement.

☐ Project Narrative and Supporting Documentation—The Project Narrative describes your project. It consists of Sections A through D. These sections in total may be no longer than 25 pages. (For example, remember that if your Project Narrative starts on page 5 and ends on page 30, it is 26 pages long, not 25 pages.) More detailed instructions for completing each section of the Project Narrative are provided in “Section V—Application Review Information” of this document.

The Supporting Documentation provides additional information necessary for the review of your application. This supporting documentation should be provided immediately following your Project Narrative in Sections E through H. There are no page limits for these sections, except for Section G, the Biographical Sketches/Job Descriptions.

▪ Section E—Literature Citations. This section must contain complete citations, including titles and all authors, for any literature you cite in your application.

▪ Section F—Budget Justification, Existing Resources, Other Support. You must provide a narrative justification of the items included in your proposed budget, as well as a description of existing resources and other support you expect to receive for the proposed project.

▪ Section G—Biographical Sketches and Job Descriptions.

○ Include a biographical sketch for the Project Director and other key positions. Each sketch should be 2 pages or less. If the person has not been hired, include a position description/and or a letter of commitment with a current biographical sketch from the individual.

○ Include job descriptions for key personnel. Job descriptions should be no longer than 1 page each.

○ Sample sketches and job descriptions are listed on page 22, Item 6 in the Program Narrative section of the PHS 5161-1.

▪ Section H—Confidentiality and SAMHSA Participant Protection/Human Subjects. Section IV-2.4 of this document describes requirements for the protection of the confidentiality, rights and safety of participants in SAMHSA-funded activities. This section also includes guidelines for completing this part of your application.

☐ Appendices 1 through 5—Use only the appendices listed below. If your application includes any appendices not required in the grant announcement or NOFA, they will be disregarded. Do not use more than a total of 30 pages for Appendices 1, 4, and 5 combined. There are no page limitations for Appendices 2 and 3. Do not use appendices to extend or replace any of the sections of the Project Narrative unless specifically required in the NOFA. Reviewers will not consider them if you do.

■ Appendix 1: Letters of Support.

■ Appendix 2: Documentation of the Practice (Phase II only applicants)

■ Appendix 3: Data Collection Instruments/Interview Protocols

■ Appendix 4: Sample Consent Forms

■ Appendix 5: Letter to the SSA (if applicable; see Section IV-4 of this ocument)

☐ Assurances—Non-Construction Programs. Use Standard Form 424B found in PHS 5161-1. Some applicants will be required to complete the Assurance of Compliance with SAMHSA Charitable Choice Statutes and Regulations Form SMA 170. If this assurance applies to a specific funding opportunity, it will be posted on SAMHSA's web site with the NOFA and provided in the application kits available at SAMHSA's clearinghouse (NCADI).

☐ Certifications—Use the “Certifications” forms found in PHS 5161-1.

☐ Disclosure of Lobbying Activities—Use form SF LLL found in the PHS 5161-1. Federal law prohibits the use of appropriated funds for publicity or propaganda purposes, or for the preparation, distribution, or use of the information designed to support or defeat legislation pending before the Congress or State legislatures. This includes “grass roots” lobbying, which consists of appeals to members of the public suggesting that they contact their elected representatives to indicate their support for or opposition to pending legislation or to urge those representatives to vote in a particular way.

☐ Checklist—Use the Checklist found in PHS 5161-1. The Checklist ensures that you have obtained the proper signatures, assurances and certifications and is the last page of your application.

2.3 Application Formatting Requirements

Applicants also must comply with the following basic application requirements. Applications that do not comply with these requirements will be screened out and will not be reviewed.

☐ Information provided must be sufficient for review.

☐ Text must be legible.

• Type size in the Project Narrative cannot exceed an average of 15 characters per inch, as measured on the physical page. (Type size in charts, tables, graphs, and footnotes will not be considered in determining compliance.)

• Text in the Project Narrative cannot exceed 6 lines per vertical inch.

☐ Paper must be white paper and 8.5 inches by 11.0 inches in size.

❑ To ensure equity among applications, the amount of space allowed for the Project Narrative cannot be exceeded.

• Applications would meet this requirement by using all margins (left, right, top, bottom) of at least one inch each, and adhering to the 25-page limit for the Project Narrative.

• Should an application not conform to these margin or page limits, SAMHSA will use the following method to determine compliance: The total area of the Project Narrative (excluding margins, but including charts, tables, graphs and footnotes) cannot exceed 58.5 square inches multiplied by 25. This number represents the full page less margins, multiplied by the total number of allowed pages.

• Space will be measured on the physical page. Space left blank within the Project Narrative (excluding margins) is considered part of the Project Narrative, in determining compliance.

To facilitate review of your application, follow these additional guidelines. Failure to adhere to the following guidelines will not, in itself, result in your application being screened out and returned without review. However, following these guidelines will help reviewers to consider your application.

❑ Pages should be typed single-spaced in black ink, with one column per page. Pages should not have printing on both sides.

❑ Please number pages consecutively from beginning to end so that information can be located easily during review of the application. The cover page should be page 1, the abstract page should be page 2, and the table of contents page should be page 3. Appendices should be labeled and separated from the Project Narrative and budget section, and the pages should be numbered to continue the sequence.

❑ The page limit of a total of 30 pages for Appendices 1, 4 and 5 combined should not be exceeded.

❑ Send the original application and two copies to the mailing address in Section IV-6.1 of this document. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

2.4 Confidentiality and Human Subjects Protection

Applicants must describe procedures relating to Confidentiality and the Protection of Human Subjects Regulations in Section H of the application, using the guidelines provided below. Problems with confidentiality and protection of human subjects identified during peer review of the application may result in the delay of funding.

Confidentiality and Participant Protection

All applicants must describe how they will address the requirements for each of the following elements relating to confidentiality and participant protection.

1. Protect Clients and Staff from Potential Risks:

■ Identify and describe any foreseeable physical, medical, psychological, social, and legal risks or potential adverse effects as a result of the project itself or any data collection activity.

■ Describe the procedures you will follow to minimize or protect participants against potential risks, including risks to confidentiality.

■ Identify plans to provide guidance and assistance in the event there are adverse effects to participants.

■ Where appropriate, describe alternative treatments and procedures that may be beneficial to the participants. If you choose not to use these other beneficial treatments, provide the reasons for not using them.

2. Fair Selection of Participants:

■ Describe the target population(s) for the proposed project. Include age, gender, and racial/ethnic background and note if the population includes homeless youth, foster children, children of substance abusers, pregnant women, or other targeted groups.

■ Explain the reasons for including groups of pregnant women, children, people with mental disabilities, people in institutions, prisoners, and individuals who are likely to be particularly vulnerable to HIV/AIDS.

■ Explain the reasons for including or excluding participants.

■ Explain how you will recruit and select participants. Identify who will select participants.

3. Absence of Coercion:

■ Explain if participation in the project is voluntary or required. Identify possible reasons why participation is required, for example, court orders requiring people to participate in a program.

■ If you plan to compensate participants, state how participants will be awarded incentives (e.g., money, gifts, etc.).

■ State how volunteer participants will be told that they may receive services intervention even if they do not participate in or complete the data collection component of the project.

4. Data Collection:

■ Identify from whom you will collect data (e.g., from participants themselves, family members, teachers, others). Describe the data collection procedures and specify the sources for obtaining data (e.g., school records, interviews, psychological assessments, questionnaires, observation, or other sources). Where data are to be collected through observational techniques, questionnaires, interviews, or other direct means, describe the data collection setting.

■ Identify what type of specimens (e.g., urine, blood) will be used, if any. State if the material will be used just for evaluation or if other use(s) will be made. Also, if needed, describe how the material will be monitored to ensure the safety of participants.

■ Provide in Appendix 3: Data Collection Instruments/Interview Protocols, copies of all available data collection instruments and interview protocols that you plan to use.

5. Privacy and Confidentiality:

■ Explain how you will ensure privacy and confidentiality. Include who will collect data and how it will be collected.

■ Describe:

○ How you will use data collection instruments.

○ Where data will be stored.

○ Who will or will not have access to information.

○ How the identity of participants will be kept private, for example, through the use of a coding system on data records, limiting access to records, or storing identifiers separately from data.

Note: If applicable, grantees must agree to maintain the confidentiality of alcohol and drug abuse client records according to the provisions of Title 42 of the Code of Federal Regulations, Part 2.

6. Adequate Consent Procedures:

■ List what information will be given to people who participate in the project. Include the type and purpose of their participation. Identify the data that will be collected, how the data will be used, and how you will keep the data private.

■ State:

○ Whether or not their participation is voluntary.

○ Their right to leave the project at any time without problems.

○ Possible risks from participation in the project.

○ Plans to protect clients from these risks.

■ Explain how you will get consent for youth, the elderly, people with limited reading skills, and people who do not use English as their first language.

Note: If the project poses potential physical, medical, psychological, legal, social or other risks, you must obtain written informed consent.

■ Indicate if you will obtain informed consent from participants or assent from minors along with consent from their parents or legal guardians. Describe how the consent will be documented. For example: Will you read the consent forms? Will you ask prospective participants questions to be sure they understand the forms? Will you give them copies of what they sign?

■ Include, as appropriate, sample consent forms that provide for: (1) Informed consent for participation in service intervention; (2) informed consent for participation in the data collection component of the project; and (3) informed consent for the exchange (releasing or requesting) of confidential information. The sample forms must be included in Appendix 4, “Sample Consent Forms”, of your application. If needed, give English translations.

Note: Never imply that the participant waives or appears to waive any legal rights, may not end involvement with the project, or releases your project or its agents from liability for negligence.

■ Describe if separate consents will be obtained for different stages or parts of the project. For example, will they be needed for both participant protection in treatment intervention and for the collection and use of data?

■ Additionally, if other consents (e.g., consents to release information to others or gather information from others) will be used in your project, provide a description of the consents. Will individuals who do not consent to having individually identifiable data collected for evaluation purposes be allowed to participate in the project?

7. Risk/Benefit Discussion:

Discuss why the risks are reasonable compared to expected benefits and importance of the knowledge from the project.

Protection of Human Subjects Regulations

All applicants for Service-to-Science grants must comply with the Protection of Human Subjects Regulations (45 CFR part 46).

Applicants must describe the process for obtaining Institutional Review Board (IRB) approval fully in their applications. While IRB approval is not required at the time of grant award, you will be required, as a condition of award, to provide the documentation that an Assurance of Compliance is on file with the Office for Human Research Protections (OHRP) and that IRB approval has been received prior to enrolling any participants in the proposed project.

General information about Protection of Human Subjects Regulations can be obtained on the web at http://www.hhs.gov/ohrp. You may also contact OHRP by e-mail (ohrp@osophs.dhhs.gov) or by phone (301-496-7005). SAMHSA-specific questions related to Protection of Human Subjects Regulations should be directed to the program contact listed in Section VII of the NOFA.

3. Submission Dates and Times

Deadlines for submission of applications for specific funding opportunities will be published in the NOFAs in the Federal Register and posted on the Federal grants web site (www.grants.gov).

Hand carried applications will not be accepted. Applications may be shipped using only DHL, Falcon Carrier, Federal Express (FedEx), United Parcel Service (UPS), or the United States Postal Service (USPS).

Your application must be received by the application deadline, or you must have proof of its timely submission as specified below.

• For packages submitted via DHL, Falcon Carrier, Federal Express (FedEx), or United Parcel Service (UPS), timely submission shall be evidenced by a delivery service receipt indicating the application was delivered to a carrier service at least 24 hours prior to the application deadline.

• For packages submitted via the United States Postal Service (USPS), proof of timely submission shall be a postmark not later than 1 week prior to the application deadline, and the following upon request by SAMHSA:

○ Proof of mailing using USPS Form 3817 (Certificate of Mailing), or

○ A receipt from the Post Office containing the post office name, location, and date and time of mailing.

You will be notified by postal mail that your application has been received.

Applications not meeting the timely submission requirements above will not be considered for review. Please remember that mail sent to Federal facilities undergoes a security screening prior to delivery. Allow sufficient time for your package to be delivered.

If an application is mailed to a location or office (including room number) that is not designated for receipt of the application, and that results in the designated office not receiving your application in accordance with the requirements for timely submission, it will cause the application to be considered late and ineligible for review.

SAMHSA will not accept or consider any applications sent by facsimile.

SAMHSA is collaborating with http://www.grants.gov to accept electronic submission of applications only for select funding opportunities. Unless specifically indicated in the NOFA, electronic submission of applications will not be accepted.

4. Intergovernmental Review (E.O. 12372) Requirements

Executive Order 12372, as implemented through Department of Health and Human Services (DHHS) regulation at 45 CFR Part 100, sets up a system for State and local review of applications for Federal financial assistance. A current listing of State Single Points of Contact (SPOCs) is included in the application kit and can be downloaded from the Office of Management and Budget (OMB) Web site at http://www.whitehouse.gov/omb/grants/spoc.html.

■ Check the list to determine whether your State participates in this program. You do not need to do this if you are a federally recognized Indian tribal government.

■ If your State participates, contact your SPOC as early as possible to alert him/her to the prospective application(s) and to receive any necessary instructions on the State's review process.

■ For proposed projects serving more than one State, you are advised to contact the SPOC of each affiliated State.

■ The SPOC should send any State review process recommendations to the following address within 60 days of the application deadline:

For United States Postal Service: Crystal Saunders, Director of Grant Review, Office of Program Services, Substance Abuse and Mental Health Services Administration, Room 3-1044, 1 Choke Cherry Road, Rockville, MD 20850, ATTN: SPOC “ Funding Announcement No. [fill in pertinent funding opportunity number from NOFA].

For other delivery service: Crystal Saunders, Director of Grant Review, Office of Program Services, Substance Abuse and Mental Health Services Administration, Room 3-1044, 1 Choke Cherry Road, Rockville, MD 20850, ATTN: SPOC—Funding Announcement No. [fill in pertinent funding opportunity number from NOFA].

In addition, community-based, non-governmental service providers who are not transmitting their applications through the State must submit a Public Health System Impact Statement (PHSIS) (approved by OMB under control no. 0920-0428; see burden statement below) to the head(s) of appropriate State or local health agencies in the area(s) to be affected no later than the pertinent receipt date for applications. The PHSIS is intended to keep State and local health officials informed of proposed health services grant applications submitted by community-based, non-governmental organizations within their jurisdictions. State and local governments and Indian tribal government applicants are not subject to these requirements.

The PHSIS consists of the following information:

■ A copy of the face page of the application (SF 424); and

■ A summary of the project, no longer than one page in length, that provides: (1) A description of the population to be served, (2) a summary of the services to be provided, and (3) a description of the coordination planned with appropriate State or local health agencies.

For SAMHSA grants, the appropriate State agencies are the Single State Agencies (SSAs) for substance abuse and mental health. A listing of the SSAs can be found on SAMHSA's Web site at http://www.samhsa.gov. If the proposed project falls within the jurisdiction of more than one State, you should notify all representative SSAs.

Applicants who are not the SSA must include a copy of a letter transmitting the PHSIS to the SSA in Appendix 4, “Letter to the SSA.” The letter must notify the State that, if it wishes to comment on the proposal, its comments should be sent not later than 60 days after the application deadline to:

For United States Postal Service: Crystal Saunders, Director of Grant Review, Office of Program Services, Substance Abuse and Mental Health Services Administration, Room 3-1044, 1 Choke Cherry Road, Rockville, MD 20857, ATTN: SSA—Funding Announcement No. [fill in pertinent funding opportunity number from NOFA].

For other delivery service: Crystal Saunders, Director of Grant Review, Office of Program Services, Substance Abuse and Mental Health Services Administration, Room 3-1044, 1 Choke Cherry Road, Rockville, MD 20850, ATTN: SSA—Funding Announcement No. [fill in pertinent funding opportunity number from NOFA].

In addition:

■ Applicants may request that the SSA send them a copy of any State comments.

■ The applicant must notify the SSA within 30 days of receipt of an award.

[Public reporting burden for the Public Health System Reporting Requirement is estimated to average 10 minutes per response, including the time for copying the face page of SF 424 and the abstract and preparing the letter for mailing. An agency may not conduct or sponsor, and a person is not required to respond to, a collection of information unless it displays a currently valid OMB control number. The OMB control number for this project is 0920-0428. Send comments regarding this burden to CDC Clearance Officer, 1600 Clifton Road, MS D-24, Atlanta, GA 30333, ATTN: PRA (0920-0428).]

5. Funding Limitations/Restrictions

Cost principles describing allowable and unallowable expenditures for Federal grantees, including SAMHSA grantees, are provided in the following documents:

■ Institutions of Higher Education: OMB Circular A-21.

■ State and Local Governments: OMB Circular A-87.

■ Nonprofit Organizations: OMB Circular A-122.

■ Appendix E Hospitals: 45 CFR Part 74.

In addition, SAMHSA Service-to-Science grant funds may not be used to:

■ Pay for any lease beyond the project period.

■ Provide services to incarcerated populations (defined as those persons in jail, prison, detention facilities, or in custody where they are not free to move about in the community).

■ Pay for the purchase or construction of any building or structure to house any part of the program. (Applicants may request up to $75,000 for renovations and alterations of existing facilities, if necessary and appropriate to the project.)

■ Provide residential or outpatient treatment services when the facility has not yet been acquired, sited, approved, and met all requirements for human habitation and services provision. (Expansion or enhancement of existing residential services is permissible.)

■ Pay for housing other than residential mental health and/or substance abuse treatment.

■ Provide inpatient treatment or hospital-based detoxification services. Residential services are not considered to be inpatient or hospital-based services.

■ Pay for incentives to induce clients to enter treatment. However, a grantee or treatment provider may provide up to $20 or equivalent (coupons, bus tokens, gifts, childcare, and vouchers) to clients as incentives to participate in required data collection follow-up. This amount may be paid for participation in each required interview.

■ Implement syringe exchange programs, such as the purchase and distribution of syringes and/or needles.

■ Pay for pharmacologies for HIV antiretroviral therapy, sexually transmitted diseases (STDs)/sexually transmitted illnesses (STI), TB, and hepatitis B and C, or for psychotropic drugs.

■ SAMHSA will not accept a “research” indirect cost rate. The grantee must use the “other sponsored program rate” or the lowest rate available.

6. Other Submission Requirements

6.1 Where To Send Applications

Send applications to the following address:

For United States Postal Service: Crystal Saunders, Director of Grant Review, Office of Program Services, Substance Abuse and Mental Health Services Administration, Room 3-1044, 1 Choke Cherry Road, Rockville, MD 20857.

For other delivery service: Crystal Saunders, Director of Grant Review, Office of Program Services, Substance Abuse and Mental Health Services Administration, Room 3-1044, 1 Choke Cherry Road, Rockville, MD 20850.

Do not send applications to other agency contacts, as this could delay receipt. Be sure to include the funding announcement number from the NOFA in item number 10 on the face page of the application. If you require a phone number for delivery, you may use (240) 276-1199.

6.2 How To Send Applications

Mail or deliver an original application and 2 copies (including appendices) to the mailing address provided above, according to the instructions in Section IV-3. The original and copies must not be bound. Do not use staples, paper clips, or fasteners. Nothing should be attached, stapled, folded, or pasted.

Hand carried applications will not be accepted. Applications may be shipped using only DHL, Falcon Carrier, Federal Express (FedEx), United Parcel Service (UPS), or the United States Postal Service (USPS).

SAMHSA will not accept or consider any applications sent by facsimile.

Unless specifically indicated in the NOFA, electronic submission of applications will not be accepted.

V. Application Review Information

1. Evaluation Criteria

Your application will be reviewed and scored according to the quality of your response to the requirements listed below for developing the Project Narrative (Sections A-D). These sections describe what you intend to do with your project.

■ In developing the Project Narrative section of your application, use these instructions along with any additional instructions found in the NOFA. These are to be used instead of the “Program Narrative” instructions found in the PHS 5161-1.

■ You must use the four sections/headings listed below in developing your Project Narrative. Be sure to place the required information in the correct section, or it will not be considered. Your application will be scored according to how well you address the requirements for each section.

■ Reviewers will be looking for evidence of cultural competence in each section of the Project Narrative. Points will be assigned based on how well you address the cultural competence aspects of the evaluation criteria. SAMHSA's guidelines for cultural competence can be found on the SAMHSA web site at www.samhsa.gov. Click on “Grant Opportunities.”

■ The Supporting Documentation you provide in Sections E-H and Appendices 1 through 5 will be considered by reviewers in assessing your response, along with the material in the Project Narrative.

■ The number of points after each heading below is the maximum number of points a review committee may assign to that section of your Project Narrative. Bullet statements in each section do not have points assigned to them. They are provided to invite the attention of applicants and reviewers to important areas within each section.

Section A: Statement of Need (15 Points)

■ Describe the problem the project will address. Describe the national significance of the problem. Documentation of need may come from a variety of qualitative and quantitative sources in the professional literature. The quantitative data could also come from national data available regarding mental health and substance use needs, gaps, and priorities. For example:

○ Applications focusing on substance abuse might draw from SAMHSA's National Household Survey on Drug Use and Health (NHSDUH); Drug Abuse Warning Network (DAWN); and Drug and Alcohol Services Information System (DASIS), which includes the Treatment Episode Data Set (TEDS).

○ Applications focusing on mental health might draw on data available from the National Association of State Mental Health Program Directors (NASMHPD), SAMHSA (http://www.samhsa.gov/cmhs/MentalHealthStatistics), or other sources.

Qualitative sources may also include conclusions of conferences and events of national significance.

■ Describe the target population for the practice, including demographic information. Be sure to check the NOFA for any specific requirements regarding the target population and catchment area. Discuss the target population's language, beliefs, norms and values, as well as socioeconomic factors that must be considered in delivering programs to this population.

■ Review the literature that demonstrates a need to develop or adapt an effective practice for the target population. Demonstrate through the literature review that current evidence-based approaches to the problem do not exist or have not been evaluated for the specific target populations, or that approaches of greater clinical or cost effectiveness are needed.

■ Demonstrate that the need in the community in which the project will be carried out is of sufficient magnitude that an adequate evaluation of the practice can be conducted. To the extent possible, use locally generated data or State data such as that available through State needs assessments.

■ Check the NOFA for any additional requirements.

Section B: Proposed Approach (30 Points)

■ Describe the practice proposed for evaluation. Document that the practice has been in place and operational for at least one year prior to the application due date.

■ Describe how the proposed practice will respond to the needs described in Section A of your Project Narrative and is consistent with the program purpose described in the NOFA. Address any and all program requirements specified in the NOFA.

■ Discuss the potential effectiveness of the practice proposed for evaluation. Why has this practice been selected? Present the theoretical underpinnings, core principles, and major assumptions of the proposed practice. Outline the key operational elements of the practice and summarize any relevant literature.

■ Identify any necessary collaborators on the project, including their roles and responsibilities. Demonstrate their commitment to the project. Include letters of support in Appendix 1: Letters of Support. Identify any cash or in-kind contributions that will be made to the project by the applicant or other partnering organizations.

■ Describe your experience with similar collaborative projects, and explain why you believe you will be able to sustain this collaboration throughout the project period.

■ If applying for combined Phase I and II, describe the extent to which the practice has been previously developed, implemented, stabilized, and documented. Include a description of the extent to which the support system needed for full implementation of the proposed practice is in place—e.g., community collaboration and consensus building; alignment of management information systems, policies, and funding mechanisms; documentation of core elements of the practice; reliable recruitment and intake procedures; quality assurance and accountability mechanisms; training and overall readiness of those implementing the practice; and involvement of families and consumers in the project.

■ If applying for Phase II only, show that the practice is ready for systematic evaluation by providing documentation, in Appendix 2, that includes all of the following:

○ A logic model depicting the principles and concepts underlying the practice.

○ A copy of the Title Page and Table of Contents for a manual describing the practice in detail that would allow others to replicate the practice, and details on how the manual can be acquired.

○ Documentation of how critical stakeholders were included in the development of the practice.

○ A detailed description of the population that the practice is designed to serve, and demographic characteristics of the people served by the practice over the past year.

○ Demonstration of stability in the number of people being served by the practice.

○ Documentation that staff are trained in the practice (via the number and percentage of staff trained), and a mechanism for ongoing training for any new staff.

○ Evidence demonstrating that the practice is in full operation and that a routine service delivery process is in place.

○ Pilot outcome results. (Note: Collection of these data need not include an extensive set of outcomes systematically collected on all participants, but quantitative project data should provide some indication that key outcomes are being achieved.)

■ Present the goals and measurable objectives of the project. Describe why the practice can better be evaluated for effectiveness following completion of the grant activities. For applications that include Phase I, include in your description how achievement of your goals will fulfill the Performance Expectations cited in Section I-2 of this document.

■ Describe the action steps to accomplish the goals and objectives. Demonstrate that the action steps will lead to successful accomplishment of the goals and objectives.

■ Describe the potential barriers to successful conduct of the proposed project and how you will overcome them.

■ Describe how the proposed project will address issues of age, race/ethnicity, culture, language, sexual orientation, disability, literacy, and gender in the target population.

■ Check the NOFA for any additional requirements.

Section C: Evaluation Design and Analysis (40 Points)

■ Describe in detail your evaluation design for determining the effectiveness of the practice. For applications that include Phase I, describe your process evaluation to determine that the practice is in full operation, as well as how you will track the number and percentage of staff fully trained in the practice.

■ Describe the process and outcome evaluation protocols you intend to use. Include in Appendix 3 evaluation instruments to be used. Describe any literature or pilot testing done to verify the validity and reliability of the instruments to be used or how you plan to develop the instruments during the grant period.

■ Discuss the reliability and validity of evaluation methods and instrument(s) in terms of the gender/age/culture of the target population.

■ Describe how you will develop and manage a database management system to record participant demographic characteristics, practice outcomes, service utilization, practice costs, and satisfaction of stakeholders with the practice.

■ Describe how the integrity of the practice will be assessed using a fidelity (see Glossary) scale. If no fidelity scale currently exists for the practice, describe the process by which you will develop one during the grant period. Describe how you will document and assess changes to the model that occur throughout the project.

■ Document your ability to collect and report on the required performance measures as specified in the NOFA, including data required by SAMHSA to meet GPRA requirements. Specify and justify any additional measures you plan to use for your grant project.

■ Describe how you will analyze the data collected. Include any analyses that will be done to determine the effectiveness of the practice for diverse subgroups, as well as the satisfaction of various stakeholder groups with the practice.

■ Describe how your process evaluation will document the role of critical stakeholders in the development and/or evaluation of the practice.

■ Check the NOFA for any additional requirements.

Section D: Management Plan and Staffing (15 Points)

■ Provide a realistic time line for the project (chart or graph) showing key activities, milestones, and responsible staff. [Note: The time line should be part of the Project Narrative. It should not be placed in an appendix.]

■ Discuss the capability and experience of the applicant organization and other participating organizations with similar projects and populations, including experience in providing culturally appropriate/competent services.

■ Provide a list of staff members who will conduct the project, showing the role of each and their level of effort and qualifications. Include the Project Director and other key personnel, such as evaluators and database management personnel.

■ Describe the racial/ethnic characteristics of key staff and indicate if any are members of the target population/community. If the target population is multi-linguistic, indicate if the staffing pattern includes bilingual and bicultural individuals.

■ If you plan to include an advisory body in your project, describe its membership, roles and functions, and frequency of meetings.

■ Describe the resources available for the proposed project (e.g., facilities, equipment), and provide evidence that resources are adequate for conducting a high-quality evaluation of the identified practice.

■ Check the NOFA for any additional requirements.

Note: Although the budget for the proposed project is not a review criterion, the review group will be asked to comment on the appropriateness of the budget after the merits of the application have been considered.

2. Review and Selection Process

SAMHSA applications are peer-reviewed according to the review criteria listed above. For those programs where the individual award is over $100,000, applications must also be reviewed by the appropriate National Advisory Council.

Decisions to fund a grant are based on:

■ The strengths and weaknesses of the application as identified by the peer review committee and approved by the appropriate National Advisory Council;

■ Availability of funds; and

■ After applying the aforementioned criteria, the following method for breaking ties: When funds are not available to fund all applications with identical scores, SAMHSA will make award decisions based on the application(s) that received the greatest number of points by peer reviewers on the evaluation criterion in Section V-1 with the highest number of possible points (Evaluation Design and Analysis—40 points). Should a tie still exist, the evaluation criterion with the next highest possible point value will be used, continuing sequentially to the evaluation criterion with the lowest possible point value, should that be necessary to break all ties. If an evaluation criterion to be used for this purpose has the same number of possible points as another evaluation criterion, the criterion listed first in Section V-1 will be used first.

VI. Award Administration Information

1. Award Notices

After your application has been reviewed, you will receive a letter from SAMHSA through postal mail that describes the general results of the review, including the score that your application received.

If you are approved for funding, you will receive an additional notice, the Notice of Grant Award, signed by SAMHSA's Grants Management Officer. The Notice of Grant Award is the sole obligating document that allows the grantee to receive Federal funding for work on the grant project. It is sent by postal mail and is addressed to the contact person listed on the face page of the application.

If you are not funded, you can re-apply if there is another receipt date for the program.

2. Administrative and National Policy Requirements

■ You must comply with terms and conditions of the grant award. Standard SAMHSA terms and conditions are available on SAMHSA's Web site at http://www.samhsa.gov/grants/generalinfo/useful_info.aspx.

■ Depending on the nature of the specific funding opportunity and/or the proposed project as identified during review, additional terms and conditions may be identified in the NOFA or negotiated with the grantee prior to grant award. These may include, for example:

○ Actions required to be in compliance with human subjects requirements;

○ Requirements relating to additional data collection and reporting;

○ Requirements relating to participation in a cross-site evaluation; or

○ Requirements to address problems identified in review of the application.

■ You will be held accountable for the information provided in the application relating to performance targets. SAMHSA program officials will consider your progress in meeting goals and objectives, as well as your failures and strategies for overcoming them, when making an annual recommendation to continue the grant and the amount of any continuation award. Failure to meet stated goals and objectives may result in suspension or termination of the grant award, or in reduction or withholding of continuation awards.

■ In an effort to improve access to funding opportunities for applicants, SAMHSA is participating in the U.S. Department of Health and Human Services “Survey on Ensuring Equal Opportunity for Applicants.” This survey is included in the application kit for SAMHSA grants. Applicants are encouraged to complete the survey and return it, using the instructions provided on the survey form.

3. Reporting Requirements

3.1 Progress and Financial Reports

■ Grantees must provide annual and final progress reports. The final progress report must summarize information from the annual reports, describe the accomplishments of the project, and describe next steps for implementing plans developed during the grant period.

■ Grantees must provide annual and final financial status reports. These reports may be included as separate sections of annual and final progress reports or can be separate documents. Because SAMHSA is extremely interested in ensuring that treatment or prevention service efforts are sustained, your financial reports should explain plans to ensure the sustainability (see Glossary) of efforts initiated under this grant. Initial plans for sustainability should be described in year 1 of the grant. In each subsequent year, you should describe the status of the project, successes achieved and obstacles encountered in that year.

■ SAMHSA will provide guidelines and requirements for these reports to grantees at the time of award and at the initial grantee orientation meeting after award. SAMHSA staff will use the information contained in the reports to determine the grantee's progress toward meeting its goals.

3.2 Government Performance and Results Act (GPRA)

The Government Performance and Results Act (GPRA) mandates accountability and performance-based management by Federal agencies. To meet the GPRA requirements, SAMHSA must collect performance data (i.e., “GPRA data”) from grantees. These requirements will be specified in the NOFA for each funding opportunity.

3.3 Publications

If you are funded under this grant program, you are required to notify the Government Project Officer (GPO) and SAMHSA's Publications Clearance Officer (240-276-2130) of any materials based on the SAMHSA-funded project that are accepted for publication.

In addition, SAMHSA requests that grantees:

■ Provide the GPO and SAMHSA Publications Clearance Officer with advance copies of publications.

■ Include acknowledgment of the SAMHSA grant program as the source of funding for the project.

■ Include a disclaimer stating that the views and opinions contained in the publication do not necessarily reflect those of SAMHSA or the U.S. Department of Health and Human Services, and should not be construed as such.

SAMHSA reserves the right to issue a press release about any publication deemed by SAMHSA to contain information of program or policy significance to the substance abuse treatment/substance abuse prevention/mental health services community.

VII. Agency Contacts

The NOFAs provide contact information for questions about program issues.

For questions on grants management issues, contact: Kimberly Pendleton, Office of Program Services, Division of Grants Management, Substance Abuse and Mental Health Services Administration, 1 Choke Cherry Road, Room 7-1097, Rockville, Maryland 20857, (240) 276-1421, kimberly.pendleton@samhsa.hhs.gov.

Appendix A—Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review. In addition to these formatting requirements, programmatic requirements (e.g., relating to eligibility) may be stated in the specific NOFA and in Section III of the standard grant announcement. Please check the entire NOFA and Section III of the standard grant announcement before preparing your application.

☐ Use the PHS 5161-1 application.

☐ Applications must be received by the application deadline or have proof of timely submission, as detailed in Section IV-3 of the grant announcement.

☐ Information provided must be sufficient for review.

☐ Text must be legible.

• Type size in the Project Narrative cannot exceed an average of 15 characters per inch, as measured on the physical page. (Type size in charts, tables, graphs, and footnotes will not be considered in determining compliance.)

• Text in the Project Narrative cannot exceed 6 lines per vertical inch.

☐ Paper must be white paper and 8.5 inches by 11.0 inches in size.

☐ To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

To facilitate review of your application, follow these additional guidelines. Failure to adhere to the following guidelines will not, in itself, result in your application being screened out and returned without review. However, the information provided in your application must be sufficient for review. Following these guidelines will help ensure your application is complete, and will help reviewers to consider your application.

☐ The 10 application components required for SAMHSA applications should be included. These are:

• Face Page (Standard Form 424, which is in PHS 5161-1).

• Abstract.

• Table of Contents.

• Budget Form (Standard Form 424A, which is in PHS 5161-1).

• Project Narrative and Supporting Documentation.

• Appendices.

• Assurances (Standard Form 424B, which is in PHS 5161-1).

• Certifications (a form within PHS 5161-1).

• Disclosure of Lobbying Activities (Standard Form LLL, which is in PHS 5161-1).

• Checklist (a form in PHS 5161-1).

☐ Applications should comply with the following requirements:

• Provisions relating to confidentiality, participant protection and the protection of human subjects specified in Section IV-2.4 of the FY 2005 standard funding announcements.

• Budgetary limitations as specified in Section I, II, and IV-5 of the FY 2005 standard funding announcements.

• Documentation of nonprofit status as required in the PHS 5161-1.

☐ Pages should be typed single-spaced in black ink, with one column per page. Pages should not have printing on both sides.

☐ Please number pages consecutively from beginning to end so that information can be located easily during review of the application. The cover page should be page 1, the abstract page should be page 2, and the table of contents page should be page 3. Appendices should be labeled and separated from the Project Narrative and budget section, and the pages should be numbered to continue the sequence.

☐ The page limits for Appendices stated in the specific funding announcement should not be exceeded.

☐ Send the original application and two copies to the mailing address in the funding announcement. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

Appendix B—Glossary

Best Practice: Best practices are practices that incorporate the best objective information currently available regarding effectiveness and acceptability.

Catchment Area: A catchment area is the geographic area from which the target population to be served by a program will be drawn.

Cooperative Agreement: A cooperative agreement is a form of Federal grant. Cooperative agreements are distinguished from other grants in that, under a cooperative agreement, substantial involvement is anticipated between the awarding office and the recipient during performance of the funded activity. This involvement may include collaboration, participation, or intervention in the activity. HHS awarding offices use grants or cooperative agreements (rather than contracts) when the principal purpose of the transaction is the transfer of money, property, services, or anything of value to accomplish a public purpose of support or stimulation authorized by Federal statute. The primary beneficiary under a grant or cooperative agreement is the public, as opposed to the Federal Government.

Cost Sharing or Matching: Cost sharing refers to the value of allowable non-Federal contributions toward the allowable costs of a Federal grant project or program. Such contributions may be cash or in-kind contributions. For SAMHSA grants, cost sharing or matching is not required, and applications will not be screened out on the basis of cost sharing. However, applicants often include cash or in-kind contributions in their proposals as evidence of commitment to the proposed project. This is allowed, and this information may be considered by reviewers in evaluating the quality of the application.

Fidelity: Fidelity is the degree to which a specific implementation of a program or practice resembles, adheres to, or is faithful to the evidence-based model on which it is based. Fidelity is formally assessed using rating scales of the major elements of the evidence-based model. A toolkit on how to develop and use fidelity instruments is available from the SAMHSA-funded Evaluation Technical Assistance Center at http://tecathsri.org or by calling (617) 876-0426.

Grant: A grant is the funding mechanism used by the Federal Government when the principal purpose of the transaction is the transfer of money, property, services, or anything of value to accomplish a public purpose of support or stimulation authorized by Federal statute. The primary beneficiary under a grant or cooperative agreement is the public, as opposed to the Federal Government.

In-Kind Contribution: In-kind contributions toward a grant project are non-cash contributions (e.g., facilities, space, services) that are derived from non-Federal sources, such as State or sub-State non-Federal revenues, foundation grants, or contributions from other non-Federal public or private entities.

Logic Model: A logic model is a diagrammatic representation of a theoretical framework. A logic model describes the logical linkages among program resources, conditions, strategies, short-term outcomes, and long-term impact. More information on how to develop logics models and examples can be found through the resources listed in Appendix C.

Practice: A practice is any activity, or collective set of activities, intended to improve outcomes for people with or at risk for substance abuse and/or mental illness. Such activities may include direct service provision, or they may be supportive activities, such as efforts to improve access to and retention in services, organizational efficiency or effectiveness, community readiness, collaboration among stakeholder groups, education, awareness, training, or any other activity that is designed to improve outcomes for people with or at risk for substance abuse or mental illness.

Practice Support System: This term refers to contextual factors that affect practice delivery and effectiveness in the pre-adoption phase, delivery phase, and post-delivery phase, such as (a) community collaboration and consensus building, (b) training and overall readiness of those implementing the practice, and (c) sufficient ongoing supervision for those implementing the practice.

Stakeholder: A stakeholder is an individual, organization, constituent group, or other entity that has an interest in and will be affected by a proposed grant project.

Sustainability: Sustainability is the ability to continue a program or practice after SAMHSA grant funding has ended.

Target Population: The target population is the specific population of people whom a particular program or practice is designed to serve or reach.

Wraparound Service: Wraparound services are non-clinical supportive services—such as child care, vocational, educational, and transportation services—that are designed to improve the individual's access to and retention in the proposed project.

Appendix C—Logic Model Resources

Chen, W.W., Cato, B.M., & Rainford, N. (1998-9). Using a logic model to plan and evaluate a community intervention program: A case study. International Quarterly of Community Health Education, 18(4), 449-458.

Edwards, E.D., Seaman, J.R., Drews, J., & Edwards, M.E. (1995). A community approach for Native American drug and alcohol prevention programs: A logic model framework. Alcoholism Treatment Quarterly, 13(2), 43-62.

Hernandez, M. & Hodges, S. (2003). Crafting Logic Models for Systems of Care: Ideas into Action. [Making children's mental health services successful series, volume 1]. Tampa, FL: University of South Florida, The Louis de la Parte Florida Mental Health Institute, Department of Child & Family Studies. http://cfs.fmhi.usf.edu or phone (813) 974-4651.

Hernandez, M. & Hodges, S. (2001). Theory-based accountability. In M. Hernandez & S. Hodges (Eds.), Developing Outcome Strategies in Children's Mental Health, pp. 21-40. Baltimore: Brookes.

Julian, D.A. (l997). Utilization of the logic model as a system level planning and evaluation device. Evaluation and Planning, 20(3), 251-257.

Julian, D.A., Jones, A., & Deyo, D. (1995). Open systems evaluation and the logic model: Program planning and evaluation tools. Evaluation and Program Planning, 18(4), 333-341.

Patton, M.Q. (1997). Utilization-Focused Evaluation (3rd Ed.), pp. 19, 22, 241. Thousand Oaks, CA: Sage.

Wholey, J.S., Hatry, H.P., Newcome, K.E. (Eds.) (1994). Handbook of Practical Program Evaluation. San Francisco, CA: Jossey-Bass Inc.

Appendix D—Sample Budget and Justification

Illustration of a Sample Detailed Budget and Narrative Justification to Accompany SF 424A: Section B for 01 Budget Period

Object Class Categories

Personnel

Job title | Name | Annual salary | Level of effort | Salary being requested
Project Director | J. Doe | $30,000 | 1.0 | $30,000
Secretary | Unnamed | 18,000 | 0.5 | 9,000
Counselor | R. Down | 25,000 | 1.0 | 25,000

Enter Personnel subtotal on 424A, Section B, 6.a. $64,000

Fringe Benefits (24%) $15,360

Enter Fringe Benefits subtotal on 424A, Section B, 6.b. $15,360

Travel

2 trips for SAMHSA Meetings for 2 Attendees (Airfare @ $600 x 4 = $2,400) + (per diem @ $120 x 4 x 6 days = $2,880) | $5,280
Local Travel (500 miles x .24 per mile) | 120

Enter Travel subtotal on 424A, Section B, 6.c. $5,400

Equipment (List Individually)

“Equipment” means an article of nonexpendable, tangible personal property having a useful life of more than one year and an acquisition cost which equals the lesser of (a) the capitalization level established by the governmental unit or nongovernmental applicant for financial statement purposes, or (b) $5000.

Enter Equipment subtotal on 424A, Section B, 6.d.

Supplies

Office Supplies | $500
Computer Software-1 WordPerfect | 500

Enter Supplies subtotal on 424A, Section B, 6.e. $1,000

Contractual Costs

Evaluation

Job title | Name | Annual salary | Salary being requested | Level of effort
Evaluator | J. Wilson | $48,000 | $24,000 | 0.5
Other Staff |  | 18,000 | 18,000 | 1.0

Fringe Benefits (25%) $10,500

Travel

2 trips x 1 Evaluator ($600 x 2) | $1,200
per diem @ $120 x 6 | 720
Supplies (General Office) | 500

Evaluation Direct | $54,920
Evaluation Indirect Costs (19%) | 10,435
Evaluation Subtotal | 65,355

Training

Job title | Name | Level of effort | Salary being requested
Coordinator | M. Smith | 0.5 | $12,000
2Admin. Asst. | N. Jones | 0.5 | 9,000

Fringe Benefits (25%) $5,250

Travel

2 Trips for Training Airfare @ $600 x 2 | $1,200
Per Diem $120 x 2 x 2 days | 480
Local (500 miles x .24/mile) | 120

Supplies

Office Supplies | $500
Software (WordPerfect) | 500

Other

Rent (500 Sq. Ft. x $9.95) | $4,975
Telephone | 500
Maintenance (e.g., van) | 2,500
Audit | 3,000

Training Direct | $40,025
Training Indirect | -0-

Enter Contractual subtotal on 424A, Section B, 6.f. $105,380

Other

Consultants = Expert @ $250/day X 6 day (If expert is known, should list by name) | $1,500

Enter Other subtotal on 424A, Section B, 6.h. $1,500

Total Direct Charges (sum of 6.a-6.h)

Enter Total Direct on 424A, Section B, 6.i. $192,640

Indirect Costs

15% of Salary and Wages (copy of negotiated indirect cost rate agreement attached)

Enter Indirect subtotal of 424A, Section B, 6.j. $9,600

Totals

Enter TOTAL on 424A, Section B, 6.k. $202,240

Justification

Personnel—Describe the role and responsibilities of each position.

Fringe Benefits—List all components of the fringe benefit rate.

Equipment—List equipment and describe the need and the purpose of the equipment in relation to the proposed project.

Supplies—Generally self-explanatory; however, if not, describe need. Include explanation of how the cost has been estimated.

Travel—Explain need for all travel other than that required by SAMHSA.

Contractual Costs—Explain the need for each contractual arrangement and how these components relate to the overall project.

Other—Generally self-explanatory. If consultants are included in this category, explain the need and how the consultant's rate has been determined.

Indirect Cost Rate—If your organization has no indirect cost rate, please indicate whether your organization plans to (a) waive indirect costs if an award is issued, or (b) negotiate and establish an indirect cost rate with DHHS within 90 days of award issuance.

Calculation of Future Budget Periods (Based on First 12-Month Budget Period)
[Review and verify the accuracy of future year budget estimates. Increases or decreases in the future years must be explained and justified and no cost of living increases will be honored. (Note: new salary cap of $175,700 is effective for all FY 2005 awards.) *]
| First 12-month Period | Second 12-month Period | Third 12-month Period
Personnel:
Project Director | 30,000 | 30,000 | 30,000
Secretary ** | 9,000 | 18,000 | 18,000
Counselor | 25,000 | 25,000 | 25,000
Total Personnel | 64,000 | 73,000 | 73,000
Fringe Benefits (24%) | 15,360 | 17,520 | 17,520
Travel | 5,400 | 5,400 | 5,400
Equipment | -0- | -0- | -0-
Supplies *** | 1,000 | 520 | 520
Contractual:
Evaluation **** | 65,355 | 67,969 | 70,688
Training | 40,025 | 40,025 | 40,025
Other | 1,500 | 1,500 | 1,500
Total Direct Costs | 192,640 | 205,934 | 208,653
Indirect Costs (15% S&W) | 9,600 | 9,600 | 9,600
Total Costs | 202,240 | 216,884 | 219,603
* Consistent with the requirement in the Consolidated Appropriations Act, Public Law 108-199.
** Increased from 50% to 100% effort in 02 through 03 budget periods.
*** Increased amount in 01 year represents costs for software.
**** Increased amounts in 02 and 03 years are reflected of the increase in client data collection.

The Federal dollars requested for all object class categories for the first 12-month budget period are entered on Form 424A, Section B, Column (1), lines 6a-6i. The total Federal dollars requested for the second through the fifth 12-month budget periods are entered on Form 424A, Section E, Columns (b)-(e), line 20. The RFA will specify the maximum number of years of support that may be requested.

Dated: October 12, 2004.
Daryl Kade,
Director, Office of Policy, Planning and Budget, Substance Abuse and Mental Health Services Administration.

[FR Doc. 04-23297 Filed 10-22-04; 8:45 am]

BILLING CODE 4162-20-P